DEPARTMENT OF HOUSING AND URBAN DEVELOPMENT

[Docket No. FR-4854-N-04]

Notice of Regulatory Waiver Requests Granted for the Fourth Quarter of Calendar Year 2003

AGENCY: Office of the Secretary, HUD.

ACTION: Notice.

SUMMARY: Section 106 of the Department of Housing and Urban Development Reform Act of 1989 (the HUD Reform Act) requires HUD to publish quarterly Federal Register notices of all regulatory waivers that HUD has approved. Each notice covers the quarterly period since the previous Federal Register notice. The purpose of this notice is to comply with the requirements of section 106 of the HUD Reform Act. This notice contains a list of regulatory waivers granted by HUD during the period beginning on October 1, 2003, and ending on December 31, 2003.

FOR FURTHER INFORMATION CONTACT: For general information about this notice, contact Aaron Santa Anna, Assistant General Counsel for Regulations, Room 10276, Department of Housing and Urban Development, 451 Seventh Street, SW., Washington, DC 20410-0500, telephone (202) 708-3055 (this is not a toll-free number). Persons with hearing or speech impairments may access this number through TTY by calling the toll-free Federal Information Relay Service at 800-877-8339.

For information concerning a particular waiver that was granted and for which public notice is provided in this document, contact the person whose name and address follow the description of the waiver granted in the accompanying list of waivers that have been granted in the fourth quarter of calendar year 2003.

SUPPLEMENTARY INFORMATION: Section 106 of the HUD Reform Act added a new section 7(q) to the Department of Housing and Urban Development Act (42 U.S.C. 3535(q)), which provides that:

1. Any waiver of a regulation must be in writing and must specify the grounds for approving the waiver;

2. Authority to approve a waiver of a regulation may be delegated by the Secretary only to an individual of Assistant Secretary or equivalent rank, and the person to whom authority to waive is delegated must also have authority to issue the particular regulation to be waived;

3. Not less than quarterly, the Secretary must notify the public of all waivers of regulations that HUD has approved by publishing a notice in the Federal Register. These notices (each covering the period since the most recent previous notification) shall:

a. Identify the project, activity, or undertaking involved;

b. Describe the nature of the provision waived and the designation of the provision;

c. Indicate the name and title of the person who granted the waiver request;

d. Describe briefly the grounds for approval of the request; and

e. State how additional information about a particular waiver may be obtained.

Section 106 of the HUD Reform Act also contains requirements applicable to waivers of HUD handbook provisions that are not relevant to the purpose of this notice.

This notice follows procedures provided in HUD's Statement of Policy on Waiver of Regulations and Directives issued on April 22, 1991 (56 FR 16337). This notice covers waivers of regulations granted by HUD from October 1, 2003, through December 31, 2003. For ease of reference, the waivers granted by HUD are listed by HUD program office (for example: the Office of Community Planning and Development, the Office of Housing, the Office of Public and Indian Housing). Within each program office grouping, the waivers are listed sequentially by the regulatory section of title 24 of the Code of Federal Regulations (CFR) that is being waived. For example, a waiver of a provision in 24 CFR part 58 would be listed before a waiver of a provision in 24 CFR part 570.

Where more than one regulatory provision is involved in the grant of a particular waiver request, the action is listed under the section number of the first regulatory requirement that appears in 24 CFR and that is being waived. For example, a waiver of both § 58.73 and § 58.74 would appear sequentially in the listing under § 58.73.

Waivers of regulations that involve the same initial regulatory citation are in time sequence beginning with the earliest-dated regulatory waiver.

Should HUD receive additional information about waivers granted during the period covered by this report before the next report is published, the next updated report will include these earlier waivers that were granted, as well as those that occurred during January 1, 2004, through March 31, 2004.

Accordingly, information about approved waiver requests pertaining to HUD regulations is provided in the Appendix that follows this notice.

Dated: July 27, 2004.
Alphonso Jackson,
Secretary.

Appendix—Listing of Waivers of Regulatory Requirements Granted by Offices of the Department of Housing and Urban Development, October 1, 2003, through December 31, 2003

Note to Reader: More information about the granting of these waivers, including a copy of the waiver request and approval, may be obtained by contacting the person whose name is listed as the contact person directly after each regulatory waiver granted.

The regulatory waivers granted appear in the following order:

I. Regulatory waivers granted by the Office of Community Planning and Development.

II. Regulatory waivers granted by the Office of Housing.

III. Regulatory waivers granted by the Office of Public and Indian Housing.

I. Regulatory Waivers Granted by the Office of Community Planning and Development

For further information about the following regulatory waivers, please see the name of the contact person that immediately follows the description of the waiver granted.

• Regulation: 24 CFR 91.520.

Project/Activity: Request for extension of the submission deadline for the 2002 program year for the Consolidated Annual Performance and Evaluation Report (CAPER) of Cook County, Illinois.

Nature of Requirement: The regulation at 24 CFR 91.520 requires each grantee to submit a performance report to HUD within 90 days after the close of the grantee's program year.

Granted By: Roy A. Bernardi, Assistant Secretary for Community Planning and Development.

Date Granted: November 18, 2003.

Reason Waived: Cook County's program year ended on September 30, 2003, and therefore its CAPER was due December 29, 2003. The county experienced a hardship beyond its control. A fire occurred in the county building resulting in the relocation of staff to another site where they shared space with other county employees. Because of the contaminants, the staff did not have ready access to files, documents and most equipment. If an extension of the deadline for submission of the CAPER report had been denied, the county would not have been able to submit a complete and accurate expenditure report on its 2002 program. The performance report provides local residents with information on the county's accomplishments during the year, and the report data goes into HUD's national database, which is used for various reporting purposes. While HUD desires timely reports, it is also interested in ensuring that the performance reports prepared by grantees are complete and accurate.

Contact: Nanci R. Doherty, Special Assistant to the Deputy Assistant Secretary, Community Planning and Development, Department of Housing and Urban Development, 451 Seventh Street, SW., Washington, DC 20410-7000, telephone (202) 708-2565.

• Regulation: 24 CFR 91.520.

Project/Activity: Request for extension of the submission deadline for the CAPER of the city of San Angelo, Texas.

Nature of Requirement: The regulation at 24 CFR 91.520 requires each grantee to submit a performance report to HUD within 90 days after the close of the grantee's program year. The city of San Angelo's program year ended on September 30, 2002, and therefore its CAPER was due December 29, 2003.

Granted By: Roy A. Bernardi, Assistant Secretary for Community Planning and Development.

Date Granted: November 18, 2003.

Reason Waived: The city requested an extension of its submission deadline to February 16, 2004. The resignation of a key staff member responsible for preparing the CAPER and the loss of two other staff members, only one of whom could be replaced, left the city with a staff shortage. In addition, the city spent much time providing information to HUD's Office of Inspector General (OIG) regarding a public housing authority investigation, and the city's Community Development office was asked to prepare a response to the OIG report. The city also was asked to provide information to the Department of Labor concerning a labor investigation. Finally, the city's independent auditor was conducting a compliance audit of the city's HOME and CDBG programs. The time that the city spent cooperating with and gathering information for these investigations and audits was extensive and, combined with the staff losses, resulted in the city being unable to expend the time needed to prepare its CAPER. If the request for extension deadline of submission of the CAPER report had been denied, the city would not have been able to submit a complete and accurate expenditure report on its 2002 program. While HUD desires timely reports, it is also interested in ensuring that the performance reports prepared by grantees are complete and accurate.

Contact: Nanci R. Doherty, Special Assistant to the Deputy Assistant Secretary, Community Planning and Development, Department of Housing and Urban Development, 451 Seventh Street, SW., Washington, DC 20410-7000, telephone (202) 708-2565.

• Regulation: 24 CFR 91.520.

Project/Activity: Request for extension of submission deadline for the CAPER of the city of Des Plaines, Illinois.

Nature of Requirement: The regulation at 24 CFR 91.520 requires each grantee to submit a performance report to HUD within 90 days after the close of the grantee's program year. The city's program year ended September 30, 2003. Therefore, its CAPER was due December 29, 2003.

Granted By: Roy A. Bernardi, Assistant Secretary for Community Planning and Development.

Date Granted: December 17, 2003.

Reason Waived: The city's letter of December 5, 2003, requested an extension of its submission deadline to February 27, 2004. The city's Community Development Block Grant Coordinator resigned in September 2003. The position was filled on an interim basis in October, but the city required additional time to complete the CAPER because of this change. If an extension of the deadline for submission of the CAPER had been denied, the city would not have been able to submit a complete and accurate performance report on its 2002 program. While HUD desires timely reports, it is also interested in ensuring that the performance reports prepared by grantees are complete and accurate.

Contact: Nanci R. Doherty, Special Assistant to the Deputy Assistant Secretary, Community Planning and Development, Department of Housing and Urban Development, 451 Seventh Street, SW., Washington, DC 20410-7000, telephone (202) 708-2565.

• Regulation: 24 CFR 92.502(d)(2).

Project/Activity: City of Springfield, Ohio—Investment of HOME Funds.

Nature of Requirement: The regulation at 24 CFR 92.502(d)(2) prohibits the investment of additional HOME funds in a project after one year has passed from the date of project completion. The purpose of the prohibition is to ensure that projects are brought up to all applicable standards at the time the HOME-funded work is performed and that HOME funds are not used for on-going maintenance or replacement costs.

Granted By: Roy A. Bernardi, Assistant Secretary of Community Planning and Development.

Date Granted: December 12, 2003.

Reason Waived: Chronic under-occupancy and lack of improvements to the property resulted in multiple sales and eventual foreclosure of the property. The most recent purchaser was willing to rehabilitate and maintain all the HOME-assisted units as affordable units. At HUD's request, the city extended the period of affordability by five years although the additional funding requested in combination with the original investment did not trigger the longer affordability period. The city's efforts to restore the viability of this project over several years, in light of the fact that the regulations permit the restrictions to lapse in the event of foreclosure, constituted good cause for a waiver.

Contact: Nanci R. Doherty, Special Assistant to the Deputy Assistant Secretary, Community Planning and Development, Department of Housing and Urban Development, 451 Seventh Street, SW., Washington, DC 20410-7000, telephone (202) 708-2565.

• Regulation: 24 CFR 92.503(b).

Project/Activity: State of Colorado—Repayment of HOME Funds.

Nature of Requirement: The regulation at 24 CFR 92.503(b) requires the repayment of HOME funds in the event a property does not meet the HOME affordability requirements for the period of time specified in 24 CFR 92.252 or 92.254.

Granted By: Roy A. Bernardi, Assistant Secretary for Community Planning and Development.

Date Granted: October 6, 2003.

Reasons Waived: Due to insufficient rents, the owner was forced to sell a property containing two HOME-assisted units to stabilize the financial viability of its remaining properties. In an effort to avoid repayment of the entire initial HOME investment, the state of Colorado requested the owner to substitute two one-bedroom units in another property, which was not federally subsidized, at rents significantly below the HOME maximum rent for the area. The proposed units were found to be acceptable comparable unit substitution in lieu of repayment, which also advanced HUD's efforts to preserve the availability of affordable housing in the state of Colorado.

Contact: Nanci R. Doherty, Special Assistant to the Deputy Assistant Secretary, Community Planning and Development, Department of Housing and Urban Development, 451 Seventh Street, SW., Washington, DC 20410-7000, telephone (202) 708-2565.

II. Regulatory Waivers Granted by the Office of Housing

For further information about the following regulatory waivers, please see the name of the contact person that immediately follows the description of the waiver granted.

• Regulation: 24 CFR 200.40 (d)(1) and (h).

Project/Activity: The following projects requested waivers of the application fee in 24 CFR 200.40 (d)(1) and the transfer fee defined in 24 CFR 200.40(h).

FHA No. | Project name | Project city | State
05435505 | The Glens | Rock Hill | SC
04635514 | Walnut Hills | Cincinnati | OH
08335351 | Cumberland Manor Apartments | Cumberland | KY
01411044 | Jefferson Village Apartments | Watkins Glen | NY
09135083 | Lakeview Apartments | Eureka | SD
09335098 | Grandview Place | Missoula | MT
04635551 | Cypress Commons | Middletown | OH
05335448 | Gateway Village | Hillsborough | NC
05335357 | JFK Towers | Durham | NC
05335400 | Lynnhaven Apartments | Durham | NC
01435061 | Badger Creek Meadow Apartments | Painted Post | NY
10135348 | Villa Fourteen | Ault | CO
11335069 | River Park Village Apartments | Lampasas | TX
13335057 | Garden Apartments | Lubbock | TX
12638021 | Knights of Pythias | Vancouver | WA
07135648 | Cyril Court Apartments | Chicago | IL
07435136 | Autumn House Apartments | Creston | IA
05235370 | Monterey Apartments | Baltimore | MD
03135241 | Chestnut Street Housing | Passaic | NJ
04235383 | Northgate Apartments | Toledo | OH
12235495 | Valley View Apartments | Delano | CA
05435403 | Clinton Manor | Clinton | SC
11435034 | Union Acres Apartments | Center | TX
07335464 | Woodland East Apartments III | Michigan City | IN
07135480 | 325 North Austin Apartments | Chicago | IL
04735103 | Park Wood Apartments | Muskegon | MI
04735110 | East Glen Apartments | East Lansing | MI
02335276 | Dimock-Bragdon Apartments | Boston | MA
01257304 | Macombs Village | Bronx | NY
01257283 | Sutter Gardens | Brooklyn | NY
06235333 | Crossgates Apartments | Demopolis | AL
17635020 | Coho Park Apartments | Juneau | AK
06235371 | Chalkville Manor Apartments | Birmingham | AL
06235304 | Medical Center Terrace | Dothan | AL
06235157 | Four Winds West Apartments | Birmingham | AL
06235378 | Livingston Meadows | Livingston | AL
06235352 | Running Brook Apartments | Tuscaloosa | AL
08235227 | Maywood Apartments | Hughes | AR
08235196 | White River Apartments | Diaz | AR
12335109 | Bonita Vista Apartments | Sierra Vista | AZ
12235509 | Adams Blvd. Apartments | Los Angeles | CA
13635647 | Deer Creek Apartments | Yreka | CA
12235416 | Fernwood Apartments | Lancaster | CA
12235489 | Harvard Gardens | Los Angeles | CA
14335034 | Sunnyview Villa | Palm Springs | CA
13635643 | Valley Heights | Quincy | CA
12235480 | Verner Villa | Pico Rivera | CA
10135338 | Fountain Townhomes | Fountain | CO
10135341 | Ratekin Towers | Grand Junction | CO
01735160 | Number One Norton | New Haven | CT
01735210 | Village Apartments | South Meriden | CT
01735184 | Abbott Towers/Enterprise Apartments | Waterbury | CT
01735185 | Waterbury NSA II | Waterbury | CT
06635166 | Civic Towers Apartments | Miami | FL
06735255 | Cocoa Lakes Apartments | Cocoa | FL
06335205 | College Trace Apartments | Pensacola | FL
06735263 | Country Oaks Apartments | Tampa | FL
06735253 | Crystalwood Apartments | Lakeland | FL
06735271 | Dixie Grove Apartments | Orlando | FL
06335206 | Harbour Place Apartments | Pensacola | FL
06735196 | Little Turtle Apartments | Leesburg | FL
06335204 | Mandarine Trace Apartments | Jacksonville | FL
06335200 | Pine Meadows Apartments | Gainesville | FL
06735246 | Ridgedale Apartments | Avon Park | FL
06735243 | Ridgewood Apartments | Winter Haven | FL
06635162 | Robert Sharp Towers II | North Miami Beach | FL
06335202 | Sand Dunes Apartments | Panama City Beach | FL
06735252 | Summit Ridge Apartments | Brandon | FL
06335199 | Westwood Homes | Pensacola | FL
06135365 | Bull Creek Apartments | Columbus | GA
06135373 | Heatherwood Apartments | Rome | GA
07435184 | Greenway of Burlington | Burlington | IA
07435157 | Oak Park Village | Cedar Rapids | IA
07435171 | River Terrace Apartments | Keokuk | IA
07235081 | Bissel Apartments | Venice | IL
07135465 | Continental Plaza Apartments | Chicago | IL
07135487 | Lafayette Terrace Apartments | Chicago | IL
07135472 | North Washington Park Estates | Chicago | IL
07135460 | O'Keefe Apartments | Chicago | IL
07135389 | South Apartments | Chicago | IL
07135500 | South Shore Apartments | Chicago | IL
07235082 | Storey Manor Apartments | Cottage Hills | IL
07235064 | The Downtowner | Bloomington | IL
07335450 | Carriage House of Muncie | Muncie | IN
07335447 | Rosewood Apartments | Gary | IN
07335448 | The Crossings II Apartments | Evansville | IN
07335454 | Town and Country Apartments | Elkhart | IN
10235011 | Osage Trails/Westgate Homes | Parsons | KS
08335375 | Bella Gardens Apartments | Middlesboro | KY
08335323 | Carl D. Perkins Apartments | Pikeville | KY
08335376 | College Heights Apartments | Barbourville | KY
08335314 | Dupont Manual Apartments | Louisville | KY
08335343 | Eastwood Apartments | Sandy Hook | KY
08335301 | Happy Hollow Apartments | Middlesborough | KY
08335379 | Mountain Breeze Apts (also known as (aka) Valley View) | Jenkins | KY
08335321 | Osage Estates | New Castle | KY
08335274 | Pride Terrace Apartments | Cumberland | KY
08335338 | Vernon Manor Apartments | Clay City | KY
06435231 | Auburn Place Apartments | De Ridder | LA
05935213 | Benton Manor Apartments | Benton | LA
05935206 | Burton Place Apartments | Monroe | LA
05935214 | Fair Park Terrace | Shreveport | LA
05935198 | Sparta Place Apartments | Ruston | LA
06492002 | Villa D'Ames Apartments | Marrero | LA
02335257 | Binnall House | Gardner | MA
02335283 | Claflin House | Framingham | MA
02335244 | Dawson Building | New Bedford | MA
02335271 | Kenyon College Estates | Springfield | MA
05235310 | Barclay Townhouses | Baltimore | MD
05235029 | Bentalou Court | Baltimore | MD
05235337 | Cedar Hill Apartments | North East | MD
05235330 | Franklin Center | Baltimore | MD
05235397 | Franklin Square Apartments | Baltimore | MD
05235050 | Garrison Apartments | Baltimore | MD
05235027 | Mosher Court Apartments | Baltimore | MD
05235061 | Pimlico Apartments | Baltimore | MD
05235300 | Washington Gardens | Hagerstown | MD
05235126 | Woodlands Apartments III | Baltimore | MD
02435040 | Chestnut Place | Lewiston | ME
04735184 | Stuyvesant Apartments | Grand Rapids | MI
08435239 | Brookfield Village | Brookfield | MO
08535299 | Cabool Apartments | Cabool | MO
08535215 | DeSoto Apartments I | DeSoto | MO
08535277 | Flat River Apartments | Flat River | MO
08535331 | Fulton Apartments | Fulton | MO
08535317 | Hannibal Manor | Hannibal | MO
08535300 | Kennett Apartments | Kennett | MO
08535339 | Minerva Place Apartments | St. Louis | MO
08535327 | Mountain View Apartments | Mountain View | MO
08535314 | Portageville Apartments | Portageville | MO
08535325 | Shelbina Apartments | Shelbina | MO
08435134 | Springview Gardens | Joplin | MO
08535348 | Union Sarah 510 Demonstration | St. Louis | MO
08435126 | Wesley Senior Towers | St. Joseph | MO
08535301 | West Plains Apartments | West Plains | MO
08535335 | Willow Springs Apartments | Willow Springs | MO
06535275 | Maureen A.S. Jones Apartments | Greenwood | MS
06535335 | Rosewood Apartments | Rosedale | MS
06535317 | W.J. Bishop Apartments | Greenwood | MS
09344060 | Hearthstone | Anaconda | MT
05335450 | Conway Village Apartments | Conway | NC
05335366 | Duplin County Housing | Rose Hill | NC
05335372 | Pinewood Apartments | Dunn | NC
05335420 | Richmond Village Apartments | Hamlet | NC
05335429 | Torhunta Apartments | Fremont | NC
02435052 | Sugar River Mills Housing | Claremont | NH
03135259 | Corinthian Towers | East Orange | NJ
03135189 | Garrett Apartments | Englewood | NJ
03135269 | St. Mary's Villa | Newark | NJ
03135167 | Van Wagenen II Apartments | Jersey City | NJ
12535081 | Walnut Gardens | Las Vegas | NV
01257080 | Albany-Decatur Rehabilitation | Brooklyn | NY
01257144 | Albert Goodman Plaza | Bronx | NY
01235472 | Barkley Gardens | Liberty | NY
01335078 | Brick School Terrace (aka 16th Apts.) | Syracuse | NY
01257141 | Bruckner Houses | Bronx | NY
01235479 | Burt Farms II | Warwick | NY
01435051 | Colt Block Apartments | Niagara Falls | NY
01335090 | Crestview Gardens | Rouses Point | NY
01257075 | Davidson Avenue Rehab II | Bronx | NY
01335108 | Genesee Towers | Utica | NY
01257152 | Highbridge Concourse II | Bronx | NY
01335123 | Huntington Heights (aka Watertown Apts) | Watertown | NY
01257164 | Jerome Terrace Apartments | Bronx | NY
01335102 | James F. Lettis Apartments | Oneonta | NY
01235410 | John Crawford Senior Citizen Housing | Monticello | NY
01257211 | Kingsbridge Decatur Phase 1 | Bronx | NY
01335117 | Lillian Y. Cooper Apartments | Utica | NY
01257168 | Lincoln Residence | Brooklyn | NY
01257303 | McKenna Square Houses | New York | NY
01257198 | Morrisania IV | Bronx | NY
01235312 | Marion Avenue Rehabilitation | Bronx | NY
01257202 | New West 111th Street Phase II | New York | NY
01235484 | Meadowbrook Farms (aka New Paltz) | New Paltz | NY
01335109 | Ninth Street NSA II | Troy | NY
01257142 | Noonan Plaza | Bronx | NY
01335076 | Ogden Mills Apartments (10th Apts.) | Cohoes | NY
01257162 | Pennsylvania Avenue Apartments | Brooklyn | NY
01335115 | Pontiac Terrace Apartments | Oswego | NY
01335097 | Woodsboro Apartments | Baldwinsville | NY
01257113 | St. John's Place—Phase I | Brooklyn | NY
01257180 | Union Gardens I | Brooklyn | NY
01257161 | Unity Apartments | Brooklyn | NY
01257320 | Hudson View III | New York | NY
01257076 | 1988 Davidson Avenue | Bronx | NY
01257169 | Rochester Sterling Apartments | Brooklyn | NY
04335280 | Barnett Plaza Apartments | Columbus | OH
04235343 | Bay Meadows Apartments | Port Clinton | OH
04235342 | Bucyrus Plaza | Bucyrus | OH
04635554 | Camden Way II | Camden | OH
04235312 | Chateau I | East Cleveland | OH
04335291 | Colony Terrace II | Zanesville | OH
04235302 | Nela Manor | Akron | OH
04635549 | Darby Hills | Cincinnati | OH
04235396 | Findlay Green Apartments | Findlay | OH
04335176 | Hillside Apartments | Mount Vernon | OH
04235365 | Lake Avenue Commons | Cleveland | OH
04235344 | Little Bark Manor | Fremont | OH
04235345 | Little Bark View | Fremont | OH
04635534 | Maywood Apartments | Cincinnati | OH
04235373 | Newton Woods | Akron | OH
04335282 | Rivertown Apartments | Portsmouth | OH
04235397 | Salem Acres (aka Salem I) | Salem | OH
04635516 | Southland Village | Miamisburg | OH
04235266 | Westview Apartments | Youngstown | OH
04235313 | William E. Fowler, Sr. Apts, II | Akron | OH
03335144 | Charles Street Apartments | Turtle Creek | PA
03435174 | Finch Towers | Scranton | PA
03438026 | Gray Manor Apartments | Philadelphia | PA
03335217 | Heritage Park Apartments | White Oak | PA
03444115 | Hugh Carcella Apartments | Reading | PA
03335135 | Swissvale Towers | Pittsburgh | PA
05635100 | Alturas De Penuelas | Penuelas | PR
05635132 | Miramar Housing | Ponce | PR
05635093 | Montblanc Housing | Yauco | PR
05635121 | Villa Blanca Apartments | Caguas | PR
05635122 | Villas De Humacao | Humacao | PR
05635094 | Vistas De Jagueyes | Aguas Buenas | PR
01635066 | Hanora Lippitt Mills Apartments | Woonsocket | RI
05411049 | Forest Villa Apartments | Manning | SC
05435139 | Hickory Heights Apartments | Abbeville | SC
05435466 | The Carolina | Columbia | SC
09135076 | R & S Village—Scotland | Scotland | SD
09135075 | R & S Village—Freeman | Freeman | SD
08635167 | Bell Street Apartments | Smithville | TN
08735117 | Dunlap Gardens | Dunlap | TN
08635147 | Savannah Townhouses | Savannah | TN
08735125 | Sneedville Gardens | Sneedville | TN
08735116 | Village Apartments | Mountain City | TN
11535193 | Meadow Park Village | Lockhart | TX
11535194 | Nolan Terrace | Luling | TX
11535233 | Poesta Creek Apartments | Beeville | TX
11535197 | Sandy Oaks Apartments | Aransas Pass | TX
11535218 | Smithville Garden Apartments | Smithville | TX
10535058 | Dominguez Park III | Salt Lake City | UT
05135300 | John Perry House | Woodstock | VA
05135345 | Settlers Point Apartments | Damascus | VA
12735339 | Montesano Annex Apartments | Montesano | WA
04535153 | Princeton Village | Princeton | WV
10935055 | Eastward Court Apartments | Casper | WY
10935050 | Stagecoach Apartments | Rawlins | WY
00035341 | Southern Hills Apartments | Washington | DC
01411050 | Nunda Villager Apartments | Nunda | NY
03535090 | Oakland Park Apts. (aka Roger Gardens) | Trenton | NJ
05194004 | Pinebrook Village Apartments | Richmond | VA
10111098 | Aurora East Apartments | Aurora | CO
10135413 | Hanigan Terrace Apartments | Denver | CO
10135422 | Fourth and Fox Apartments | Denver | CO
10135514 | Windsor Court Apartments | Aurora | CO
12594004 | Sierra Pointe Apartments | Las Vegas | NV
12594009 | Baltimore Garden Apartments | Las Vegas | NV
12594010 | Granada Apartments | Las Vegas | NV
12594011 | Cleveland Garden Apartments | Las Vegas | NV
11735191 | Rolling Green Apartments | Edmond | OK
04335293 | Lawrence Commons | South Point | OH
12735331 | Marion Court Apartments | Bremerton | WA
03435201 | Lancaster Apartments | Lancaster | PA
04235368 | Help-Six Chimneys, Inc. | Cleveland | OH
10144089 | Island Grove Village | Greeley | CO
10535066 | Windsong II | Clearfield | UT
01335114 | Georgian Arms Apartments | Rome | NY
12735349 | Fremont Village | Longview | WA
07135524 | West End Rehab | Chicago | IL
04335294 | Laurel Estates | Belpre | OH
04235346 | North Towne Village | Toledo | OH
04235377 | Whispering Hills | Toronto | OH
04235385 | Vistula Heritage II | Toledo | OH
09144005 | Heritage Estates | Brookings | SD
08435263 | Village Place | Bethany | MO
06535332 | Broadmoor Apartments | Byhalia | MS
05935215 | Bayou Galion Apartments | Mer Rouge | LA
05135347 | Willow Oaks | South Boston | VA
11435266 | Heritage Square | Texas City | TX
06235336 | Village Green Apartments | Red Bay | AL
12235570 | Plummer Village | Northridge | CA
12235545 | Robert Farrell Manor | Los Angeles | CA
12235548 | Ethel Arnold Bradley | Los Angeles | CA
12235536 | Glenoaks Townhomes | Los Angeles | CA
12235551 | Hamlin Estates | North Hollywood | CA
07335456 | Centennial Townhomes | Fort Wayne | IN
10135330 | Valley Sun Village | Cortez | CO
12735209 | Winthrop Apartments | Tacoma | WA
06135380 | Renaissance Villa Apartments | Columbus | GA
00035283 | Atlantic Gardens | Washington | DC
03435185 | Cobbs Creek NSA | Philadelphia | PA
10135241 | Summersong Townhouses | Aurora | CO
03335147 | Verona Gardens | Verona | PA
12235565 | Buckingham Apatments | Los Angeles | CA
10292501 | Plaza Apartments | Coffeyville | KS
10135344 | Mount Massive Manor | Leadville | CO
13335054 | High Plains Apartments | Lubbock | TX
06235350 | Hermitage Knoll Apartments | Florence | AL
04235395 | Lawrence Saltis Plaza | Stow | OH
10935048 | Village Gardens Apartments | Casper | WY
12135729 | Herald Hotel | San Francisco | CA
04235376 | Plaza Apartments | Canton | OH
06735267 | Clearwater Apartments | Clearwater | FL
06435243 | Oakwood Apartments | Leesville | LA
04235512 | Chadwick Place Apartments | Elyria | OH
04744017 | Kings Community Homes | Jackson | MI
08735150 | Ocoee Village Apartments | Cleveland | TN
01257290 | MBD III | Bronx | NY
12235530 | Sierra Villa East | Lancaster | CA
08335348 | Hydreco Apartments | Olive Hill | KY
10535074 | Massey Plaza | Ogden | UT
17135196 | Three Rivers Retirement Apartments | Richland | WA
05235333 | Stonecroft Apartments | Hagerstown | MD
04335298 | Lehnert Green Apartments | Galloway | OH
04335288 | Carpenter Hall Apartments | Athens | OH
05935218 | Park Place Manor Apartments | Shreveport | LA
01735209 | Zion Park | Hartford | CT
08235231 | Hicky Garden Apartments | Marianna | AR
04335290 | Crossgates, Ltd. | Springfield | OH
08335357 | Madison Tower | Richmond | KY
08335391 | Northside Apartments | Morganfield | KY
01635071 | Broadway West Broadway | Newport | RI
05335368 | Scotland Manor Apartments | Laurinburg | NC
08335311 | Bruce II Apartments | Ashland | KY
12235581 | Douglas Park Apartments | Compton | CA
12235569 | Pace Villa | Los Angeles | CA
12235506 | Nikkei Village | Pacoima | CA
03335150 | Hazelwood Towers/Plaza | Pittsburgh | PA
04535138 | Alderson Manor | Alderson | WV
05494002 | Colony Apartments | Columbia | SC
11435316 | Park Place Apartments | Cleveland | TX
06335190 | Timuquana Park Apartments | Jacksonville | FL
09344054 | Columbus Plaza | Butte | MT
08435258 | Ridgewood Hills | Harrisonville | MO
03432045 | 15th & Jefferson | Philadelphia | PA
05935205 | Willow Village Apartments | Bernice | LA
04635552 | Heritage Village Apartments | Cincinnati | OH
04735009 | Little Blue Lake Cooperative | Twin Lake | MI
10535062 | Jefferson Park Apartments | St. George | UT
10535061 | Suncrest Park | Provo | UT
01435038 | Crestline Villa | Jamestown | NY
06235373 | Arrowood Apartments | Boligee | AL
04235347 | Lakeshore Village | Cleveland | OH
10535067 | St. Benedicts Manor II | Ogden | UT
10538008 | R.L. Courts | Ogden | UT
10535057 | R.L. Courts II | Ogden | UT
07335292 | Capri II Apartments | Bluffton | IN
06235384 | Village Square Apartments | Russellville | AL
01335106 | Schenectady Forty | Schenectady | NY
05435501 | Pageland Place Apartments | Pageland | SC
10135336 | Corazon Square | Trinidad | CO
04335281 | Park Place | Columbus | OH
01335080 | Mid Warren NSA | Hudson | NY
04635531 | Fair Park Apartments | Sardina | OH
08335383 | Wellesley Apartments | Louisville | KY
08335353 | Rolling Ridge Apartments | New Haven | KY
08335361 | Greenwood Villa Apartments | Bowling Green | KY
03435186 | Williamsport NSA | Williamsport | PA
04544008 | Berkeley Gardens | Martinsburg | WV
03135183 | King's Row Apartments | Middletown | NJ
05135344 | The Meadows Apartments | Lynchburg | VA
11635109 | Highland Park Apartments | Las Cruces | NM
08735112 | Sunnycrest Apartments | Erwin | TN
05335216 | Woodstone Apartments | Charlotte | NC
05335402 | Meadow Woods Apartments | Fairmont | NC
06235318 | Russel Erskine Apartments | Huntsville | AL
05935216 | Northside Villa | Shreveport | LA
05294016 | Kingsley Park Apartments | Baltimore | MD
05944053 | Towneast Apartments | Bastrop | LA
10535076 | Jefferson Circle | Salt Lake City | UT
01335083 | Mansions Rehab Project | Albany | NY
10135337 | Meeker Family and Elderly Housing | Meeker | CO
10135343 | Creekside Gardens | Loveland | CO
08335374 | Bismarck Apartments | Covington | KY
13335056 | Spring Terrace Apartments | Amarillo | TX
05935212 | Webster Manor Apartments | Minden | LA
01335122 | Pastures Preservation (Pastures Redevelopment) | Albany | NY
12144819 | Lawrence Moore Manor | Berkeley | CA
12144812 | Satellite Senior Homes (Satellite Central Apts) | Oakland | CA
12144817 | Otterbein Manor | Oakland | CA
02435046 | Centre Ville Commons | Lewiston | ME
06412001 | Catholic Presbyterian Apartments | Baton Rouge | LA
08335061 | Campton Methodist Housing I | Campton | KY
11835116 | West Edison Plaza Apartments | Tulsa | OK
08335277 | Holly Point Apartments | Harlan | KY
04235399 | Fostoria Green | Fostoria | OH
10135339 | Mountan View Apartments | Gunnison | CO
12335132 | Casas De Esperanza | Douglas | AZ
12335129 | Pioneer Village | Douglas | AZ
02335275 | St. James Commons | Springfield | MA
01335116 | Champlain Family Housing | Rouses Point | NY
01335095 | Faxton Scott House (aka Margaret Knamm Apts) | Utica | NY
05335451 | Bay Tree Apartments | Fuquay-Varina | NC
04235400 | Findlay I (Findlay Commons) | Findlay | OH
12235542 | College Park Apartments | Lancaster | CA
12935078 | North River Club | Oceanside | CA
06235355 | Oak Trace Apartments | Tuscaloosa | AL
03435213 | Breslyn Apartments | Philadelphia | PA
12335121 | Myrtle Manor | Phoenix | AZ
14335076 | Vista Park Chino | Chino | CA
12235501 | Canoga Park | Los Angeles | CA
08535343 | Murphy Blair Rehab III | St. Louis | MO
12235528 | Antelope Valley Apartments | Lancaster | CA
12335135 | Guadalupe Barrio Nuevo | Guadalupe | AZ
08635145 | Tiptonville Meadows Apartments | Tiptonville | TN
08135185 | Ripley Meadows First Addition | Ripley | TN
09435040 | Patterson Place | Bismarck | ND
10335089 | Kearney Plaza Townhomes | Kearney | NE
04235323 | Hampton Court | Toledo | OH
07335297 | Jamestown Square of Vincennes | Vincennes | IN
05935162 | Richland Apartments | Rayville | LA
05935179 | Trishell Apartments | Monroe | LA
13644054 | Filipino Center | Stockton | CA
12235544 | Summerfield Place | Bakersfield | CA
04635553 | Lake Grant Apartments | Mt. Orab | OH
10535051 | Landmark Apartment Village | Tooele | UT
01257285 | Penn Gardens I | Brooklyn | NY
12735356 | Goldsborough Creek Apartments | Shelton | WA
05435502 | Duncan Village Apartments | Duncan | SC
06635161 | Lincoln Fields Apartments | Miami | FL
04235391 | Springhill Homes | Akron | OH
08335381 | Rivertown Apartments | Louisville | KY
03435194 | Freeland III Housing | Freeland | PA
08335380 | Chenoweth Woods Apartments | Middletown | KY
05335346 | Walnut West Apartments | Elizabeth City | NC
12511044 | Reno Apartments | Reno | NV
12511046 | Willow Creek Apartments | Reno | NV
12511045 | Linden Apartments | Reno | NV
06735260 | Harbor Court Apartments | Haines City | FL
02435058 | Pierce Place/St. Laurent | Lewiston | ME
02435060 | Bartlett Court | Lewiston | ME
05235307 | Poppleton Place Apartments | Baltimore | MD
11835118 | River Bank Plaza | Tulsa | OK
08435257 | The Lancelot Apartments | Springfield | MO
07435176 | Logan Park Apartments | Des Moines | IA
07435183 | LeMars Estates | LeMars | IA
04235360 | Shaker Place Apartments | Highland Hills | OH
06411056 | Kingsway Apartments | Monroe | LA
06135370 | Georgian Woods Apartments | Douglas | GA
01335119 | Macartovin Apartments | Utica | NY
08635186 | Sunset Village Apartments | Clarksville | TN
06635186 | T.M. Alexander Apartments | Miami | FL
06235302 | Crooked Creek Apartments | Opelika | AL
01735218 | Country Village Apartments | Waterbury | CT
03135228 | Avon Hills Apartments | Newark | NJ
03135231 | Cathedral Park Apartments | Newark | NJ
01235566 | Ellenville Urban Renew Hsg (aka Canal Lock Apts) | Ellenville | NY
11835106 | Hornet Apartments | Vinita | OK
11835097 | Twin Villa Apartments | Pryor | OK
01335113 | Woodburn Court II | Binghamton | NY
00035168 | Parkchester I Apartments | Washington | DC
06535352 | Higgins McLaurin Arms Apartments | Clarksdale | MS
06535340 | Lower Woodville Heights Apts. | Natchez | MS
06235026 | Joel Court Apartments | Prichard | AL
11635107 | Montgomery Manor Apartments | Albuquerque | NM
11635110 | Lintero Apartments | Silver City | NM
11635104 | Gatewood Village Apartments | Clovis | NM
11635101 | Northgate Village Apartments | Farmington | NM
11635108 | Sagebrush Place Apartments | Gallup | NM
05335387 | Northwood Apartments | Burgaw | NC
07135455 | Loma Linda Apartments | Silvis | IL
05335426 | California Arms Apartments | Marion | NC
06235383 | Jefferson Davis Apartments | Montgomery | AL
06444059 | Josephine Apartments | New Orleans | LA
02335266 | Douglas House | Brockton | MA
10135304 | La Alma Housing | Denver | CO
07135481 | Corcoran Place Apartments | Chicago | IL
05235593 | Sunshine Village Apartments | Pocomoke City | MD
00035320 | Southview II Apartments | Washington | DC
00035303 | Ritch Homes | Washington | DC
05235359 | Charles Landing South | Indian Head | MD
07235085 | Dawson Manor | East St. Louis | IL
02335287 | Centennial Island Apartments | Lowell | MA
13638040 | Auburn Ravine Terrace | Auburn | CA
04235380 | Amesbury Rosalind Estate | Cleveland | OH
08535349 | Hidden Valley Estates | Wentzville | MO
08411044 | John B Hughes II | Springfield | MO
11435315 | Rampart Apartments | Port Arthur | TX
04644041 | Twin Gables Apartments | Hamilton | OH
04335023 | Heritage Court I | Bellefontaine | OH
04344033 | Heritage Court II Apartments | Bellefontaine | OH
05435473 | Spruce Pines Apartments | Landrum | SC
12335140 | Paradise Shadows Apartments | Phoenix | AZ
05335385 | Robin Ridge Apartments | Robbinsville | NC
04635568 | Walnut Towers | Cincinnati | OH
07335230 | Fairington Apartments of Clarksville | Clarksville | IN
04635564 | Western Glen Apartments | Cincinnati | OH
01335126 | Elizabeth Square Apartments | Waverly | NY
03135237 | Arlington Arms Apartments | Jersey City | NJ
06135383 | Moultrie Manor Apartments | Moultrie | GA
10535065 | Windsong I | Clearfield | UT
08335382 | Lynn Acres Apartments | Shelbyville | KY
10135334 | Northeast Plaza | Sterling | CO
04235303 | Rosaline Apartments | Akron | OH
09435043 | The 400 | Fargo | ND
08535323 | Lakewood Apartments | Columbia | MO
10235164 | Tumbleweed Apartments | Lyons | KS
10135332 | Silver Spruce Apartments | Kremmling | CO
12135731 | Dakota Meadows | Fresno | CA
03135256 | Montgomery Village | Jersey City | NJ
01435058 | Wedge Point Court | Rochester | NY
01257294 | 1451 Development | Brooklyn | NY
01257068 | Sonia Rivera | Bronx | NY
06535026 | St. Francis Apartments | Meridian | MS
11835102 | McAlester Plaza | McAlester | OK
08335360 | Berrytown Apartments | Louisville | KY
08335356 | Lincoln Trail Apartments | Elizabethtown | KY
01657008 | Barbara Jordan Apartments I | Providence | RI
01635078 | Barbara Jordan Apartments II | Providence | RI
10935054 | Shoshone Court | Cody | WY
04235384 | The Plaza Apartments | Toledo | OH
03435203 | Pheasant Run Apartments | Harleysville | PA
08335359 | Colony House Apartments | Barlow | KY
06435239 | Chateau Du Lac | Lake Charles | LA
03435188 | Catasauqua Apartments | Catasauqua | PA
02335278 | Millhouses of Adams | Adams | MA
02335289 | Hancock Court | Quincy | MA
10244025 | Dale Apartments | Coffeyville | KS
07135649 | The Whitmore Apartments | Chicago | IL
05335449 | Grier Park Apartments | Charlotte | NC
05335456 | Westside Apartments | Charlotte | NC
12735328 | Fern Hill Terrace | Tacoma | WA
07135506 | Bennett Apartments | Chicago | IL
11635105 | Westwood Village Apartments | Albuquerque | NM
02435059 | Bates Terrace | Lewiston | ME
08335371 | River Park Apartments | Louisville | KY
07335457 | Bremen Village Apartments | Bremen | IN
07335409 | Fall Creek Village I | Indianapolis | IN
12235587 | Pleasant Hills Home | Los Angeles | CA
08135187 | Lexington Village Apartments | Lexington | TN
04535139 | Circle Brook Apartments | Cowen | WV
04235381 | Stow Kent Gardens | Stow | OH
10135342 | Highland South Apartments | Wheat Ridge | CO
08335275 | Brown Proctor Apartments | Winchester | KY
08335352 | Grand Central Apartments | Somerset | KY
12335131 | Sunland Terrace | Phoenix | AZ
01335121 | Burns Apartments | Troy | NY
05435475 | Lancaster Manor Apartments | Lancaster | SC
05335457 | Crestview Apartments | Durham | NC
05335455 | Liberty Village Apartments | Liberty | NC
01257299 | Beck Street Rehab | Bronx | NY
05135334 | Lee Highway Manor Elderly Apartments (Stratford) | Roanoke | VA
01257186 | Bedford Stuyvesant NSA I | Brooklyn | NY
10535072 | Glenbrook Apartments | Richfield | UT
01235531 | Ebony Gardens | Mount Vernon | NY
04735183 | Weston Apartments | Grand Rapids | MI
12635190 | King Bell Apartments | Milwaukee | OR
01635074 | Villa Excelsior | Providence | RI
05935165 | Parkview Apartments | Monroe | LA
05935161 | Wyche Apartments | Tallulah | LA
06735258 | Georgia Arms Apartments | Sanford | FL
12335128 | Fillmore I | Phoenix | AZ
12335142 | Morningside Villa Apartments | Phoenix | AZ
07335444 | Laurel Woods Apartments | South Bend | IN
01435048 | Crown Oak Estates | Penfield | NY
03435209 | Dorado Village | Philadelphia | PA
02332046 | St. Alfio's Villa | Lawrence | MA
06135318 | Wild Pines Apartments | Albany | GA
11435350 | Bay Terrace Apartments | Baytown | TX
10935053 | Rainbow Vista Apartments | Laramie | WY
06135379 | Rucker Terrace Apartments | Atlanta | GA
03435167 | Freeland Elderly Housing | Freeland | PA
12735323 | Olympia Village Apartments | Olympia | WA
01435062 | East Court V | Rochester | NY
06235389 | Roosevelt Manor | Birmingham | AL
04435497 | Himelhoch Apartments | Detroit | MI
06535361 | Hawkins Apartments | Okolona | MS
08744032 | Townview Towers I | Knoxville | TN
03335146 | Coraopolis Gardens | Coraopolis | PA
07135492 | Evergreen Terrace II (aka Buff Plaza) | Joliet | IL
06735272 | Hudson Estates | Hudson | FL
08335386 | Lee Manor Apartments | Owensboro | KY
01257213 | Sebco IV | Bronx | NY
01257295 | Aldus I (aka Faile Street) | Bronx | NY
07435185 | Adams Court | Jefferson | IA
05635065 | La Torrecilla Development | Barranquitas | PR
12235533 | Wasco Park Apartments | Wasco | CA
11535176 | Harrison Manor Apartments | Harlingen | TX
13344039 | Childress Manor | Childress | TX
05335404 | Gatewood Manor Apartments | Greensboro | NC
05135366 | Berkley West Apartments | Newport News | VA
08335339 | Town House Apartments | Livermore | KY
03432046 | Susquehanna Townhouses | Philadelphia | PA
03135233 | Aspen Hamilton Apartments | Paterson | NJ
01257289 | Hunts Point I Rehab Project | Bronx | NY
01235579 | Richmond Gardens | Staten Island | NY
01257300 | Pulaski Manor | Brooklyn | NY
01257241 | Bedford Stuyvesant NSA II | Brooklyn | NY
01335118 | Village Point Apartments | New Hartford | NY
06135325 | Dempsey Apartments | Macon | GA
10935043 | Bicentennial Apartment Village II | Rock Springs | WY
10135362 | Castle Creek Commons East | Castle Rock | CO
04235401 | Douglas Square Apartments | Toledo | OH
12235534 | South Real Gardens | Bakersfield | CA
06535247 | Crestview Apartments | Pearl | MS
06535291 | Driftwood Apartments | Drew | MS
06535222 | Highland View Apartments | Jackson | MS
08535312 | Maplewood Loop Apartments | Maplewood | MO
05435476 | Woods Edge Apartments | Columbia | SC
04335284 | Melford Village | Spencerville | OH
17144802 | Lilac Plaza | Spokane | WA
05344119 | Oak Hill Apartments | Wadesboro | NC
01257298 | Alexander Coprew Apartments | Bronx | NY
01235582 | Andpress Plaza | North Amityville | NY
01435053 | Seneca Apartments | Geneva | NY
01435060 | Lakeside Village Apartments | Canandaigua | NY
06435241 | Livingston Manor Apartments | Denham Springs | LA
01735164 | Kensington Square I | New Haven | CT
13335050 | Win Lin Village Apartments | Amarillo | TX
02336610 | Dorchester Bay/Granite #9 | Dorchester | MA
01257192 | Southern Boulevard IV | Bronx | NY
08335324 | Virginia Apartments | Louisville | KY
05435499 | Winnfield West Apartments | Winnsboro | SC
05435489 | Prescott Manor | Columbia | SC
01232237 | Southport Mews Apartments | Port Chester | NY
01235581 | Overlook Apartments | Middletown | NY
06235215 | Hobson City Apartments | Anniston | AL
10535073 | Springhollow Apartments | Logan | UT
05435482 | Northbridge Court | Moncks Corner | SC
04735109 | Bedford Manor Apartments | Battle Creek | MI
14335092 | Smith-Beretania Apartments | Honolulu | HI
06235307 | St. Charles Villas | Birmingham | AL
00035309 | Southview Apartments I (aka Southview West) | Washington | DC
00036636 | Atlantic Terrace Apartments | Washington | DC
08435256 | Granada Villa | Belton | MO
04735114 | River Apartments | Battle Creek | MI
05944061 | Pine Haven Apartments | Marshall | TX
10235180 | Brookridge Plaza Apartments | Derby | KS
06135335 | Rockland Apartments | Macon | GA
05435507 | Redwood Village Apartments | Gaffney | SC
13335055 | Sierra Vista Apartments | El Paso | TX
03335119 | Grayson Court | Pittsburgh | PA
09135050 | South Park Apartments | Belle Fourche | SD
06335203 | The Oaks Apartments | St. Augustine | FL
12744116 | Chehalis Avenue Apartments | Chehalis | WA
07135482 | Bryn Mawr Apartments | Chicago | IL
01257175 | Sunset Park NSA Group I | Brooklyn | NY
06535353 | Bennie S. Gooden Estates | Clarksdale | MS
05135356 | Nansemond Square Apartments | Suffolk | VA
10235139 | Mulberry Court Apartments | Abilene | KS
01235527 | Highland Falls Housing | Highland Falls | NY
10935036 | Bicentennial Apartments Village I | Rock Springs | WY
04235386 | Morning Star Towers | Cleveland | OH
08535350 | Douglass Manor Apartments | Webster Groves | MO
06135387 | Bridge Creek Apartments | Fitzgerald | GA
04535121 | Forrest Bluff Apartments | Huntington | WV
05335424 | South Village Apartments | Mount Airy | NC
05335452 | Carriage House Apartments | Enfield | NC
06635178 | New Horizons Apartments | Miami | FL
10935056 | Chief Washakie | Evanston | WY

Nature of Requirement: Section 200.40 establishes the fees to be applied to mark-to-market transactions that involve properties with mortgages issued by the Federal Housing Administration (FHA). The intent of this provision is to provide an extra incentive to encourage owner cooperation with the process in a timely manner.

Granted By: John C. Weicher, Assistant Secretary for Housing—Federal Housing Commissioner.

Date Granted: October 10, 2003.

Reason Waived: The projects listed above were FHA-insured, and incentives were necessary to encourage cooperation.

Contact: Norman Dailey, Office of Multifamily Housing Assistance Restructuring, Department of Housing and Urban Development, Portals Building, Suite 400, 1280 Maryland Avenue, SW., Washington, DC 20410-8000; telephone (202) 708-3856, extension 3786.

• Regulation: 24 CFR 401.600

Project/Activity: The following projects requested waiver of the 12-month limit, established at 24 CFR 401.600, for above-market rents:

FHA No. | Project name | City | State
04235385 | Vistula Heritage II | Toledo | OH
06235373 | Arrowood Apartments | Boligee | AL
06135365 | Bull Creek Apartments | Columbus | GA
03335144 | Charles Street Apartments | Turtle Creek | PA
04235400 | Findlay I (Findlay Commons) | Findlay | OH
06235161 | Four Winds East Apartments | Birmingham | AL
05135300 | John Perry House | Woodstock | VA
03535090 | Oakland Park Apts | Trenton | NJ
07135460 | O'Keefe Apartments | Chicago | IL
05235307 | Poppleton Place Apartments | Baltimore | MD
10535063 | St. Benedicts Manor | Ogden | UT
08435263 | Village Place | Bethany | MO

Nature of Requirement: Section 401.600 requires that projects be marked down to market rents within 12 months after their first expiration date following January 1, 1998. The intent of this provision is to ensure timely processing of requests for restructuring and that the properties will not default on their FHA-insured mortgages during the restructuring process.

Granted By: John C. Weicher, Assistant Secretary for Housing—Federal Housing Commissioner.

Date Granted: November 4, 2003.

Reason Waived: Either the projects listed above were not assigned to the participating administrative entities (PAEs) in a timely manner, or their restructuring analysis was unavoidably delayed due to no fault of the owner.

Contact: Norman Dailey, Office of Multifamily Housing Assistance Restructuring, Department of Housing and Urban Development, Portals Building, Suite 400, 1280 Maryland Avenue, SW., Washington, DC 20410-8000; telephone (202) 708-3856.

• Regulation: 24 CFR 401.600.

Project/Activity: The following projects requested waiver of the 12-month limit, established at 24 CFR 401.600, for above-market rents:

FHA No. | Project name | City | State
01257144 | Albert Goodman Plaza | Bronx | NY
02435040 | Chestnut Place | Lewiston | ME
03435185 | Cobbs Creek NSA | Philadelphia | PA
01257075 | Davidson Avenue Rehab II | Bronx | NY
04235336 | Eastland Woods | Akron | OH
11744115 | Hillcrest Green Apartments | Oklahoma City | OK
01335102 | James F. Lettis Apartments | Oneonta | NY
01257164 | Jerome Terrace Apartments | Bronx | NY
01235410 | John Crawford Senior Citizen Housing | Monticello | NY
11835102 | McAlester Plaza | McAlester | OK
06535334 | Moorhead Manor Apartments | Moorhead | MS
01257162 | Pennsylvania Avenue Apartments | Brooklyn | NY
04235331 | Shaker Boulevard Gardens | Cleveland | OH
01255173 | Siloam House | Brooklyn | NY
08635177 | Southwood Townhouses | Memphis | TN
07135524 | West End Rehab | Chicago | IL

Nature of Requirement: Section 401.600 requires that projects be marked down to market rents within 12 months after their first expiration date following January 1, 1998. The intent of this provision is to ensure timely processing of requests for restructuring, and that the properties will not default on their FHA-insured mortgages during the restructuring process.

Granted By: John C. Weicher, Assistant Secretary for Housing—Federal Housing Commissioner.

Date Granted: November 4, 2003.

Reason Waived: Either the projects listed above were not assigned to the PAEs in a timely manner, or their restructuring analysis was unavoidably delayed due to no fault of the owner.

Contact: Norman Dailey, Office of Multifamily Housing Assistance Restructuring, Department of Housing and Urban Development, Portals Building, Suite 400, 1280 Maryland Avenue, SW., Washington, DC 20410-8000; telephone (202) 708-3856.

• Regulation: 24 CFR 401.600.

Project/Activity: The following projects requested waiver of the 12-month limit, established at 24 CFR 401.600, for above-market rents:

FHA No. | Project name | City | State
1257080 | Albany-Decatur Rehabilitation | Columbus | NY
5335451 | Bay Tree Apartments | New Bedford | NC
1257186 | Bedford Stuyvesant NSA I | New Haven | NY
2335244 | Dawson Building | South Point | MA
1257252 | Featherbed Lane Restoration | Toledo | NY
1735164 | Kensington Sq. I | Casper | CT
4335293 | Lawrence Commons | Fuquay-Varina | OH
1235449 | Pinecrest Manor | Brooklyn | NY
6135380 | Renaissance Villa Apartments | Brooklyn | GA
1257068 | Sonia Rivera | Bronx | NY
4235384 | The Plaza | Mount Kisco | OH
10935048 | Village Gardens | Bronx | WY
6235336 | Village Green Apartments | Red Bay | AL

Nature of Requirement: Section 401.600 requires that projects be marked down to market rents within 12 months after their first expiration date following January 1, 1998. The intent of this provision is to ensure timely processing of requests for restructuring and that the properties will not default on their FHA-insured mortgages during the restructuring process.

Granted By: John C. Weicher, Assistant Secretary for Housing—Federal Housing Commissioner.

Date Granted: December 1, 2003.

Reason Waived: Either the projects listed above were not assigned to the PAEs in a timely manner, or their restructuring analysis was unavoidably delayed due to no fault of the owner.

Contact: Norman Dailey, Office of Multifamily Housing Assistance Restructuring, Department of Housing and Urban Development, Portals Building, Suite 400, 1280 Maryland Avenue, SW., Washington, DC 20410-8000; telephone (202) 708-3856.

• Regulation: 24 CFR 401.600.

Project/Activity: The following projects requested waiver of the 12-month limit, established at 24 CFR 401.600, for above-market rents:

FHA No. | Project name | City | State
1257144 | Albert Goodman Plaza | Benton | NY
1335105 | Brandegee Gardens | Hagerstown | NY
1257141 | Bruckner Houses | Roxbury | NY
7335448 | Crossings II | Greenfield | IN
8235225 | Eastview Terrace Apartments | Utica | AR
1335108 | Genesee Towers | Utica | NY
4235357 | Greenview Gardens | Evansville | OH
1257164 | Jerome Terrace Apartments | Toledo | NY
8335267 | Lakeland Wesley Village I | Little Rock | KY
11535193 | Meadow Park Village | Lockhart | TX
12735339 | Montesano Harbor Annex | Houston | WA
11435346 | Royal Palms Apartments | Bronx | TX
2335172 | Schoolhouse 77 | Bronx | MA
5235300 | Washington Gardens | Bronx | MD
2335239 | Weldon, The | Montesano | MA

Nature of Requirement: Section 401.600 requires that projects be marked down to market rents within 12 months after their first expiration date following January 1, 1998. The intent of this provision is to ensure timely processing of requests for restructuring and that the properties will not default on their FHA-insured mortgages during the restructuring process.

Granted By: John C. Weicher, Assistant Secretary for Housing—Federal Housing Commissioner.

Date Granted: December 1, 2003.

Reason Waived: Either the projects listed above were not assigned to the PAEs in a timely manner, or their restructuring analysis was unavoidably delayed due to no fault of the owner.

Contact: Norman Dailey, Office of Multifamily Housing Assistance Restructuring, Department of Housing and Urban Development, Portals Building, Suite 400, 1280 Maryland Avenue, SW., Washington, DC 20410-8000, telephone (202) 708-3856.

• Regulation: 24 CFR 401.600.

Project/Activity: The following projects requested waiver of the 12-month limit, established at 24 CFR 401.600, for above-market rents:

FHA No. | Project name | City | State
1257299 | Beck Street Rehab | Bronx | NY
1435043 | Cedargrove Heights Apartments | Buffalo | NY
5435502 | Duncan Village Apartments | Duncan | SC
9335098 | Grandview Place | Missoula | MT
7444052 | Green Valley Manor | Creston | IA
8335301 | Happy Hollow Apartments | Middlesborough | KY
6235367 | Janmar Apartments | Birmingham | AL
1335080 | Mid Warren NSA | Hudson | NY
5435501 | Pageland Place Apartments | Pageland | SC
1257291 | Paul Robeson Houses | New York | NY
4235360 | Shaker Place Apartments | Highland Hills | OH
5435473 | Spruce Pines Apartments | Landrum | SC
4335013 | Sunset Hills Apartments | Springfield | OH
11735195 | Terrace Apts | Oklahoma City | OK
4235377 | Whispering Hills | Toronto | OH

Nature of Requirement: Section 401.600 requires that projects be marked down to market rents within 12 months after their first expiration date following January 1, 1998. The intent of this provision is to ensure timely processing of requests for restructuring and that the properties will not default on their FHA-insured mortgages during the restructuring process.

Granted By: John C. Weicher, Assistant Secretary for Housing—Federal Housing Commissioner.

Date Granted: December 22, 2003.

Reason Waived: The projects listed above were either not assigned to the PAEs in a timely manner or their restructuring analysis was unavoidably delayed due to no fault of the owner.

Contact: Norman Dailey, Office of Multifamily Housing Assistance Restructuring, Department of Housing and Urban Development, Portals Building, Suite 400, 1280 Maryland Avenue, SW., Washington, DC 20410-8000, telephone (202) 708-3856.

• Regulation: 24 CFR 401.600.

Project/Activity: The following projects requested waiver of the 12-month limit, established at 24 CFR 401.600, for above-market rents:

FHA No. | Project name | City | State
7135458 | Armitage Commons | Chicago | IL
4235343 | Bay Meadows Apartments | Port Clinton | OH
5235042 | Beaufort Crest | Baltimore | MD
7235081 | Bissel Apartments | Venice | IL
1444047 | Braco-I | Buffalo | NY
6135365 | Bull Creek Apartments | Columbus | GA
11435056 | Church Village Apartments | Dickinson | TX
4535094 | Clarksburg Towers | Clarksburg | WV
1257060 | Concourse Plaza | Bronx | NY
1257205 | Dean North Apartments | Brooklyn | NY
1257153 | East 21st Street Apartments | Brooklyn | NY
7135428 | Evergreen Terrace I | Joliet | IL
7335407 | Gary NSA I & II | Gary | IN
1335117 | Lillian Y. Cooper Apartments | Utica | NY
1235312 | Marion Avenue Rehabilitation | Bronx | NY
1257142 | Noonan Plaza | Bronx | NY
11335005 | Prince Hall Gardens II | Fort Worth | TX
2435052 | Sugar River Mills Housing | Claremont | NH
6535245 | Sunflower Lane Apartments | Clarksdale | MS
1257159 | Sutter Houses | Brooklyn | NY
4535100 | Williamson Towers | Williamson | WV

Nature of Requirement: Section 401.600 requires that projects be marked down to market rents within 12 months after their first expiration date following January 1, 1998. The intent of this provision is to ensure timely processing of requests for restructuring and that the properties will not default on their FHA-insured mortgages during the restructuring process.

Granted By: John C. Weicher, Assistant Secretary for Housing—Federal Housing Commissioner.

Date Granted: December 22, 2003.

Reason Waived: Either the projects listed above were not assigned to the PAEs in a timely manner or their restructuring analysis was unavoidably delayed due to no fault of the owner.

Contact: Norman Dailey, Office of Multifamily Housing Assistance Restructuring, Department of Housing and Urban Development, Portals Building, Suite 400, 1280 Maryland Avenue, SW., Washington, DC 20410-8000, telephone (202) 708-3856.

• Regulation: 24 CFR 883.606.

Project/Activity: The 400 Apartments, Bismarck, ND; Project Number: 094-35043.

Nature of Requirement: Section 883.606(b) establishes the procedures by which a state agency is entitled to a reasonable fee, determined by HUD, for administering a contract on newly constructed or substantially rehabilitated units, provided there is no override on the permanent loan granted by the agency to the owner for a project containing assisted units.

Granted By: John C. Weicher, Assistant Secretary for Housing—Federal Housing Commissioner.

Date Granted: November 4, 2003.

Reason Waived: The North Dakota Housing Finance Agency (Issuer) used override revenue to provide very low-income housing assistance in accordance with its refunding agreement under the McKinney-Vento Act. This revenue is pledged to the bondholders of the Series 1993 Multifamily Mortgage Revenue Refunding bonds as a source of additional security for timely payment of bond principal and interest until the bonds are paid in full. It was determined to be in the public interest and consistent with the Secretary's objectives to waive the appropriate regulation in order to enable the Issuer to continue to pledge fee revenues to its bonds and to rely on these revenues to support its publicly chartered affordable housing operations. The Issuer was therefore permitted to continue to collect override and contract administration fees in connection with its outstanding Series 1993, which were issued with HUD's approval.

Contact: Beverly J. Miller, Director, Office of Multifamily Asset Management, Department of Housing and Urban Development, 451 Seventh Street, SW., Washington, DC 20410-7000, telephone (202) 708-3730.

• Regulation: 24 CFR 883.606.

Project/Activity: Forty-six Section 8 Assisted Projects, Manchester, NH; Project Number: .

Nature of Requirement: Section 883.606(b) establishes the procedures by which a state agency is entitled to a reasonable fee, determined by HUD, for administering a contract on newly constructed or substantially rehabilitated units, provided there is no override on the permanent loan granted by the agency to the owner for a project containing assisted units.

Granted By: John C. Weicher, Assistant Secretary for Housing-Federal Housing Commissioner.

Date Granted: November 4, 2003.

Reason Waived: The New Hampshire Housing Finance Authority (NHHFA) relied on HUD's approval of proposed bond financing terms submitted by NHHFA in 1991, which terms included permission to collect both override and contract administration fees. Subsequently, Series 1991 Multifamily Housing Refunding Bonds (the Bonds) were issued pursuant to HUD's financing adjustment factor (FAF) procedures and Section 1012 of the McKinney-Vento Act, which authorizes equal sharing between HUD and housing finance agencies of debt service savings and housing subsidy provided by the housing assistance payments (HAP) contract. It was determined to be in the public interest and consistent with the Secretary's objectives to waive the appropriate regulations in order to enable the Issuer to continue to pledge fee revenues to its bonds and to rely on these revenues to support its publicly chartered affordable housing operations. The Issuer was permitted to continue to collect override and contract administration fees in connection with its outstanding Series 1991 bonds, which were issued with HUD's approval.

Contact: Beverly J. Miller, Director, Office of Multifamily Asset Management, Department of Housing and Urban Development, 451 Seventh Street, SW., Washington, DC 20410-7000, telephone (202) 708-3730.

• Regulation: 24 CFR 891.100(d).

Project/Activity: Terra Quest, Ashtabula, OH; Project Number: 042-HD084/OH12-Q991-005.

Nature of Requirement: Section 891.100(d) prohibits amendment of the amount of approved capital advance funds prior to initial closing.

Granted By: John C. Weicher, Assistant Secretary for Housing-Federal Housing Commissioner.

Date Granted: October 3, 2003.

Reason Waived: The sponsor exhausted all efforts to obtain additional funding. The project is economically designed and comparable in cost to similar projects developed in the area.

Contact: Willie Spearmon, Director, Office of Housing Assistance and Grant Administration, Department of Housing and Urban Development, 451 Seventh Street, SW., Washington, DC 20410-8000, telephone (202) 708-3000.

• Regulation: 24 CFR 891.100(d).

Project/Activity: Hemet Ability First, Hemet CA, Project Number: 122-HD130/CA16-Q001-001.

Nature of Requirement: Section 891.100(d) prohibits amendment of the amount of approved capital advance funds prior to initial closing.

Granted By: John C. Weicher, Assistant Secretary for Housing-Federal Housing Commissioner.

Date Granted: October 28, 2003.

Reason Waived: The sponsor exhausted all efforts to obtain additional funding. The project is economically designed and comparable in cost to similar projects developed in the area.

Contact: Willie Spearmon, Director, Office of Housing Assistance and Grant Administration, Department of Housing and Urban Development, 451 Seventh Street, SW., Washington, DC 20410-8000, telephone (202) 708-3000.

• Regulation: 24 CFR 891.100(d).

Project/Activity: MLH Nebraska Housing, Lincoln, NE; Project Number: 103-HD029/NE26-Q021-002.

Nature of Requirement: Section 891.100(d) prohibits amendment of the amount of approved capital advance funds prior to initial closing.

Granted By: John C. Weicher, Assistant Secretary for Housing-Federal Housing Commissioner.

Date Granted: November 14, 2003.

Reason Waived: The sponsor exhausted all efforts to obtain additional funding. The project is economically designed and comparable in cost to similar projects developed in the area.

Contact: Willie Spearmon, Director, Office of Housing Assistance and Grant Administration, Department of Housing and Urban Development, 451 Seventh Street, SW., Washington, DC 20410-8000, telephone (202) 708-3000.

• Regulation: 24 CFR 891.100(d).

Project/Activity: Golden Thread Housing, Osceola, IA; Project Number: 074-EE040/IA05-S021-001.

Nature of Requirement: Section 891.100(d) prohibits amendment of the amount of approved capital advance funds prior to initial closing.

Granted By: John C. Weicher, Assistant Secretary for Housing-Federal Housing Commissioner.

Date Granted: November 26, 2003.

Reason Waived: The sponsor exhausted all efforts to obtain additional funding. The project is economically designed and comparable in cost to similar projects developed in the area.

Contact: Willie Spearmon, Director, Office of Housing Assistance and Grant Administration, Department of Housing and Urban Development, 451 Seventh Street, SW., Washington, DC 20410-8000, telephone (202) 708-3000.

• Regulation: 24 CFR 891.100(d).

Project/Activity: The Sanderling, Chesapeake, VA; Project Number: 051-HD074/VA36-Q981-005.

Nature of Requirement: Section 891.100(d) prohibits amendment of the amount of approved capital advance funds prior to initial closing.

Granted By: John C. Weicher, Assistant Secretary for Housing-Federal Housing Commissioner.

Date Granted: December 1, 2003.

Reason Waived: The sponsor exhausted all efforts to obtain additional funding. The project is economically designed and comparable in cost to similar projects developed in the area.

Contact: Willie Spearmon, Director, Office of Housing Assistance and Grant Administration, Department of Housing and Urban Development, 451 Seventh Street, SW., Washington, DC 20410-8000, telephone (202) 708-3000.

• Regulation: 24 CFR 891.100(d).

Project/Activity: New Dimensions Apartments, Woodland, CA; Project Number: 136-HD012/CA30-Q001-002.

Nature of Requirement: Section 891.100(d) prohibits amendment of the amount of approved capital advance funds prior to initial closing.

Granted By: John C. Weicher, Assistant Secretary for Housing-Federal Housing Commissioner.

Date Granted: December 1, 2003.

Reason Waived: The sponsor exhausted all efforts to obtain additional funding. The project is economically designed and comparable in cost to similar projects developed in the area.

Contact: Willie Spearmon, Director, Office of Housing Assistance and Grant Administration, Department of Housing and Urban Development, 451 Seventh Street, SW., Washington, DC 20410-8000, telephone (202) 708-3000.

• Regulation: 24 CFR 891.100(d).

Project/Activity: Psalms 23 Project, Ellenwood, GA; Project Number: 061-EE090/GA06-S991-006.

Nature of Requirement: Section 891.100(d) prohibits amendment of the amount of approved capital advance funds prior to initial closing.

Granted By: John C. Weicher, Assistant Secretary for Housing-Federal Housing Commissioner.

Date Granted: December 12, 2003.

Reason Waived: The sponsor exhausted all efforts to obtain additional funding. The project is economically designed and comparable in cost to similar projects developed in the area.

Contact: Willie Spearmon, Director, Office of Housing Assistance and Grant Administration, Department of Housing and Urban Development, 451 Seventh Street, SW., Washington, DC 20410-8000, telephone (202) 708-3000.

• Regulation: 24 CFR 891.100(d).

Project/Activity: Lakewood Apartments, South Hill, VA; Project Number: 051-EE062/VA36-S981-002.

Nature of Requirement: Section 891.100(d) prohibits amendment of the amount of approved capital advance funds prior to initial closing.

Granted By: John C. Weicher, Assistant Secretary for Housing-Federal Housing Commissioner.

Date Granted: December 12, 2003.

Reason Waived: The sponsor exhausted all efforts to obtain additional funding. The project is economically designed and comparable in cost to similar projects developed in the area.

Contact: Willie Spearmon, Director, Office of Housing Assistance and Grant Administration, Department of Housing and Urban Development, 451 Seventh Street, SW., Washington, DC 20410-8000, telephone (202) 708-3000.

• Regulation: 24 CFR 891.100(d).

Project/Activity: Dina Titus Estates, Las Vegas, NV; Project Number: 125-HD069/NV25-Q011-001.

Nature of Requirement: Section 891.100(d) prohibits amendment of the amount of approved capital advance funds prior to initial closing.

Granted By: John C. Weicher, Assistant Secretary for Housing-Federal Housing Commissioner.

Date Granted: December 15, 2003.

Reason Waived: The sponsor exhausted all efforts to obtain additional funding. The project is economically designed and comparable in cost to similar projects developed in the area.

Contact: Willie Spearmon, Director, Office of Housing Assistance and Grant Administration, Department of Housing and Urban Development, 451 Seventh Street, SW., Washington, DC 20410-8000, telephone (202) 708-3000.

• Regulation: 24 CFR 891.100(d).

Project/Activity: Legion Woods, New Haven, CT; Project Number: 017-HD028/CT26-Q001-004.

Nature of Requirement: Section 891.100(d) prohibits amendment of the amount of approved capital advance funds prior to initial closing.

Granted By: John C. Weicher, Assistant Secretary for Housing-Federal Housing Commissioner.

Date Granted: December 31, 2003.

Reason Waived: The sponsor exhausted all efforts to obtain additional funding. The project is economically designed and comparable in cost to similar projects developed in the area.

Contact: Willie Spearmon, Director, Office of Housing Assistance and Grant Administration, Department of Housing and Urban Development, 451 Seventh Street, SW., Washington, DC 20410-8000, telephone (202) 708-3000.

• Regulation: 24 CFR 891.100(d) and 24 CFR 891.165.

Project/Activity: Skyline Apartments, Napa, CA; Project Number: 121-HD074/CA39-Q001-003.

Nature of Requirement: Section 891.100(d) prohibits amendment of the amount of approved capital advance funds prior to initial closing. Section 891.165 provides that the duration of the fund reservation of the capital advance be 18 months from the date of issuance, with limited exceptions up to 24 months as approved by HUD on a case-by-case basis.

Granted By: John C. Weicher, Assistant Secretary for Housing-Federal Housing Commissioner.

Date Granted: October 20, 2003.

Reason Waived: The sponsor exhausted all efforts to obtain additional funding. Additional time was needed to prepare the legal documents for the land transaction and to reach initial closing. The project is economically designed and comparable in cost to similar projects developed in the area.

Contact: Willie Spearmon, Director, Office of Housing Assistance and Grant Administration, Department of Housing and Urban Development, 451 Seventh Street, SW., Washington, DC 20410-8000, telephone (202) 708-3000.

• Regulation: 24 CFR 891.100(d) and 24 CFR 891.165.

Project/Activity: Caribe Towers, Philadelphia, PA; Project Number: 034-EE108/PA26-S001-008.

Nature of Requirement: Section 891.100(d) prohibits amendment of the amount of approved capital advance funds prior to initial closing. Section 891.165 provides that the duration of the fund reservation of the capital advance be 18 months from the date of issuance, with limited exceptions up to 24 months as approved by HUD on a case-by-case basis.

Granted By: John C. Weicher, Assistant Secretary for Housing-Federal Housing Commissioner.

Date Granted: October 29, 2003.

Reason Waived: The sponsor exhausted all efforts to obtain additional funding from other sources. The project was delayed due to the complexity of the condominium structure. The project is economically designed and comparable to other similar projects developed in the area.

Contact: Willie Spearmon, Director, Office of Housing Assistance and Grant Administration, Department of Housing and Urban Development, 451 Seventh Street, SW., Washington, DC 20410-8000, telephone (202) 708-3000.

• Regulation: 24 CFR 891.100(d) and 24 CFR 891.165.

Project/Activity: Minnehaha County Supportive Housing Incorporated, Sioux Falls, SD; Project Number: 091-EE005/SD99-S011-001.

Nature of Requirement: Section 891.100(d) prohibits amendment of the amount of approved capital advance funds prior to initial closing. Section 891.165 provides that the duration of the fund reservation of the capital advance be 18 months from the date of issuance, with limited exceptions up to 24 months as approved by HUD on a case-by-case basis.

Granted By: John C. Weicher, Assistant Secretary for Housing-Federal Housing Commissioner.

Date Granted: November 4, 2003.

Reason Waived: The sponsor exhausted all efforts to obtain additional funding. Additional time was needed to process the firm commitment application. The project is economically designed and comparable in cost to similar projects developed in the area.

Contact: Willie Spearmon, Director, Office of Housing Assistance and Grant Administration, Department of Housing and Urban Development, 451 Seventh Street, SW., Washington, DC 20410-8000, telephone (202) 708-3000.

• Regulation: 24 CFR 891.100(d) and 24 CFR 891.165.

Project/Activity: Sturgis Consumer Home, Edison, NJ; Project Number: 031-HD116/NJ39-Q001-007.

Nature of Requirement: Section 891.100(d) prohibits amendment of the amount of approved capital advance funds prior to initial closing. Section 891.165 provides that the duration of the fund reservation of the capital advance be 18 months from the date of issuance, with limited exceptions up to 24 months as approved by HUD on a case-by-case basis.

Granted By: John C. Weicher, Assistant Secretary for Housing-Federal Housing Commissioner.

Date Granted: November 10, 2003.

Reason Waived: The sponsor exhausted all efforts to obtain additional funding. The project experienced delays due to the loss of the original site and the time involved to locate a new site and obtain approval. The project is economically designed and comparable in cost to similar projects developed in the area.

Contact: Willie Spearmon, Director, Office of Housing Assistance and Grant Administration, Department of Housing and Urban Development, 451 Seventh Street, SW., Washington, DC 20410-8000, telephone (202) 708-3000.

• Regulation: 24 CFR 891.100(d) and 24 CFR 891.165.

Project/Activity: Shepherd's Farm Senior Housing, West Deptford, NJ; Project Number: 035-EE045/NJ39-S011-002.

Nature of Requirement: Section 891.100(d) prohibits amendment of the amount of approved capital advance funds prior to initial closing. Section 891.165 provides that the duration of the fund reservation of the capital advance be 18 months from the date of issuance, with limited exceptions up to 24 months as approved by HUD on a case-by-case basis.

Granted By: John C. Weicher, Assistant Secretary for Housing-Federal Housing Commissioner.

Date Granted: November 14, 2003.

Reason Waived: The sponsor exhausted all efforts to obtain additional funding from other sources. The project was delayed due to the construction of a sewer line to which the project will be connected and the sponsor's attempt to secure secondary financing. The project is economically designed and comparable in cost to similar projects developed in the jurisdiction.

Contact: Willie Spearmon, Director, Office of Housing Assistance and Grant Administration, Department of Housing and Urban Development, 451 Seventh Street, SW., Washington, DC 20410-8000, telephone (202) 708-3000.

• Regulation: 24 CFR 891.100(d) and 24 CFR 891.165.

Project/Activity: Nanaikeola Senior Apartments, Waianae, Oahu, HI; Project Number: 140-EE019/HI10-S991-001.

Nature of Requirement: Section 891.100(d) prohibits amendment of the amount of approved capital advance funds prior to initial closing. Section 891.165 provides that the duration of the fund reservation of the capital advance be 18 months from the date of issuance, with limited exceptions up to 24 months as approved by HUD on a case-by-case basis.

Granted By: John C. Weicher, Assistant Secretary for Housing-Federal Housing Commissioner.

Date Granted: November 14, 2003.

Reason Waived: The sponsor exhausted all efforts to obtain additional funding. The project experienced delays while the sponsor's development team reviewed options to reduce increased development costs caused by skyrocketing construction costs and secure secondary financing. The project is economically designed and comparable in cost to similar projects developed in the area.

Contact: Willie Spearmon, Director, Office of Housing Assistance and Grant Administration, Department of Housing and Urban Development, 451 Seventh Street, SW., Washington, DC 20410-8000, telephone (202) 708-3000.

• Regulation: 24 CFR 891.100(d) and 24 CFR 891.165.

Project/Activity: Professional Service Centers for the Handicapped (PSCH)-Cypress Housing, Queens, NY; Project Number: 012-HD088/NY36-Q981-009.

Nature of Requirement: Section 891.100(d) prohibits amendment of the amount of approved capital advance funds prior to initial closing. Section 891.165 provides that the duration of the fund reservation of the capital advance be 18 months from the date of issuance, with limited exceptions up to 24 months as approved by HUD on a case-by-case basis.

Granted By: John C. Weicher, Assistant Secretary for Housing-Federal Housing Commissioner.

Date Granted: November 20, 2003.

Reason Waived: The sponsor exhausted all efforts to obtain additional funding. The project encountered delays due to local and environmental issues, and additional time was needed to prepare for initial closing. The project is economically designed and comparable in cost to similar projects developed in the area.

Contact: Willie Spearmon, Director, Office of Housing Assistance and Grant Administration, Department of Housing and Urban Development, 451 Seventh Street, SW., Washington, DC 20410-8000, telephone (202) 708-3000.

• Regulation: 24 CFR 891.100(d) and 24 CFR 891.165.

Project/Activity: Honoka‘a Knolls Senior Apartments, Honoka'a, HI; Project Number: 140-EE020/HI10-S991-002.

Nature of Requirement: Section 891.100(d) prohibits amendment of the amount of approved capital advance funds prior to initial closing. Section 891.165 provides that the duration of the fund reservation of the capital advance be 18 months from the date of issuance, with limited exceptions up to 24 months as approved by HUD on a case-by-case basis.

Granted By: John C. Weicher, Assistant Secretary for Housing-Federal Housing Commissioner.

Date Granted: December 1, 2003.

Reason Waived: The sponsor exhausted all efforts to obtain additional funding. The project was delayed due to difficulties finding a qualified contractor to construct the project with the funds available. The project is economically designed and comparable in cost to similar projects developed in the area.

Contact: Willie Spearmon, Director, Office of Housing Assistance and Grant Administration, Department of Housing and Urban Development, 451 Seventh Street, SW., Washington, DC 20410-8000, telephone (202) 708-3000.

• Regulation: 24 CFR 891.100(d) and 24 CFR 891.165.

Project/Activity: Ka'u Group Home, Na'alehu, HI; Project Number: 140-HD024/HI10-Q001-002.

Nature of Requirement: Section 891.100(d) prohibits amendment of the amount of approved capital advance funds prior to initial closing. Section 891.165 provides that the duration of the fund reservation of the capital advance be 18 months from the date of issuance, with limited exceptions up to 24 months as approved by HUD on a case-by-case basis.

Granted By: John C. Weicher, Assistant Secretary for Housing-Federal Housing Commissioner.

Date Granted: December 1, 2003.

Reason Waived: The sponsor exhausted all efforts to obtain additional funding. The project was delayed due to difficulties finding a qualified contractor to construct the project with the funds available. The project is economically designed and comparable in cost to similar projects developed in the area.

Contact: Willie Spearmon, Director, Office of Housing Assistance and Grant Administration, Department of Housing and Urban Development, 451 Seventh Street, SW., Washington, DC 20410-8000, telephone (202) 708-3000.

• Regulation: 24 CFR 891.100(d) and 24 CFR 891.165.

Project/Activity: Accessible Space, Inc. (ASI) Fargo, Fargo, ND; Project Number: 094-HD009/ND99-Q011-001.

Nature of Requirement: Section 891.100(d) prohibits amendment of the amount of approved capital advance funds prior to initial closing. Section 891.165 provides that the duration of the fund reservation of the capital advance be 18 months from the date of issuance, with limited exceptions up to 24 months as approved by HUD on a case-by-case basis.

Granted By: John C. Weicher, Assistant Secretary for Housing-Federal Housing Commissioner.

Date Granted: December 1, 2003.

Reason Waived: The sponsor exhausted all efforts to obtain additional funding. Additional time was required to obtain a conditional use permit from the city of Fargo. The project is economically designed and comparable in cost to similar projects developed in the area.

Contact: Willie Spearmon, Director, Office of Housing Assistance and Grant Administration, Department of Housing and Urban Development, 451 Seventh Street, SW., Washington, DC 20410-8000, telephone (202) 708-3000.

• Regulation: 24 CFR 891.100(d) and 24 CFR 891.165.

Project/Activity: New Dimensions Apartment, Woodland, CA; Project Number: 136-HD012/CA30-Q001-002.

Nature of Requirement: Section 891.100(d) prohibits amendment of the amount of approved capital advance funds prior to initial closing. Section 891.165 provides that the duration of the fund reservation of the capital advance be 18 months from the date of issuance, with limited exceptions up to 24 months as approved by HUD on a case-by-case basis.

Granted By: John C. Weicher, Assistant Secretary for Housing-Federal Housing Commissioner.

Date Granted: December 1, 2003.

Reason Waived: The sponsor exhausted all efforts to obtain additional funding. Additional time was needed to process the firm commitment application. The project is economically designed and comparable in cost to similar projects developed in the area.

Contact: Willie Spearmon, Director, Office of Housing Assistance and Grant Administration, Department of Housing and Urban Development, 451 Seventh Street, SW., Washington, DC 20410-8000, telephone (202) 708-3000.

• Regulation: 24 CFR 891.100(d) and 24 CFR 891.165.

Project/Activity: The Promise Project, Ellenwood, GA; Project Number: 061-EE098/GA06-S001-006.

Nature of Requirement: Section 891.100(d) prohibits amendment of the amount of approved capital advance funds prior to initial closing. Section 891.165 provides that the duration of the fund reservation of the capital advance be 18 months from the date of issuance, with limited exceptions up to 24 months as approved by HUD on a case-by-case basis.

Granted By: John C. Weicher, Assistant Secretary for Housing-Federal Housing Commissioner.

Date Granted: December 4, 2003.

Reason Waived: The sponsor exhausted all efforts to obtain additional funding. Additional time was needed to process the firm commitment application. The project is economically designed and comparable in cost to similar projects developed in the area.

Contact: Willie Spearmon, Director, Office of Housing Assistance and Grant Administration, Department of Housing and Urban Development, 451 Seventh Street, SW., Washington, DC 20410-8000, telephone (202) 708-3000.

• Regulation: 24 CFR 891.100(d) and 24 CFR 891.165.

Project/Activity: National Church Residences (NCR) of Harborcreek, Harborcreek, PA; Project Number: 033-EE105/PA28-S001-003.

Nature of Requirement: Section 891.100(d) prohibits amendment of the amount of approved capital advance funds prior to initial closing. Section 891.165 provides that the duration of the fund reservation of the capital advance be 18 months from the date of issuance, with limited exceptions up to 24 months as approved by HUD on a case-by-case basis.

Granted By: John C. Weicher, Assistant Secretary for Housing-Federal Housing Commissioner.

Date Granted: December 10, 2003.

Reason Waived: The sponsor exhausted all efforts to obtain additional funding. Additional time was needed to issue the firm commitment application. The project is economically designed and comparable in cost to similar projects developed in the area.

Contact: Willie Spearmon, Director, Office of Housing Assistance and Grant Administration, Department of Housing and Urban Development, 451 Seventh Street, SW., Washington, DC 20410-8000, telephone (202) 708-3000.

• Regulation: 24 CFR 891.100(d) and 24 CFR 891.165.

Project/Activity: Cabrini Senior Housing, New York, NY; Project Number: 012-EE307/NY36-S011-001.

Nature of Requirement: Section 891.100(d) prohibits amendment of the amount of approved capital advance funds prior to initial closing. Section 891.165 provides that the duration of the fund reservation of the capital advance be 18 months from the date of issuance, with limited exceptions up to 24 months as approved by HUD on a case-by-case basis.

Granted By: John C. Weicher, Assistant Secretary for Housing-Federal Housing Commissioner.

Date Granted: December 12, 2003.

Reason Waived: The sponsor exhausted all efforts to obtain additional funding. Additional time was needed to obtain local approvals. The project is economically designed and comparable in cost to similar projects developed in the area.

Contact: Willie Spearmon, Director, Office of Housing Assistance and Grant Administration, Department of Housing and Urban Development, 451 Seventh Street, SW., Washington, DC 20410-8000, telephone (202) 708-3000.

• Regulation: 24 CFR 891.100(d) and 24 CFR 891.165.

Project/Activity: Wood County Village II, Bowling Green, OH; Project Number: 042-HD102/OH12-Q011-012.

Nature of Requirement: Section 891.100(d) prohibits amendment of the amount of approved capital advance funds prior to initial closing. Section 891.165 provides that the duration of the fund reservation of the capital advance be 18 months from the date of issuance, with limited exceptions up to 24 months as approved by HUD on a case-by-case basis.

Granted By: John C. Weicher, Assistant Secretary for Housing-Federal Housing Commissioner.

Date Granted: December 12, 2003.

Reason Waived: The sponsor exhausted all efforts to obtain additional funding. Additional time was required to process the firm commitment application. The project is economically designed and comparable in cost to similar projects developed in the area.

Contact: Willie Spearmon, Director, Office of Housing Assistance and Grant Administration, Department of Housing and Urban Development, 451 Seventh Street, SW., Washington, DC 20410-8000, telephone (202) 708-3000.

• Regulation: 24 CFR 891.100(d) and 24 CFR 891.165.

Project/Activity: Terra Quest, Ashtabula Township, OH; Project Number: 042-HD084/OH12-Q991-005.

Nature of Requirement: Section 891.100(d) prohibits amendment of the amount of approved capital advance funds prior to initial closing. Section 891.165 provides that the duration of the fund reservation of the capital advance be 18 months from the date of issuance, with limited exceptions up to 24 months as approved by HUD on a case-by-case basis.

Granted By: John C. Weicher, Assistant Secretary for Housing-Federal Housing Commissioner.

Date Granted: December 19, 2003.

Reason Waived: The sponsor exhausted all efforts to obtain additional funding. Additional time was required because of local opposition. The project is economically designed and comparable in cost to similar projects developed in the area.

Contact: Willie Spearmon, Director, Office of Housing Assistance and Grant Administration, Department of Housing and Urban Development, 451 Seventh Street, SW., Washington, DC 20410-8000, telephone (202) 708-3000.

• Regulation: 24 CFR 891.165.

Project/Activity: National Church Residences (NCR) of Harborcreek PA; Harborcreek, PA, Project Number: 033-EE105/PA28-S001-003.

Nature of Requirement: Section 891.165 provides that the duration of the fund reservation for the capital advance be 18 months from the date of issuance, with limited exceptions up to 24 months as approved by HUD on a case-by-case basis.

Granted By: John C. Weicher, Assistant Secretary for Housing-Federal Housing Commissioner.

Date Granted: October 2, 2003.

Reason Waived: The sponsor experienced architectural delays in redesigning the building and in securing final approval from the local planning commission.

Contact: Willie Spearmon, Director, Office of Housing Assistance and Grant Administration, Department of Housing and Urban Development, 451 Seventh Street, SW., Washington, DC 20410-8000, telephone (202) 708-3000.

• Regulation: 24 CFR 891.165.

Project/Activity: Legion Woods Apartments, New Haven, CT; Project Number: 017-HD028/CT26-Q001-004.

Nature of Requirement: Section 891.165 provides that the duration of the fund reservation for the capital advance be 18 months from the date of issuance, with limited exceptions up to 24 months as approved by HUD on a case-by-case basis.

Granted By: John C. Weicher, Assistant Secretary for Housing-Federal Housing Commissioner.

Date Granted: October 9, 2003.

Reason Waived: The sponsor experienced delays in obtaining a qualified general contractor and in responding to neighborhood opposition to the project.

Contact: Willie Spearmon, Director, Office of Housing Assistance and Grant Administration, Department of Housing and Urban Development, 451 Seventh Street, SW., Washington, DC 20410-8000, telephone (202) 708-3000.

• Regulation: 24 CFR 891.165.

Project/Activity: Myrtle Davis Senior Complex, Milwaukee, WI; Project Number: 075-EE095/WI39-S001-003.

Nature of Requirement: Section 891.165 provides that the duration of the fund reservation for the capital advance be 18 months from the date of issuance, with limited exceptions up to 24 months as approved by HUD on a case-by-case basis.

Granted By: John C. Weicher, Assistant Secretary for Housing-Federal Housing Commissioner.

Date Granted: October 20, 2003.

Reason Waived: Additional time was needed for the sponsor to obtain a building permit from the city of Milwaukee.

Contact: Willie Spearmon, Director, Office of Housing Assistance and Grant Administration, Department of Housing and Urban Development, 451 Seventh Street, SW., Washington, DC 20410-8000, telephone (202) 708-3000.

• Regulation: 24 CFR 891.165.

Project/Activity: Louisville Volunteers of America Elderly Housing, Louisville, KY; Project Number: 083-EE082/KY36-S011-008.

Nature of Requirement: Section 891.165 provides that the duration of the fund reservation for the capital advance be 18 months from the date of issuance, with limited exceptions up to 24 months as approved by HUD on a case-by-case basis.

Granted By: John C. Weicher, Assistant Secretary for Housing-Federal Housing Commissioner.

Date Granted: October 21, 2003.

Reason Waived: The project was delayed while the owner sought zoning approval.

Contact: Willie Spearmon, Director, Office of Housing Assistance and Grant Administration, Department of Housing and Urban Development, 451 Seventh Street, SW., Washington, DC 20410-8000, telephone (202) 708-3000.

• Regulation: 24 CFR 891.165.

Project/Activity: The Presbyterian Home at Stafford, Stafford Township, NJ; Project Number: 035-EE037/NJ39-S991-001.

Nature of Requirement: Section 891.165 provides that the duration of the fund reservation for the capital advance be 18 months from the date of issuance, with limited exceptions up to 24 months as approved by HUD on a case-by-case basis.

Granted By: John C. Weicher, Assistant Secretary for Housing-Federal Housing Commissioner.

Date Granted: October 21, 2003.

Reason Waived: Stafford Township was unable to execute the deed in time for initial closing.

Contact: Willie Spearmon, Director, Office of Housing Assistance and Grant Administration, Department of Housing and Urban Development, 451 Seventh Street, SW., Washington, DC 20410-8000, telephone (202) 708-3000.

• Regulation: 24 CFR 891.165.

Project/Activity: St. Francis Cabrini Gardens, Coram, NY; Project Number: 012-EE288/NY36-S001-003.

Nature of Requirement: Section 891.165 provides that the duration of the fund reservation for the capital advance be 18 months from the date of issuance, with limited exceptions up to 24 months as approved by HUD on a case-by-case basis.

Granted By: John C. Weicher, Assistant Secretary for Housing-Federal Housing Commissioner.

Date Granted: October 21, 2003.

Reason Waived: The project was delayed due to a lengthy rezoning process.

Contact: Willie Spearmon, Director, Office of Housing Assistance and Grant Administration, Department of Housing and Urban Development, 451 Seventh Street, SW., Washington, DC 20410-8000, telephone (202) 708-3000.

• Regulation: 24 CFR 891.165.

Project/Activity: Clark County Supportive Housing, Las Vegas, NV; Project Number: 125-HD069/NV25-Q011-001.

Nature of Requirement: Section 891.165 provides that the duration of the fund reservation for the capital advance be 18 months from the date of issuance, with limited exceptions up to 24 months as approved by HUD on a case-by-case basis.

Granted By: John C. Weicher, Assistant Secretary for Housing-Federal Housing Commissioner.

Date Granted: October 28, 2003.

Reason Waived: Additional time was needed to process the firm commitment application.

Contact: Willie Spearmon, Director, Office of Housing Assistance and Grant Administration, Department of Housing and Urban Development, 451 Seventh Street, SW., Washington, DC 20410-8000, telephone (202) 708-3000.

• Regulation: 24 CFR 891.165.

Project/Activity: The Pavilion at Immaculate Conception, Bronx, NY; Project Number: 012-EE247/NY36-S981-003.

Nature of Requirement: Section 891.165 provides that the duration of the fund reservation for the capital advance be 18 months from the date of issuance, with limited exceptions up to 24 months be approved by HUD on a case-by-case basis.

Granted By: John C. Weicher, Assistant Secretary for Housing-Federal Housing Commissioner.

Date Granted: October 29, 2003.

Reason Waived: Additional time was needed for the general contractor to provide a performance payment bond in accordance with HUD regulations.

Contact: Willie Spearmon, Director, Office of Housing Assistance and Grant Administration, Department of Housing and Urban Development, 451 Seventh Street, SW., Washington, DC 20410-8000, telephone (202) 708-3000.

• Regulation: 24 CFR 891.165.

Project/Activity: Northwood Elderly Housing, Northwood, NH; Project Number: 024-EE064/NH36-S011-003.

Nature of Requirement: Section 891.165 provides that the duration of the fund reservation for the capital advance be 18 months from the date of issuance, with limited exceptions up to 24 months as approved by HUD on a case-by-case basis.

Granted By: John C. Weicher, Assistant Secretary for Housing-Federal Housing Commissioner.

Date Granted: October 30, 2003.

Reason Waived: The project was delayed due to an unexpected moratorium imposed by the Northwood Village Water District because of petroleum contaminants discovered in the aquifer.

Contact: Willie Spearmon, Director, Office of Housing Assistance and Grant Administration, Department of Housing and Urban Development, 451 Seventh Street, SW., Washington, DC 20410-8000, telephone (202) 708-3000.

• Regulation: 24 CFR 891.165.

Project/Activity: The Center on Halsted, Chicago, IL; Project Number: 071-HD122/IL06-Q011-002.

Nature of Requirement: Section 891.165 provides that the duration of the fund reservation for the capital advance be 18 months from the date of issuance, with limited exceptions up to 24 months as approved by HUD on a case-by-case basis.

Granted By: John C. Weicher, Assistant Secretary for Housing-Federal Housing Commissioner.

Date Granted: October 31, 2003.

Reason Waived: Additional time was needed for the sponsor to secure secondary financing.

Contact: Willie Spearmon, Director, Office of Housing Assistance and Grant Administration, Department of Housing and Urban Development, 451 Seventh Street, SW., Washington, DC 20410-8000, telephone (202) 708-3000.

• Regulation: 24 CFR 891.165.

Project/Activity: Phelps Senior Housing, Phelps, KY; Project Number: 083-EE078/KY36-S011-004.

Nature of Requirement: Section 891.165 provides that the duration of the fund reservation for the capital advance be 18 months from the date of issuance, with limited exceptions up to 24 months as approved by HUD on a case-by-case basis.

Granted By: John C. Weicher, Assistant Secretary for Housing-Federal Housing Commissioner.

Date Granted: October 31, 2003.

Reason Waived: The sponsor experienced delays due to a change of contractors, and additional time was needed to complete the application process for additional funds.

Contact: Willie Spearmon, Director, Office of Housing Assistance and Grant Administration, Department of Housing and Urban Development, 451 Seventh Street, SW., Washington, DC 20410-8000, telephone (202) 708-3000.

• Regulation: 24 CFR 891.165.

Project/Activity: Ottawa River Estates, Toledo, OH; Project Number: 042-HD072/OH12-Q971-004.

Nature of Requirement: Section 891.165 provides that the duration of the fund reservation for the capital advance be 18 months from the date of issuance, with limited exceptions up to 24 months as approved by HUD on a case-by-case basis.

Granted By: John C. Weicher, Assistant Secretary for Housing-Federal Housing Commissioner.

Date Granted: October 31, 2003.

Reason Waived: The project was delayed while waiting for a federal court judgment concerning the sale of the land designated for the project and to secure secondary financing.

Contact: Willie Spearmon, Director, Office of Housing Assistance and Grant Administration, Department of Housing and Urban Development, 451 Seventh Street, SW., Washington, DC 20410-8000, telephone (202) 708-3000.

• Regulation: 24 CFR 891.165.

Project/Activity: Riley House, Hyde Park, MA; Project Number: 023-EE111/MA06-S991-005.

Nature of Requirement: Section 891.165 provides that the duration of the fund reservation for the capital advance be 18 months from the date of issuance, with limited exceptions up to 24 months as approved by HUD on a case-by-case basis.

Granted By: John C. Weicher, Assistant Secretary for Housing-Federal Housing Commissioner.

Date Granted: November 3, 2003.

Reason Waived: Additional time was needed to prepare for initial closing.

Contact: Willie Spearmon, Director, Office of Housing Assistance and Grant Administration, Department of Housing and Urban Development, 451 Seventh Street, SW., Washington, DC 20410-8000, telephone (202) 708-3000.

• Regulation: 24 CFR 891.165.

Project/Activity: Luther Ridge, Middletown, CT; Project Number: 017-EE053/CT26-S991-004.

Nature of Requirement: Section 891.165 provides that the duration of the fund reservation for the capital advance be 18 months from the date of issuance, with limited exceptions up to 24 months as approved by HUD on a case-by-case basis.

Granted By: John C. Weicher, Assistant Secretary for Housing-Federal Housing Commissioner.

Date Granted: November 3, 2003.

Reason Waived: Additional time was needed to combine HUD-assisted units with units financed by the Connecticut Housing Finance Authority (CHFA) and to allow CHFA to complete the financing arrangements for its units.

Contact: Willie Spearmon, Director, Office of Housing Assistance and Grant Administration, Department of Housing and Urban Development, 451 Seventh Street, SW., Washington, DC 20410-8000, telephone (202) 708-3000.

• Regulation: 24 CFR 891.165.

Project/Activity: Lancaster Landing, Lancaster, SC; Project Number: 054-HD097/SC16-Q011-003.

Nature of Requirement: Section 891.165 provides that the duration of the fund reservation for the capital advance be 18 months from the date of issuance, with limited exceptions up to 24 months as approved by HUD on a case-by-case basis.

Granted By: John C. Weicher, Assistant Secretary for Housing-Federal Housing Commissioner.

Date Granted: November 4, 2003.

Reason Waived: Additional time was needed to process the firm commitment application.

Contact: Willie Spearmon, Director, Office of Housing Assistance and Grant Administration, Department of Housing and Urban Development, 451 Seventh Street, SW., Washington, DC 20410-8000, telephone (202) 708-3000.

• Regulation: 24 CFR 891.165.

Project/Activity: Windham Willows, Windham, NY; Project Number: 014-EE210/NY06-S011-009.

Nature of Requirement: Section 891.165 provides that the duration of the fund reservation for the capital advance be 18 months from the date of issuance, with limited exceptions up to 24 months as approved by HUD on a case-by-case basis.

Granted By: John C. Weicher, Assistant Secretary for Housing-Federal Housing Commissioner.

Date Granted: November 4, 2003.

Reason Waived: Additional time was needed for the owner to secure additional funding.

Contact: Willie Spearmon, Director, Office of Housing Assistance and Grant Administration, Department of Housing and Urban Development, 451 Seventh Street, SW., Washington, DC 20410-8000, telephone (202) 708-3000.

• Regulation: 24 CFR 891.165.

Project/Activity: Sterling Oaks, Mt. Sterling, KY; Project Number: 083-HD064/KY36-Q001-005.

Nature of Requirement: Section 891.165 provides that the duration of the fund reservation for the capital advance be 18 months from the date of issuance, with limited exceptions up to 24 months as approved by HUD on a case-by-case basis.

Granted By: John C. Weicher, Assistant Secretary for Housing-Federal Housing Commissioner.

Date Granted: November 6, 2003.

Reason Waived: The project was delayed because of litigation concerning zoning.

Contact: Willie Spearmon, Director, Office of Housing Assistance and Grant Administration, Department of Housing and Urban Development, 451 Seventh Street, SW., Washington, DC 20410-8000, telephone (202) 708-3000.

• Regulation: 24 CFR 891.165.

Project/Activity: David Coleman Homes, Marion, SC; Project Number: 054-HD095/SC16-Q011-001.

Nature of Requirement: Section 891.165 provides that the duration of the fund reservation for the capital advance be 18 months from the date of issuance, with limited exceptions up to 24 months as approved by HUD on a case-by-case basis.

Granted By: John C. Weicher, Assistant Secretary for Housing-Federal Housing Commissioner.

Date Granted: November 6, 2003.

Reason Waived: Additional time was needed to submit the firm commitment application.

Contact: Willie Spearmon, Director, Office of Housing Assistance and Grant Administration, Department of Housing and Urban Development, 451 Seventh Street, SW., Washington, DC 20410-8000, telephone (202) 708-3000.

• Regulation: 24 CFR 891.165.

Project/Activity: Penn Hills Group Home, Penn Hills, PA; Project Number: 033-HD070/PA28-Q011-008.

Nature of Requirement: Section 891.165 provides that the duration of the fund reservation for the capital advance be 18 months from the date of issuance, with limited exceptions up to 24 months as approved by HUD on a case-by-case basis.

Granted By: John C. Weicher, Assistant Secretary for Housing-Federal Housing Commissioner.

Date Granted: November 6, 2003.

Reason Waived: Additional time was needed to assure that all easement and maintenance agreements were approved.

Contact: Willie Spearmon, Director, Office of Housing Assistance and Grant Administration, Department of Housing and Urban Development, 451 Seventh Street, SW., Washington, DC 20410-8000, telephone (202) 708-3000.

• Regulation: 24 CFR 891.165.

Project/Activity: GIBB-Springfield Village, Springfield, FL; Project Number: 063-HD018/FL29-Q011-001.

Nature of Requirement: Section 891.165 provides that the duration of the fund reservation for the capital advance be 18 months from the date of issuance, with limited exceptions up to 24 months as approved by HUD on a case-by-case basis.

Granted By: John C. Weicher, Assistant Secretary for Housing-Federal Housing Commissioner.

Date Granted: November 6, 2003.

Reason Waived: Additional time was needed to collect outstanding items that were to be part of the firm commitment application.

Contact: Willie Spearmon, Director, Office of Housing Assistance and Grant Administration, Department of Housing and Urban Development, 451 Seventh Street, SW., Washington, DC 20410-8000, telephone (202) 708-3000.

• Regulation: 24 CFR 891.165.

Project/Activity: Eastmont Court, Oakland, CA; Project Number: 121-HD075/CA39-Q011-001.

Nature of Requirement: Section 891.165 provides that the duration of the fund reservation for the capital advance be 18 months from the date of issuance, with limited exceptions up to 24 months as approved by HUD on a case-by-case basis.

Granted By: John C. Weicher, Assistant Secretary for Housing-Federal Housing Commissioner.

Date Granted: November 6, 2003.

Reason Waived: Additional time was needed to review the secondary financing documents.

Contact: Willie Spearmon, Director, Office of Housing Assistance and Grant Administration, Department of Housing and Urban Development, 451 Seventh Street, SW., Washington, DC 20410-8000, telephone (202) 708-3000.

• Regulation: 24 CFR 891.165.

Project/Activity: Jewish Community Housing d/b/a Isenstadt Legacy House, Lyndhurst, OH; Project Number: 042-HD092/OH12-Q011-002.

Nature of Requirement: Section 891.165 provides that the duration of the fund reservation for the capital advance be 18 months from the date of issuance, with limited exceptions up to 24 months as approved by HUD on a case-by-case basis.

Granted By: John C. Weicher, Assistant Secretary for Housing-Federal Housing Commissioner.

Date Granted: November 6, 2003.

Reason Waived: Additional time was needed for the sponsor to locate an alternate site.

Contact: Willie Spearmon, Director, Office of Housing Assistance and Grant Administration, Department of Housing and Urban Development, 451 Seventh Street, SW., Washington, DC 20410-8000, telephone (202) 708-3000.

• Regulation: 24 CFR 891.165.

Project/Activity: Hemlock Nob Estates, Tannersville, NY; Project Number: 014-EE209/NY06-S011-008.

Nature of Requirement: Section 891.165 provides that the duration of the fund reservation for the capital advance be 18 months from the date of issuance, with limited exceptions up to 24 months as approved by HUD on a case-by-case basis.

Granted By: John C. Weicher, Assistant Secretary for Housing-Federal Housing Commissioner.

Date Granted: November 6, 2003.

Reason Waived: Additional time was needed to review and approve the new site, process the firm commitment application, and secure additional funding.

Contact: Willie Spearmon, Director, Office of Housing Assistance and Grant Administration, Department of Housing and Urban Development, 451 Seventh Street, SW., Washington, DC 20410-8000, telephone (202) 708-3000.

• Regulation: 24 CFR 891.165.

Project/Activity: Halsey Terrace, Portland, OR; Project Number: 126-HD032/OR16-Q011-003.

Nature of Requirement: Section 891.165 provides that the duration of the fund reservation for the capital advance be 18 months from the date of issuance, with limited exceptions up to 24 months as approved by HUD on a case-by-case basis.

Granted By: John C. Weicher, Assistant Secretary for Housing-Federal Housing Commissioner.

Date Granted: November 6, 2003.

Reason Waived: Additional time was needed to review the firm commitment application and for the Internal Revenue Service to grant tax-exempt status to the owner's corporation.

Contact: Willie Spearmon, Director, Office of Housing Assistance and Grant Administration, Department of Housing and Urban Development, 451 Seventh Street, SW., Washington, DC 20410-8000, telephone (202) 708-3000.

• Regulation: 24 CFR 891.165.

Project/Activity: Winchester Senior Housing, Elko, NV; Project Number: 125-EE118/NV25-S011-001.

Nature of Requirement: Section 891.165 provides that the duration of the fund reservation for the capital advance be 18 months from the date of issuance, with limited exceptions up to 24 months as approved by HUD on a case-by-case basis.

Granted By: John C. Weicher, Assistant Secretary for Housing-Federal Housing Commissioner.

Date Granted: November 7, 2003.

Reason Waived: Additional time was needed to process the firm commitment application.

Contact: Willie Spearmon, Director, Office of Housing Assistance and Grant Administration, Department of Housing and Urban Development, 451 Seventh Street, SW., Washington, DC 20410-8000, telephone (202) 708-3000.

• Regulation: 24 CFR 891.165.

Project/Activity: Bayview Apartments, Miami FL; Project Number: 066-EE085/FL29-S011-009.

Nature of Requirement: Section 891.165 provides that the duration of the fund reservation for the capital advance be 18 months from the date of issuance, with limited exceptions up to 24 months as approved by HUD on a case-by-case basis.

Granted By: John C. Weicher, Assistant Secretary for Housing-Federal Housing Commissioner.

Date Granted: November 7, 2003.

Reason Waived: Additional time was needed to submit the firm commitment application.

Contact: Willie Spearmon, Director, Office of Housing Assistance and Grant Administration, Department of Housing and Urban Development, 451 Seventh Street, SW., Washington, DC 20410-8000, telephone (202) 708-3000.

• Regulation: 24 CFR 891.165.

Project/Activity: Casa Dorada, Ponce, PR; Project Number: 056-EE044/RQ46-S011-002.

Nature of Requirement: Section 891.165 provides that the duration of the fund reservation for the capital advance be 18 months from the date of issuance, with limited exceptions up to 24 months as approved by HUD on a case-by-case basis.

Granted By: John C. Weicher, Assistant Secretary for Housing-Federal Housing Commissioner.

Date Granted: November 7, 2003.

Reason Waived: Additional time was needed to secure endorsements from government agencies because the project is located in an historic area.

Contact: Willie Spearmon, Director, Office of Housing Assistance and Grant Administration, Department of Housing and Urban Development, 451 Seventh Street, SW., Washington, DC 20410-8000, telephone (202) 708-3000.

• Regulation: 24 CFR 891.165.

Project/Activity: Villa Regina, West Palm Beach, FL; Project Number: 066-EE086/FL29-S011-010.

Nature of Requirement: Section 891.165 provides that the duration of the fund reservation for the capital advance be 18 months from the date of issuance, with limited exceptions up to 24 months as approved by HUD on a case-by-case basis.

Granted By: John C. Weicher, Assistant Secretary for Housing-Federal Housing Commissioner.

Date Granted: November 10, 2003.

Reason Waived: Additional time was needed to submit the firm commitment application.

Contact: Willie Spearmon, Director, Office of Housing Assistance and Grant Administration, Department of Housing and Urban Development, 451 Seventh Street, SW., Washington, DC 20410-8000, telephone (202) 708-3000.

• Regulation: 24 CFR 891.165.

Project/Activity: River View Gardens, Queens, NY; Project Number: 012-EE195/NY36-S961-013.

Nature of Requirement: Section 891.165 provides that the duration of the fund reservation for the capital advance be 18 months from the date of issuance, with limited exceptions up to 24 months as approved by HUD on a case-by-case basis.

Granted By: John C. Weicher, Assistant Secretary for Housing-Federal Housing Commissioner.

Date Granted: November 10, 2003.

Reason Waived: Additional time was needed to process the firm commitment application.

Contact: Willie Spearmon, Director, Office of Housing Assistance and Grant Administration, Department of Housing and Urban Development, 451 Seventh Street, SW., Washington, DC 20410-8000, telephone (202) 708-3000.

• Regulation: 24 CFR 891.165.

Project/Activity: East Bay Mental Health Center, East Providence, RI; Project Number: 016-HD033/RI43-Q001-003.

Nature of Requirement: Section 891.165 provides that the duration of the fund reservation for the capital advance be 18 months from the date of issuance, with limited exceptions up to 24 months as approved by HUD on a case-by-case basis.

Granted By: John C. Weicher, Assistant Secretary for Housing-Federal Housing Commissioner.

Date Granted: November 13, 2003.

Reason Waived: Additional time was needed to select a new site.

Contact: Willie Spearmon, Director, Office of Housing Assistance and Grant Administration, Department of Housing and Urban Development, 451 Seventh Street, SW., Washington, DC 20410-8000, telephone (202) 708-3000.

• Regulation: 24 CFR 891.165.

Project/Activity: National Church Residences of Kansas City, Kansas City, MO; Project Number: 084-EE051/MO16-S011-005.

Nature of Requirement: Section 891.165 provides that the duration of the fund reservation for the capital advance be 18 months from the date of issuance, with limited exceptions up to 24 months as approved by HUD on a case-by-case basis.

Granted By: John C. Weicher, Assistant Secretary for Housing-Federal Housing Commissioner.

Date Granted: November 14, 2003.

Reason Waived: Additional time was needed for the owner to secure proper zoning.

Contact: Willie Spearmon, Director, Office of Housing Assistance and Grant Administration, Department of Housing and Urban Development, 451 Seventh Street, SW., Washington, DC 20410-8000, telephone (202) 708-3000.

• Regulation: 24 CFR 891.165.

Project/Activity: Unity Gardens Senior Apartments, Windham, ME; Project Number: 024-EE053/ME36-S0011-001.

Nature of Requirement: Section 891.165 provides that the duration of the fund reservation for the capital advance be 18 months from the date of issuance, with limited exceptions up to 24 months as approved by HUD on a case-by-case basis.

Granted By: John C. Weicher, Assistant Secretary for Housing-Federal Housing Commissioner.

Date Granted: November 14, 2003.

Reason Waived: Additional time was needed to secure a site and coordinate the processing requirements of HUD and the U.S. Department of Agriculture.

Contact: Willie Spearmon, Director, Office of Housing Assistance and Grant Administration, Department of Housing and Urban Development, 451 Seventh Street, SW., Washington, DC 20410-8000, telephone (202) 708-3000.

• Regulation: 24 CFR 891.165.

Project/Activity: New Courtland 811, Philadelphia, PA; Project Number: 034-HD068/PA26-Q011-005.

Nature of Requirement: Section 891.165 provides that the duration of the fund reservation for the capital advance be 18 months from the date of issuance, with limited exceptions up to 24 months as approved by HUD on a case-by-case basis.

Granted By: John C. Weicher, Assistant Secretary for Housing-Federal Housing Commissioner.

Date Granted: November 14, 2003.

Reason Waived: Additional time was needed to secure zoning approval and submit the firm commitment application.

Contact: Willie Spearmon, Director, Office of Housing Assistance and Grant Administration, Department of Housing and Urban Development, 451 Seventh Street, SW., Washington, DC 20410-8000, telephone (202) 708-3000.

• Regulation: 24 CFR 891.165.

Project/Activity: Victory Gardens, New Haven, CT; Project Number: 017-EE066/CT26-S011-002.

Nature of Requirement: Section 891.165 provides that the duration of the fund reservation for the capital advance be 18 months from the date of issuance, with limited exceptions up to 24 months as approved by HUD on a case-by-case basis.

Granted By: John C. Weicher, Assistant Secretary for Housing-Federal Housing Commissioner.

Date Granted: November 14, 2003.

Reason Waived: Additional time was needed to review the revised plans and specifications.

Contact: Willie Spearmon, Director, Office of Housing Assistance and Grant Administration, Department of Housing and Urban Development, 451 Seventh Street, SW., Washington, DC 20410-8000, telephone (202) 708-3000.

• Regulation: 24 CFR 891.165.

Project/Activity: New Courtland 202, Philadelphia, PA; Project Number: 034-EE119/PA26-S011-009.

Nature of Requirement: Section 891.165 provides that the duration of the fund reservation for the capital advance be 18 months from the date of issuance, with limited exceptions up to 24 months as approved by HUD on a case-by-case basis.

Granted By: John C. Weicher, Assistant Secretary for Housing-Federal Housing Commissioner.

Date Granted: November 14, 2003.

Reason Waived: Additional time was needed to secure zoning approval and submit the firm commitment application.

Contact: Willie Spearmon, Director, Office of Housing Assistance and Grant Administration, Department of Housing and Urban Development, 451 Seventh Street, SW., Washington, DC 20410-8000, telephone (202) 708-3000.

• Regulation: 24 CFR 891.165.

Project/Activity: Westmoreland Apartments, Huntington, WV; Project Number: 045-EE017/WV15-S011-003.

Nature of Requirement: Section 891.165 provides that the duration of the fund reservation for the capital advance be 18 months from the date of issuance, with limited exceptions up to 24 months as approved by HUD on a case-by-case basis.

Granted By: John C. Weicher, Assistant Secretary for Housing-Federal Housing Commissioner.

Date Granted: November 14, 2003.

Reason Waived: Additional time was needed to finalize the initial closing.

Contact: Willie Spearmon, Director, Office of Housing Assistance and Grant Administration, Department of Housing and Urban Development, 451 Seventh Street, SW., Washington, DC 20410-8000, telephone (202) 708-3000.

• Regulation: 24 CFR 891.165.

Project/Activity: Gulfport Manor, Gulfport, MS; Project Number: 065-EE0031/MS26-S001-002.

Nature of Requirement: Section 891.165 provides that the duration of the fund reservation for the capital advance be 18 months from the date of issuance, with limited exceptions up to 24 months as approved by HUD on a case-by-case basis.

Granted By: John C. Weicher, Assistant Secretary for Housing-Federal Housing Commissioner.

Date Granted: November 14, 2003.

Reason Waived: Additional time was needed for the owner to review the plans and for HUD to process the firm commitment application.

Contact: Willie Spearmon, Director, Office of Housing Assistance and Grant Administration, Department of Housing and Urban Development, 451 Seventh Street, SW., Washington, DC 20410-8000, telephone (202) 708-3000.

• Regulation: 24 CFR 891.165.

Project/Activity: Family Services of Western Pennsylvania II, Apollo, PA; Project Number: 033-HD064/PA28-Q011-002.

Nature of Requirement: Section 891.165 provides that the duration of the fund reservation for the capital advance be 18 months from the date of issuance, with limited exceptions up to 24 months as approved by HUD on a case-by-case basis.

Granted By: John C. Weicher, Assistant Secretary for Housing-Federal Housing Commissioner.

Date Granted: November 17, 2003.

Reason Waived: Additional time was needed to select a general contractor and process the firm commitment application.

Contact: Willie Spearmon, Director, Office of Housing Assistance and Grant Administration, Department of Housing and Urban Development, 451 Seventh Street, SW., Washington, DC 20410-8000, telephone (202) 708-3000.

• Regulation: 24 CFR 891.165.

Project/Activity: Community Options Van Houten, Butler, NJ; Project Number: 031-HD107/NJ39-Q001-013.

Nature of Requirement: Section 891.165 provides that the duration of the fund reservation for the capital advance be 18 months from the date of issuance, with limited exceptions up to 24 months as approved by HUD on a case-by-case basis.

Granted By: John C. Weicher, Assistant Secretary for Housing-Federal Housing Commissioner.

Date Granted: November 18, 2003.

Reason Waived: Additional time was needed to process the firm commitment application.

Contact: Willie Spearmon, Director, Office of Housing Assistance and Grant Administration, Department of Housing and Urban Development, 451 Seventh Street, SW., Washington, DC 20410-8000, telephone (202) 708-3000.

• Regulation: 24 CFR 891.165.

Project/Activity: Oriente House, Vista, CA; Project Number: 129-HD021/CA33-Q011-001.

Nature of Requirement: Section 891.165 provides that the duration of the fund reservation for the capital advance be 18 months from the date of issuance, with limited exceptions up to 24 months as approved by HUD on a case-by-case basis.

Granted By: John C. Weicher, Assistant Secretary for Housing-Federal Housing Commissioner.

Date Granted: November 20, 2003.

Reason Waived: Additional time was needed to process the firm commitment application.

Contact: Willie Spearmon, Director, Office of Housing Assistance and Grant Administration, Department of Housing and Urban Development, 451 Seventh Street, SW., Washington, DC 20410-8000, telephone (202) 708-3000.

• Regulation: 24 CFR 891.165.

Project/Activity: Family Services of Western Pennsylvania I, Sarver, PA; Project Number: 033-HD063/PA28-Q011-001.

Nature of Requirement: Section 891.165 provides that the duration of the fund reservation for the capital advance be 18 months from the date of issuance, with limited exceptions up to 24 months as approved by HUD on a case-by-case basis.

Granted By: John C. Weicher, Assistant Secretary for Housing-Federal Housing Commissioner.

Date Granted: November 20, 2003.

Reason Waived: Additional time was needed to select a general contractor and process the firm commitment application.

Contact: Willie Spearmon, Director, Office of Housing Assistance and Grant Administration, Department of Housing and Urban Development, 451 Seventh Street, SW., Washington, DC 20410-8000, telephone (202) 708-3000.

• Regulation: 24 CFR 891.165.

Project/Activity: Lutheran Homes #12, Oak Harbor, OH; Project Number: 042-EE130/OH12-S011-004.

Nature of Requirement: Section 891.165 provides that the duration of the fund reservation for the capital advance be 18 months from the date of issuance, with limited exceptions up to 24 months as approved by HUD on a case-by-case basis.

Granted By: John C. Weicher, Assistant Secretary for Housing-Federal Housing Commissioner.

Date Granted: November 20, 2003.

Reason Waived: Additional time was needed to employ a new consultant.

Contact: Willie Spearmon, Director, Office of Housing Assistance and Grant Administration, Department of Housing and Urban Development, 451 Seventh Street, SW., Washington, DC 20410-8000, telephone (202) 708-3000.

• Regulation: 24 CFR 891.165.

Project/Activity: Philip Murray House II, Philadelphia, PA; Project Number: 034-EE102/PA26-S001-002.

Nature of Requirement: Section 891.165 provides that the duration of the fund reservation for the capital advance be 18 months from the date of issuance, with limited exceptions up to 24 months as approved by HUD on a case-by-case basis.

Granted By: John C. Weicher, Assistant Secretary for Housing-Federal Housing Commissioner.

Date Granted: November 20, 2003.

Reason Waived: Additional time was needed to select a general contractor and process the firm commitment application.

Contact: Willie Spearmon, Director, Office of Housing Assistance and Grant Administration, Department of Housing and Urban Development, 451 Seventh Street, SW., Washington, DC 20410-8000, telephone (202) 708-3000.

• Regulation: 24 CFR 891.165.

Project/Activity: Allesandro Apartments, Los Angeles, CA; Project Number: 122-HD141/CA16-Q011-001.

Nature of Requirement: Section 891.165 provides that the duration of the fund reservation for the capital advance be 18 months from the date of issuance, with limited exceptions up to 24 months as approved by HUD on a case-by-case basis.

Granted By: John C. Weicher, Assistant Secretary for Housing-Federal Housing Commissioner.

Date Granted: November 20, 2003.

Reason Waived: Additional time was needed to review the closing documents.

Contact: Willie Spearmon, Director, Office of Housing Assistance and Grant Administration, Department of Housing and Urban Development, 451 Seventh Street, SW., Washington, DC 20410-8000, telephone (202) 708-3000.

• Regulation: 24 CFR 891.165.

Project/Activity: Casimir House, Gardena, CA; Project Number: 122-HD142/CA16-Q011-002.

Nature of Requirement: Section 891.165 provides that the duration of the fund reservation for the capital advance be 18 months from the date of issuance, with limited exceptions up to 24 months as approved by HUD on a case-by-case basis.

Granted By: John C. Weicher, Assistant Secretary for Housing-Federal Housing Commissioner.

Date Granted: November 21, 2003.

Reason Waived: Additional time was needed to prepare for initial closing.

Contact: Willie Spearmon, Director, Office of Housing Assistance and Grant Administration, Department of Housing and Urban Development, 451 Seventh Street, SW., Washington, DC 20410-8000, telephone (202) 708-3000.

• Regulation: 24 CFR 891.165.

Project/Activity: Harvard Square, Irvine, CA; Project Number: 143-HD011/CA43-Q001-001.

Nature of Requirement: Section 891.165 provides that the duration of the fund reservation for the capital advance be 18 months from the date of issuance, with limited exceptions up to 24 months as approved by HUD on a case-by-case basis.

Granted By: John C. Weicher, Assistant Secretary for Housing-Federal Housing Commissioner.

Date Granted: December 1, 2003.

Reason Waived: Additional time was needed to prepare for initial closing.

Contact: Willie Spearmon, Director, Office of Housing Assistance and Grant Administration, Department of Housing and Urban Development, 451 Seventh Street, SW., Washington, DC 20410-8000, telephone (202) 708-3000.

• Regulation: 24 CFR 891.165.

Project/Activity: Burbank Accessible Apartments, Burbank, CA; Project Number: 122-HD133/CA16-Q011-004.

Nature of Requirement: Section 891.165 provides that the duration of the fund reservation for the capital advance be 18 months from the date of issuance, with limited exceptions up to 24 months as approved by HUD on a case-by-case basis.

Granted By: John C. Weicher, Assistant Secretary for Housing-Federal Housing Commissioner.

Date Granted: December 1, 2003.

Reason Waived: Additional time was needed for the lengthy process involved in receiving city approval of project design, for completion of construction documents, and for the sponsor to secure additional funding.

Contact: Willie Spearmon, Director, Office of Housing Assistance and Grant Administration, Department of Housing and Urban Development, 451 Seventh Street, SW., Washington, DC 20410-8000, telephone (202) 708-3000.

• Regulation: 24 CFR 891.165.

Project/Activity: Creekside Gardens, Paso Robles, CA; Project Number: 122-EE162/CA16-S991-013.

Nature of Requirement: Section 891.165 provides that the duration of the fund reservation for the capital advance be 18 months from the date of issuance, with limited exceptions up to 24 months as approved by HUD on a case-by-case basis.

Granted By: John C. Weicher, Assistant Secretary for Housing-Federal Housing Commissioner.

Date Granted: December 1, 2003.

Reason Waived: Additional time was needed to prepare for initial closing.

Contact: Willie Spearmon, Director, Office of Housing Assistance and Grant Administration, Department of Housing and Urban Development, 451 Seventh Street, SW., Washington, DC 20410-8000, telephone (202) 708-3000.

• Regulation: 24 CFR 891.165.

Project/Activity: 703 Cedar Street Senior Housing, Garberville, CA; Project Number: 121-EE147/CA39-S011-007.

Nature of Requirement: Section 891.165 provides that the duration of the fund reservation for the capital advance be 18 months from the date of issuance, with limited exceptions up to 24 months as approved by HUD on a case-by-case basis.

Granted By: John C. Weicher, Assistant Secretary for Housing-Federal Housing Commissioner.

Date Granted: December 1, 2003.

Reason Waived: Additional time was needed to process the firm commitment application.

Contact: Willie Spearmon, Director, Office of Housing Assistance and Grant Administration, Department of Housing and Urban Development, 451 Seventh Street, SW., Washington, DC 20410-8000, telephone (202) 708-3000.

• Regulation: 24 CFR 891.165.

Project/Activity: Belmeno Manor, Long Beach, CA; Project Number: 122-HD146/CA16-Q011-006.

Nature of Requirement: Section 891.165 provides that the duration of the fund reservation for the capital advance be 18 months from the date of issuance, with limited exceptions up to 24 months as approved by HUD on a case-by-case basis.

Granted By: John C. Weicher, Assistant Secretary for Housing-Federal Housing Commissioner.

Date Granted: December 1, 2003.

Reason Waived: Additional time was needed to review the initial closing documents.

Contact: Willie Spearmon, Director, Office of Housing Assistance and Grant Administration, Department of Housing and Urban Development, 451 Seventh Street, SW., Washington, DC 20410-8000, telephone (202) 708-3000.

• Regulation: 24 CFR 891.165.

Project/Activity: Union Seniors, Los Angeles, CA; Project Number: 122-EE133/CA16-S981-002.

Nature of Requirement: Section 891.165 provides that the duration of the fund reservation for the capital advance be 18 months from the date of issuance, with limited exceptions up to 24 months as approved by HUD on a case-by-case basis.

Granted By: John C. Weicher, Assistant Secretary for Housing-Federal Housing Commissioner.

Date Granted: December 1, 2003.

Reason Waived: Additional time was needed to complete site approval and to review and process the firm commitment application.

Contact: Willie Spearmon, Director, Office of Housing Assistance and Grant Administration, Department of Housing and Urban Development, 451 Seventh Street, SW., Washington, DC 20410-8000, telephone (202) 708-3000.

• Regulation: 24 CFR 891.165.

Project/Activity: Vermont Seniors, Los Angeles, CA; Project Number: 122-EE148/CA16-S981-017.

Nature of Requirement: Section 891.165 provides that the duration of the fund reservation for the capital advance be 18 months from the date of issuance, with limited exceptions up to 24 months as approved by HUD on a case-by-case basis.

Granted By: John C. Weicher, Assistant Secretary for Housing-Federal Housing Commissioner.

Date Granted: December 1, 2003.

Reason Waived: Additional time was needed to process the firm commitment application.

Contact: Willie Spearmon, Director, Office of Housing Assistance and Grant Administration, Department of Housing and Urban Development, 451 Seventh Street, SW., Washington, DC 20410-8000, telephone (202) 708-3000.

• Regulation: 24 CFR 891.165.

Project/Activity: Port City Housing, Mobile, AL; Project Number: 062-HD050/AL09-Q011-003.

Nature of Requirement: Section 891.165 provides that the duration of the fund reservation for the capital advance be 18 months from the date of issuance, with limited exceptions up to 24 months as approved by HUD on a case-by-case basis.

Granted By: John C. Weicher, Assistant Secretary for Housing-Federal Housing Commissioner.

Date Granted: December 2, 2003.

Reason Waived: Additional time was needed for plans and specifications to be reviewed and approved as required by the city of Mobile.

Contact: Willie Spearmon, Director, Office of Housing Assistance and Grant Administration, Department of Housing and Urban Development, 451 Seventh Street, SW., Washington, DC 20410-8000, telephone (202) 708-3000.

• Regulation: 24 CFR 891.165.

Project/Activity: McDowell County Housing Action Network, War, WV; Project Number: 045-EE015/WV15-S011-001.

Nature of Requirement: Section 891.165 provides that the duration of the fund reservation for the capital advance be 18 months from the date of issuance, with limited exceptions up to 24 months as approved by HUD on a case-by-case basis.

Granted By: John C. Weicher, Assistant Secretary for Housing-Federal Housing Commissioner.

Date Granted: December 3, 2003.

Reason Waived: Additional time was needed to submit the firm commitment application.

Contact: Willie Spearmon, Director, Office of Housing Assistance and Grant Administration, Department of Housing and Urban Development, 451 Seventh Street, SW., Washington, DC 20410-8000, telephone (202) 708-3000.

• Regulation: 24 CFR 891.165.

Project/Activity: Senior Residence at Kapolei, Kapolei, HI; Project Number: 140-EE024/HI10-S011-001.

Nature of Requirement: Section 891.165 provides that the duration of the fund reservation for the capital advance be 18 months from the date of issuance, with limited exceptions up to 24 months as approved by HUD on a case-by-case basis.

Granted By: John C. Weicher, Assistant Secretary for Housing-Federal Housing Commissioner.

Date Granted: December 3, 2003.

Reason Waived: Additional time was needed for the sponsor to secure additional financing.

Contact: Willie Spearmon, Director, Office of Housing Assistance and Grant Administration, Department of Housing and Urban Development, 451 Seventh Street, SW., Washington, DC 20410-8000, telephone (202) 708-3000.

• Regulation: 24 CFR 891.165.

Project/Activity: Whalley Housing II, New Haven, CT; Project Number: 017-HD031/CT26-Q011-003.

Nature of Requirement: Section 891.165 provides that the duration of the fund reservation for the capital advance be 18 months from the date of issuance, with limited exceptions up to 24 months as approved by HUD on a case-by-case basis.

Granted By: John C. Weicher, Assistant Secretary for Housing-Federal Housing Commissioner.

Date Granted: December 3, 2003.

Reason Waived: Additional time was needed to redesign the project and process the firm commitment application.

Contact: Willie Spearmon, Director, Office of Housing Assistance and Grant Administration, Department of Housing and Urban Development, 451 Seventh Street, SW., Washington, DC 20410-8000, telephone (202) 708-3000.

• Regulation: 24 CFR 891.165.

Project/Activity: Nonantum Village Place, Newton, MA; Project Number: 023-EE126/MA06-S001-011.

Nature of Requirement: Section 891.165 provides that the duration of the fund reservation for the capital advance be 18 months from the date of issuance, with limited exceptions up to 24 months as approved by HUD on a case-by-case basis.

Granted By: John C. Weicher, Assistant Secretary for Housing-Federal Housing Commissioner.

Date Granted: December 3, 2003.

Reason Waived: Additional time was needed to complete the closing documents.

Contact: Willie Spearmon, Director, Office of Housing Assistance and Grant Administration, Department of Housing and Urban Development, 451 Seventh Street, SW., Washington, DC 20410-8000, telephone (202) 708-3000.

• Regulation: 24 CFR 891.165.

Project/Activity: BCARC Homes IV, Inc., Palm Bay, FL; Project Number: 067-HD086/FL29-Q011-006.

Nature of Requirement: Section 891.165 provides that the duration of the fund reservation for the capital advance be 18 months from the date of issuance, with limited exceptions up to 24 months as approved by HUD on a case-by-case basis.

Granted By: John C. Weicher, Assistant Secretary for Housing-Federal Housing Commissioner.

Date Granted: December 3, 2003.

Reason Waived: Additional time was needed to re-bid for a new general contractor, obtain a revised cost analysis, and prepare additional exhibits.

Contact: Willie Spearmon, Director, Office of Housing Assistance and Grant Administration, Department of Housing and Urban Development, 451 Seventh Street, SW., Washington, DC 20410-8000, telephone (202) 708-3000.

• Regulation: 24 CFR 891.165.

Project/Activity: Fayette Hills Unity, Oak Hill, WV; Project Number: 045-HD033/WV15-Q011-001.

Nature of Requirement: Section 891.165 provides that the duration of the fund reservation for the capital advance be 18 months from the date of issuance, with limited exceptions up to 24 months as approved by HUD on a case-by-case basis.

Granted By: John C. Weicher, Assistant Secretary for Housing-Federal Housing Commissioner.

Date Granted: December 3, 2003.

Reason Waived: Additional time was needed to seek secondary financing and prepare for initial closing.

Contact: Willie Spearmon, Director, Office of Housing Assistance and Grant Administration, Department of Housing and Urban Development, 451 Seventh Street, SW., Washington, DC 20410-8000, telephone (202) 708-3000.

• Regulation: 24 CFR 891.165.

Project/Activity: Peaks Island Volunteers of America Elderly Housing, Peaks Island, ME; Project Number: 024-EE058/ME36-S011-001.

Nature of Requirement: Section 891.165 provides that the duration of the fund reservation for the capital advance be 18 months from the date of issuance, with limited exceptions up to 24 months as approved by HUD on a case-by-case basis.

Granted By: John C. Weicher, Assistant Secretary for Housing-Federal Housing Commissioner.

Date Granted: December 3, 2003.

Reason Waived: Additional time was needed to redesign the project and process the firm commitment application.

Contact: Willie Spearmon, Director, Office of Housing Assistance and Grant Administration, Department of Housing and Urban Development, 451 Seventh Street, SW., Washington, DC 20410-8000, telephone (202) 708-3000.

• Regulation: 24 CFR 891.165.

Project/Activity: Psalm 23 Project, Ellenwood, GA; Project Number: 061-EE090/GA06-S991-006.

Nature of Requirement: Section 891.165 provides that the duration of the fund reservation for the capital advance be 18 months from the date of issuance, with limited exceptions up to 24 months as approved by HUD on a case-by-case basis.

Granted By: John C. Weicher, Assistant Secretary for Housing-Federal Housing Commissioner.

Date Granted: December 3, 2003.

Reason Waived: Additional time was needed to complete the processing of the firm commitment application.

Contact: Willie Spearmon, Director, Office of Housing Assistance and Grant Administration, Department of Housing and Urban Development, 451 Seventh Street, SW., Washington, DC 20410-8000, telephone (202) 708-3000.

• Regulation: 24 CFR 891.165.

Project/Activity: Parque Platino, Lares, PR; Project Number: 056-EE043/RQ46-S011-001.

Nature of Requirement: Section 891.165 provides that the duration of the fund reservation for the capital advance be 18 months from the date of issuance, with limited exceptions up to 24 months as approved by HUD on a case-by-case basis.

Granted By: John C. Weicher, Assistant Secretary for Housing-Federal Housing Commissioner.

Date Granted: December 8, 2003.

Reason Waived: Additional time was needed because of the difficulties encountered in obtaining approval to join the two lots that would comprise the property on which the project would be located.

Contact: Willie Spearmon, Director, Office of Housing Assistance and Grant Administration, Department of Housing and Urban Development, 451 Seventh Street, SW., Washington, DC 20410-8000, telephone (202) 708-3000.

• Regulation: 24 CFR 891.165.

Project/Activity: Berry Wood, Deerfield Township, OH; Project Number: 046-EE058/OH10-S011-002.

Nature of Requirement: Section 891.165 provides that the duration of the fund reservation for the capital advance be 18 months from the date of issuance, with limited exceptions up to 24 months as approved by HUD on a case-by-case basis.

Granted By: John C. Weicher, Assistant Secretary for Housing-Federal Housing Commissioner.

Date Granted: December 10, 2003.

Reason Waived: Additional time was needed to finalize site control and prepare the initial closing documents.

Contact: Willie Spearmon, Director, Office of Housing Assistance and Grant Administration, Department of Housing and Urban Development, 451 Seventh Street, SW., Washington, DC 20410-8000, telephone (202) 708-3000.

• Regulation: 24 CFR 891.165.

Project/Activity: Kenwood Apartments, Adams, WI; Project Number: 075-HD068/WI39-Q011-001.

Nature of Requirement: Section 891.165 provides that the duration of the fund reservation for the capital advance be 18 months from the date of issuance, with limited exceptions up to 24 months as approved by HUD on a case-by-case basis.

Granted By: John C. Weicher, Assistant Secretary for Housing-Federal Housing Commissioner.

Date Granted: December 11, 2003.

Reason Waived: Additional time was needed to review the initial closing documents.

Contact: Willie Spearmon, Director, Office of Housing Assistance and Grant Administration, Department of Housing and Urban Development, 451 Seventh Street, SW., Washington, DC 20410-8000, telephone (202) 708-3000.

• Regulation: 24 CFR 891.165.

Project/Activity: Neumann Senior Housing, Philadelphia, PA; Project Number: 034-EE118/PA26-S011-008.

Nature of Requirement: Section 891.165 provides that the duration of the fund reservation for the capital advance be 18 months from the date of issuance, with limited exceptions up to 24 months as approved by HUD on a case-by-case basis.

Granted By: John C. Weicher, Assistant Secretary for Housing-Federal Housing Commissioner.

Date Granted: December 15, 2003.

Reason Waived: Additional time was needed to clean up the asbestos on the site and review new drawings and specifications for commercial/retail space usage.

Contact: Willie Spearmon, Director, Office of Housing Assistance and Grant Administration, Department of Housing and Urban Development, 451 Seventh Street, SW., Washington, DC 20410-8000, telephone (202) 708-3000.

• Regulation: 24 CFR 891.165.

Project/Activity: Hayworth Housing, Los Angeles, CA; Project Number: 122-HD118/CA16-Q991-002.

Nature of Requirement: Section 891.165 provides that the duration of the fund reservation for the capital advance be 18 months from the date of issuance, with limited exceptions up to 24 months as approved by HUD on a case-by-case basis.

Granted By: John C. Weicher, Assistant Secretary for Housing-Federal Housing Commissioner.

Date Granted: December 23, 2003.

Reason Waived: Additional time was needed to process the firm commitment application.

Contact: Willie Spearmon, Director, Office of Housing Assistance and Grant Administration, Department of Housing and Urban Development, 451 Seventh Street, SW., Washington, DC 20410-8000, telephone (202) 708-3000.

• Regulation: 24 CFR 891.165.

Project/Activity: NCR North Fairmont, Cincinnati, OH; Project Number: 046-EEO56/OH10-S001-004.

Nature of Requirement: Section 891.165 provides that the duration of the fund reservation for the capital advance be 18 months from the date of issuance, with limited exceptions up to 24 months as approved by HUD on a case-by-case basis.

Granted By: John C. Weicher, Assistant Secretary for Housing-Federal Housing Commissioner.

Date Granted: December 31, 2003.

Reason Waived: Additional time was needed to finalize the firm commitment application.

Contact: Willie Spearmon, Director, Office of Housing Assistance and Grant Administration, Department of Housing and Urban Development, 451 Seventh Street, SW., Washington, DC 20410-8000, telephone (202) 708-3000.

III. Regulatory Waivers Granted by the Office of Public and Indian Housing

For further information about the following regulatory waivers, please see the name of the contact person that immediately follows the description of the waiver granted.

• Regulation: 24 CFR 902.33(c).

Project/Activity: Huntsville Housing Authority, AL047 Huntsville, AL.

Nature of Requirement: The regulation establishes certain reporting compliance dates. In accordance with the Single Audit Act and OMB Circular A-133, unaudited financial statements are required to be submitted two months after the fiscal year end of a public housing agency (PHA), and audited financial statements are required no later than 9 months after the PHA's fiscal year ends.

Granted By: Michael Liu, Assistant Secretary for Public and Indian Housing.

Date Granted: November 6, 2003.

Reason Waived: The housing authority requested an extension of time to file a technical review/database adjustment (TR/DBA). The housing authority's Board of Commissioners exercised a 60-day termination clause in its Executive Director's employment contract and terminated the Director's employment with the housing authority. The housing authority staff believed that the request for a TR/DBA had been formally submitted by the Executive Director before the Director's departure. It was subsequently discovered that the request had not been submitted. An extension of time was therefore granted.

Contact: Judy Wojciechowski, Director, Office of Troubled Agency Recovery, Office of Public and Indian Housing, Department of Housing and Urban Development, 451 Seventh Street, SW., Washington, DC 20410-5000, telephone (202) 708-4932.

• Regulation: 24 CFR 902.33(c).

Project/Activity: Jesup Housing Authority, GA066, Jesup, GA.

Nature of Requirement: The regulation establishes certain reporting compliance dates. In accordance with the Single Audit Act and OMB Circular A-133, unaudited financial statements are required to be submitted two months after the fiscal year end of a public housing agency (PHA), and audited financial statements are required no later than 9 months after the PHA's fiscal year ends.

Granted By: Michael Liu, Assistant Secretary for Public and Indian Housing.

Date Granted: November 6, 2003.

Reason Waived: The housing authority did not perform a financial audit for the fiscal year ending September 30, 2002, because the auditor cancelled the audit. The cancellation was attributed to an investigation of the housing authority's former Executive Director by HUD's Office of the Inspector General (OIG). HUD's OIG had the financial data needed for the audit to be submitted. Additional time was needed to complete the audit.

Contact: Judy Wojciechowski, Director, Office of Troubled Agency Recovery, Office of Public and Indian Housing, Department of Housing and Urban Development, 451 Seventh Street, SW., Washington, DC 20410-5000, telephone (202) 708-4932.

• Regulation: 24 CFR 902.33(c).

Project/Activity: Kansas City Housing Authority (KS001) Kansas City, KS.

Nature of Requirement: The regulation establishes certain reporting compliance dates. In accordance with the Single Audit Act and OMB Circular A-133, unaudited financial statements are required to be submitted two months after the fiscal year end of a public housing agency (PHA), and audited financial statements are required no later than 9 months after the PHA's fiscal year ends.

Granted By: Michael Liu, Assistant Secretary for Public and Indian Housing.

Date Granted: November 26, 2003.

Reason Waived: The housing authority requested an extension of time to submit its unaudited financial data. The housing authority's Executive Director had misfiled the notification letter stating that the unaudited submission had been rejected and that the authority had until June 26, 2002, to resubmit corrected unaudited financial data. Consequently, it was not until September 2003 that the housing authority realized it had received a late penalty fee for failing to resubmit a corrected unaudited submission and must resubmit its unaudited financial data.

Contact: Judy Wojciechowski, Director, Office of Troubled Agency Recovery, Office of Public and Indian Housing, Department of Housing and Urban Development, 451 Seventh Street, SW., Washington, DC 20410-5000, telephone (202) 708-4932.

• Regulation: 24 CFR 902.33(c).

Project/Activity: City of Anthony Housing Authority, (KS018); Anthony, KS.

Nature of Requirement: The regulation establishes certain reporting compliance dates. In accordance with the Single Audit Act and OMB Circular A-133, unaudited financial statements are required to be submitted two months after the fiscal year end of a public housing agency (PHA), and audited financial statements are required no later than 9 months after the PHA's fiscal year ends.

Granted By: Michael Liu, Assistant Secretary for Public and Indian Housing.

Date Granted: December 8, 2003.

Reason Waived: The housing authority requested an extension of time to file its financial data. The housing authority advised that it did not complete the 2002 audited financial resubmission, due on January 23, 2003, because the auditor had retired due to illness. Consequently, the housing authority procured the services of another auditor, who is currently performing the 2003 audit, to complete the housing authority's 2002 audited financial statements.

Contact: Judy Wojciechowski, Director, Office of Troubled Agency Recovery, Office of Public and Indian Housing, Department of Housing and Urban Development, 451 Seventh Street, SW., Washington, DC 20410-5000, telephone (202) 708-4932.

• Regulation: 24 CFR 902.33(c).

Project/Activity: Wamego Housing Authority, KS042, Wamego, KS.

Nature of Requirement: The regulation establishes certain reporting compliance dates. In accordance with the Single Audit Act and OMB Circular A-133, unaudited financial statements are required to be submitted two months after the fiscal year end of a public housing agency (PHA), and audited financial statements are required no later than 9 months after the PHA's fiscal year ends.

Granted By: Michael Liu, Assistant Secretary for Public and Indian Housing.

Date Granted: December 17, 2003.

Reason Waived: The housing authority requested a 60-day extension to submit its audited financial submission because of an investigation by HUD and other agencies. As a result of the investigation, the housing authority's auditors could not complete the audit by the due date.

Contact: Judy Wojciechowski, Director, Office of Troubled Agency Recovery, Office of Public and Indian Housing, Department of Housing and Urban Development, 451 Seventh Street, SW., Washington, DC 20410-5000, telephone (202) 708-4932.

• Regulation: 24 CFR 902.33(c).

Project/Activity: Charles County Government Department of Comm. Svcs., MD024, Port Tobacco, MD.

Nature of Requirement: The regulation establishes certain reporting compliance dates. In accordance with the Single Audit Act and OMB Circular A-133, unaudited financial statements are required to be submitted two months after the fiscal year end of a public housing agency (PHA), and audited financial statements are required no later than 9 months after the PHA's fiscal year ends.

Granted By: Michael Liu, Assistant Secretary for Public and Indian Housing.

Date Granted: December 19, 2003.

Reason Waived: According to the waiver request, dated September 10, 2003, the housing authority's records, including backups of electronic files, were destroyed in a fire on May 12, 2003, which was documented by newspaper articles.

Contact: Judy Wojciechowski, Director, Office of Troubled Agency Recovery, Office of Public and Indian Housing, Department of Housing and Urban Development, 451 Seventh Street, SW., Washington, DC 20410-5000, telephone (202) 708-4932.

• Regulation: 24 CFR 902.33(c).

Project/Activity: Tupelo Housing Authority, MS077, Tupelo, MS.

Nature of Requirement: The regulation establishes certain reporting compliance dates. In accordance with the Single Audit Act and OMB Circular A-133, unaudited financial statements are required to be submitted two months after the fiscal year end of a public housing agency (PHA), and audited financial statements are required no later than 9 months after the PHA's fiscal year ends.

Granted By: Michael Liu, Assistant Secretary for Public and Indian Housing.

Date Granted: November 26, 2003.

Reason Waived: The housing authority requested an extension of time to submit its audited financial data. Several factors were cited, including delays caused by audit contract cancellations and an OIG investigation of possible misappropriation of funds by the previous housing authority administration.

Contact: Judy Wojciechowski, Director, Office of Troubled Agency Recovery, Office of Public and Indian Housing, Department of Housing and Urban Development, 451 Seventh Street, SW., Washington, DC 20410-5000, telephone (202) 708-4932.

• Regulation: 24 CFR 902.33(c).

Project/Activity: City of Shelby Housing Authority, NC034, Shelby, NC.

Nature of Requirement: The regulation establishes certain reporting compliance dates. In accordance with the Single Audit Act and OMB Circular A-133, unaudited financial statements are required to be submitted two months after the fiscal year end of a public housing agency (PHA), and audited financial statements are required no later than 9 months after the PHA's fiscal year ends.

Granted By: Michael Liu, Assistant Secretary for Public and Indian Housing.

Date Granted: November 19, 2003.

Reason Waived: The housing authority did not fully understand the filing requirements for the financial audited information, because this was its first time filing an audited submission. Therefore, the housing authority failed to complete the submission process by the due date and additional time as needed.

Contact: Judy Wojciechowski, Director, Office of Troubled Agency Recovery, Office of Public and Indian Housing, Department of Housing and Urban Development, 451 Seventh Street, SW., Washington, DC 20410-5000, telephone (202) 708-4932.

• Regulation: 24 CFR 902.33(c).

Project/Activity: City of Albemarle Department of Public Housing, NC075, Albemarle, NC.

Nature of Requirement: The regulation establishes certain reporting compliance dates. In accordance with the Single Audit Act and OMB Circular A-133, unaudited financial statements are required to be submitted two months after the fiscal year end of a public housing agency (PHA), and audited financial statements are required no later than 9 months after the PHA's fiscal year ends.

Granted By: Michael Liu, Assistant Secretary for Public and Indian Housing.

Date Granted: November 26, 2003.

Reason Waived: The housing authority was unaware that it had to submit audited financial statements, separate from those of the City of Albemarle. This was the first year in which the audited financial submission was due for the housing authority. The housing authority submitted unaudited financial submissions on a timely basis for fiscal years ending 2000, 2001, 2002, and 2003.

Contact: Judy Wojciechowski, Director, Office of Troubled Agency Recovery, Office of Public and Indian Housing, Department of Housing and Urban Development, 451 Seventh Street, SW., Washington, DC 20410-5000, telephone (202) 708-4932.

• Regulation: 24 CFR 902.33(c).

Project/Activity: Plattsburgh Housing Authority, NY018, Plattsburgh, NY.

Nature of Requirement: The regulation establishes certain reporting compliance dates. In accordance with the Single Audit Act and OMB Circular A-133, unaudited financial statements are required to be submitted two months after the fiscal year end of a public housing agency (PHA), and audited financial statements are required no later than 9 months after the PHA's fiscal year ends.

Granted By: Michael Liu, Assistant Secretary for Public and Indian Housing.

Date Granted: November 26, 2003.

Reason Waived: The housing authority did not submit its audited financial statements, because its newly hired accountant was not familiar with the final step in the submission process. The housing authority thought that the audited report had been successfully transmitted in a timely fashion, but later learned that it had not been submitted.

Contact: Judy Wojciechowski, Director, Office of Troubled Agency Recovery, Office of Public and Indian Housing, Department of Housing and Urban Development, 451 Seventh Street, SW., Washington, DC 20410-5000, telephone (202) 708-4932.

• Regulation: 24 CFR 902.33(c).

Project/Activity: Housing Authority of the City of Sweetwater, TX061, Sweetwater, TX.

Nature of Requirement: The regulation establishes certain reporting compliance dates. In accordance with the Single Audit Act and OMB Circular A-133, unaudited financial statements are required to be submitted two months after the fiscal year end of a public housing agency (PHA), and audited financial statements are required no later than 9 months after the PHA's fiscal year ends.

Granted By: Michael Liu, Assistant Secretary for Public and Indian Housing.

Date Granted: November 26, 2003.

Reason Waived: On April 1, 2003, the housing authority procured auditors for the fiscal year ended March 31, 2003, which was long before the audit due date of December 31, 2003. However, in October 2003, the auditors informed the housing authority that they would be unable to perform the audit. The housing authority needed to procure a new auditor and additional time for the audit to be performed.

Contact: Judy Wojciechowski, Director, Office of Troubled Agency Recovery, Office of Public and Indian Housing, Department of Housing and Urban Development, 451 Seventh Street, SW., Washington, DC 20410-5000, telephone (202) 708-4932.

• Regulation: 24 CFR 902.33(c).

Project/Activity: Floydada Housing Authority, TX189, Floydada, TX.

Nature of Requirement: The regulation establishes certain reporting compliance dates. In accordance with the Single Audit Act and OMB Circular A-133, unaudited financial statements are required to be submitted two months after the fiscal year end of a public housing agency (PHA), and audited financial statements are required no later than 9 months after the PHA's fiscal year ends.

Granted By: Michael Liu, Assistant Secretary for Public and Indian Housing.

Date Granted: November 4, 2003.

Reason Waived: Eleven days prior to the audited submission due date, the Executive Director was asked to resign by the housing authority's Board of Directors because of alleged contract violations among other factors. Because this matter may potentially have affected the housing authority's financial position and operating results for Fiscal Year (FY) 2002, the interim Executive Director and the auditors requested additional time to investigate the matter and to report the housing authority's financial posture for the fiscal year ending December 31, 2002.

Contact: Judy Wojciechowski, Director, Office of Troubled Agency Recovery, Office of Public and Indian Housing, Department of Housing and Urban Development, 451 Seventh Street, SW., Washington, DC 20410-5000, telephone (202) 708-4932.

• Regulation: 24 CFR 902.33(c).

Project/Activity: Kemp Housing Authority, TX387, Kemp, TX.

Nature of Requirement: The regulation establishes certain reporting compliance dates. In accordance with the Single Audit Act and OMB Circular A-133, unaudited financial statements are required to be submitted two months after the fiscal year end of a public housing agency (PHA), and audited financial statements are required no later than 9 months after the PHA's fiscal year ends.

Granted By: Michael Liu, Assistant Secretary for Public and Indian Housing.

Date Granted: November 4, 2003.

Reason Waived: The housing authority requested an indefinite extension of time to submit its audited financial statements for the fiscal year ended December 31, 2002. The housing authority requested an extension of time because of an on-going OIG investigation in which the Texas State Office of Public Housing obtained the housing authority's financial records on March 26, 2003, and turned them over to the OIG on June 27, 2003.

Contact: Judy Wojciechowski, Director, Office of Troubled Agency Recovery, Office of Public and Indian Housing, Department of Housing and Urban Development, 451 Seventh Street, SW., Washington, DC 20410-5000, telephone (202) 708-4932.

• Regulation: 24 CFR 902.33(c).

Project/Activity: Kennewick Housing Authority, WA012, Hudson, NY.

Nature of Requirement: The regulation establishes certain reporting compliance dates. In accordance with the Single Audit Act and OMB Circular A-133, unaudited financial statements are required to be submitted two months after the fiscal year end of a public housing agency (PHA), and audited financial statements are required no later than 9 months after the PHA's fiscal year ends.

Granted By: Michael Liu, Assistant Secretary for Public and Indian Housing.

Date Granted: December 17, 2003.

Reason Waived: The housing authority requested an extension of time. A new finance officer, who had began employment with the housing authority only a short time before the submission due date, was new to the housing industry and was not familiar with HUD processes. Therefore, the office did not complete the final step in the submission process.

Contact: Judy Wojciechowski, Director, Office of Troubled Agency Recovery, Office of Public and Indian Housing, Department of Housing and Urban Development, 451 Seventh Street, SW., Washington, DC 20410-5000, telephone (202) 708-4932.

• Regulation: 24 CFR 941.606(n)(1)(ii)(B).

Project/Activity: Garden Homes Estates-Phase I HOPE VI Project, GA06URD002I100/Savannah, GA.

Nature of Requirement: The regulation requires that if the partner or owner entity (or any other entity with an identity of interest with such party) wants to serve as a general contractor for a project or development, the partner or owner entity may award itself the construction contract only if it can demonstrate to HUD's satisfaction that its bid is the lowest submitted in response to a public request for bids.

Granted By: Michael Liu, Assistant Secretary for Public and Indian Housing.

Date Granted: October 31, 2003.

Reason Waived: The waiver of the public bidding requirement was approved in order for Integral Building Group, LLC, whose members are affiliates of Integral Properties, LLC, the project's developer, to complete Phase 1 of the Garden Homes project. The Savannah Housing Authority (SHA) submitted an independent third party cost estimate for the work to be performed by Integral Building Group on Phase 1, which totaled $15,407,230. SHA also submitted the construction contract with Crosland Contracting for the work, which totaled $15,049,197, which satisfied HUD's condition that the construction contract be less than or equal to the independent cost estimate.

Contact: Milan Ozdinec, Deputy Assistant Secretary, Office of Public Housing Investments, Department of Housing and Urban Development, 451 Seventh Street, SW., Washington, DC 20410-5000, telephone (202) 401-8812.

• Regulation: 24 CFR 941.606(n)(1)(ii)(B).

Project/Activity: South Albany Village Mixed-Finance Project, GA06P023021/Albany, GA.

Nature of Requirement: The regulation requires that if the partner or owner entity (or any other entity with an identity of interest with such parties) wants to serve as a general contractor for a project or development, the partner or owner entity may award itself the construction contract only if it can demonstrate to HUD's satisfaction that its bid is the lowest submitted in response to a public request for bids.

Granted By: Michael Liu, Assistant Secretary Public and Indian Housing.

Date Granted: December 2, 2003.

Reason Waived: The waiver of the public bidding requirement was approved in order for Integral Building Group, LLC, to complete this project. The Albany Housing Authority (AHA) submitted an independent third party cost estimate for the work, which totaled $9,134,641. AHA also submitted the construction contract with Integral Building Group for the work in the amount of $9,092,059, which satisfied HUD's condition that the construction contract be less than or equal to the independent cost estimate.

Contact: Milan Ozdinec, Deputy Assistant Secretary, Office of Public Housing Investments, Department of Housing and Urban Development, 451 Seventh Street, SW., Washington, DC 20410-5000, telephone (202) 401-8812.

• Regulation: 24 CFR 941.606(n)(1)(ii)(B).

Project/Activity: Jazz on the Boulevard (formerly Drexel Homes) Mixed Finance Project IL06-P002-211/Chicago, IL.

Nature of Requirement: The regulation requires that if the partner or owner entity (or any other entity with an identity of interest with such parties) wants to serve as a general contractor for a project or development, the partner or owner may award itself the construction contract only if it can demonstrate to HUD's satisfaction that its bid is the lowest submitted in response to a public request for bids.

Granted By: Michael Liu, Assistant Secretary Public and Indian Housing.

Date Granted: December 3, 2003.

Reason Waived: The waiver of the public bidding requirement cases was approved in order for Thrush Construction, Inc., to serve as General Contractor of the Jazz on the Boulevard project. The Chicago Housing Authority (CHA) submitted an independent third party cost estimate for the work, which totaled $21,850,000. CHA also submitted the construction contract with Thrush Construction for the work in the amount of, which totaled $20,987,265, which satisfied HUD's condition that the construction contract be less than or equal to the independent cost estimate.

Contact: Milan Ozdinec, Deputy Assistant Secretary, Office of Public Housing Investments, Department of Housing and Urban Development, 451 Seventh Street, SW., Washington, DC 20410-5000, telephone (202) 401-8812.

• Regulation: 24 CFR 941.606(n)(1)(ii).

Project/Activity: Pershing Court, Phase 1A (formerly Stateway Gardens) Mixed Finance Project No. IL06-P002-223/Chicago, IL.

Nature of Requirement: The regulation requires that if the partner and/or owner entity (or any other entity with an identity of interest with such parties) wants to serve as a general contractor for a project or development, the partner or owner entity may award itself the construction contract only if it can demonstrate to HUD's satisfaction that its bid is the lowest submitted in response to a public request for bids.

Granted By: Michael Liu, Assistant Secretary for Public and Indian Housing.

Date Granted: December 17, 2003.

Reason Waived: The waiver of the public bidding requirement was approved in order for Walsh Construction Company to serve as General Contractor for Phase 1A of the Pershing Court project. The Chicago Housing Authority (CHA) submitted an independent third party cost estimate from Tishman Construction Corporation for the work, which totaled $11,647,000. The construction price of $11,013,524 offered by Walsh Construction is approximately five percent less than the total cost estimate prepared by Tishman. This satisfies HUD condition that the construction contact be less than or equal to the independent cost estimate.

Contact: Milan Ozdinec, Deputy Assistant Secretary, Office of Public Housing Investments, Department of Housing and Urban Development, 451 Seventh Street, SW., Washington, DC 20410-5000, telephone (202) 401-8812.

• Regulation: 24 CFR 941.606(n)(1)(ii).

Project/Activity: Dallas, Texas, FY1998 Roseland Homes HOPE VI Grant, Phase IX, Hall Street Corridor.

Nature of Requirement: The regulation requires that a public housing authority use an open and competitive process to select a partner or owner entity to develop a mixed-finance project containing public housing units.

Granted By: Michael Liu, Assistant Secretary for Public and Indian Housing.

Date Granted: December 11, 2003.

Reason Waived: Dallas Housing Authority (DHA) presented compelling arguments that the development effort would be greatly enhanced by involvement of the selected non-profit partner. DHA demonstrated that the award of a contract through competitive means would be infeasible, because the item is available only from a single source. DHA would be unable to procure any other developer with similar experience and commitment to the Roseland community or who would be able to offer site control of the land parcels providing essential links within the community.

Contact: Milan Ozdinec, Deputy Assistant Secretary, Office of Public Housing Investments, Department of Housing and Urban Development, 451 Seventh Street, SW., Washington, DC 20410-5000, telephone (202) 401-8812.

• Regulation: 24 CFR 982.207(b)(3).

Project/Activity: Boston Housing Authority (BHA), Boston, MA.

Nature of Requirement: Section 982.207(b)(3), which governs tenant selection under the project-based voucher program, states that a housing agency may adopt a preference for admission of families that include a person with disabilities, but may not adopt a preference for persons with a specific disability.

Granted By: Michael Liu, Assistant Secretary For Public And Indian Housing.

Date Granted: December 22, 2003.

Reason Waived: The BHA requested a waiver of the selection preference regulation in order to select homeless persons who have a serious and persistent mental illness that is severe enough to interfere with one or more activities of daily living to occupy units that will receive project-based voucher assistance for occupancy of a project at 34 Algonquin Street. The waiver was granted because the BHA demonstrated that separate housing and services provided at 34 Algonquin Street would enable the target population to have the same opportunity as others to enjoy the benefits of secure affordable housing. Without units designated for members of the target population, they would not be able to maintain their position on BHA's tenant-based or project-based waiting list, because they do not have a fixed address, do not understand materials sent to them, and are frequently hospitalized. The target population also would not be successful in the housing search process, even if a voucher were issued, due to the stigma inappropriately associated with mental illness and the need for supportive services.

Contact: Gerald Benoit, Director, Housing Vouchers Management and Operations Division, Office of Public Housing and Voucher Programs, Office of Public and Indian Housing, Department of Housing and Urban Development, 451 Seventh Street, SW., Room 4210, Washington, DC 20410-5000, telephone (202) 708-0477.

• Regulation: 24 CFR 982.207(b)(3).

Project/Activity: Huntsville Housing Authority (HHA), Huntsville, AL.

Nature of Requirement: Section 982.207(b)(3), which governs tenant selection under the project-based voucher program, states that a housing agency may adopt a preference for admission of families that include a person with disabilities, but may not adopt a preference for persons with a specific disability.

Granted By: Michael Liu, Assistant Secretary for Public and Indian Housing.

Date Granted: December 22, 2003.

Reason Waived: HHA requested a waiver of the selection preference regulation to select persons with mental illness or mental retardation, as verified by a health care professional, to occupy units that will receive project-based voucher assistance at Castlewood Apartments. In 2001 and 2002, the Low Income Housing Tax Credit State Qualified Allocation Plans administered by the Alabama Housing Finance Authority (AHFA) required that a project receiving a tax credit allocation would designate no fewer than 10 percent of the units for individuals with mental illness or mental retardation (with additional points for 15 percent or more). This requirement stemmed from a Memorandum of Understanding (MOU) between AHFA and the Department of Mental Health/Mental Retardation (DMH/MR) in which the agencies agreed to require this designation in any project that received an allocation of tax credits from AHFA in 2001 and 2002. The MOU was a result of the settlement by the state of Alabama of a lawsuit entitled Wyatt v. Sawyer in which the state agreed to eliminate approximately 600 long-term care beds from DMH/MR facilities for the treatment of mental illness or mental retardation. DMH/MR's remedy to replace those beds was the preference requirement for such individuals in projects receiving tax credit allocations from AHFA. The waiver was limited to no more than 15 percent (rounded up) of the units, equivalent to six of the 37 existing units in the project.

Contact: Gerald Benoit, Director, Housing Voucher Management and Operations Division, Office of Public Housing and Voucher Programs, Office of Public and Indian Housing, Department of Housing and Urban Development, 451 Seventh Street, SW., Room 4210, Washington, DC 20410-5000, telephone (202) 708-0477.

• Regulation: 24 CFR 982.207(b)(3).

Project/Activity: Eufaula Housing Authority (EHA), Eufaula, AL.

Nature of Requirement: Section 982.207(b)(3), which governs tenant selection under the project-based voucher program, states that a housing agency may adopt a preference for admission of families that include a person with disabilities, but may not adopt a preference for persons with a specific disability.

Granted By: Michael Liu, Assistant Secretary for Public and Indian Housing.

Date Granted: December 12, 2003.

Reason Waived: EHA requested a waiver of the selection preference regulation to select persons with mental illness or mental retardation, as verified by a health care professional, to occupy units that will receive project-based voucher assistance at Covington Way and Carrington Place. In 2001 and 2002, the Low Income Housing Tax Credit State Qualified Allocation Plans administered by AHFA required that a project receiving a tax credit allocation would have no less than 10 percent of the units designated for individuals with mental illness or mental retardation (with additional points for 15 percent or more). This requirement stemmed from an MOU between AHFA and DMH/MR in which the agencies agreed to require this designation in any project that received an allocation of tax credits from AHFA in 2001 and 2002. The MOU was a result of the settlement by the state of Alabama of a lawsuit entitled Wyatt v. Sawyer in which the state agreed to eliminate approximately 600 long-term care beds from DMH/MR facilities for the treatment of mental illness or mental retardation. DMH/MR's remedy to replace those beds was the preference requirement for such individuals in projects receiving tax credit allocations from AHFA. The waiver was limited to no more than 15 percent (rounded up) of the units, or two of the 10 units of new construction in each project.

Contact: Gerald Benoit, Director, Housing Voucher Management and Operations Division, Office of Public Housing and Voucher Programs, Office of Public and Indian Housing, Department of Housing and Urban Development, 451 Seventh Street, SW., Room 4210, Washington, DC 20410-5000, telephone (202) 708-0477.

• Regulation: 24 CFR 982.207(b)(3).

Project/Activity: BHA, Boston, MA.

Nature of Requirement: Section 982.207(b)(3), which governs tenant selection under the project-based voucher program, states that a housing agency may adopt a preference for admission of families that include a person with disabilities, but may not adopt a preference for persons with a specific disability, such as HIV/AIDS.

Granted By: Michael Liu, Assistant Secretary for Public and Indian Housing.

Date Granted: December 11, 2003.

Reason Waived: BHA requested a waiver of the selection preference regulation in order to select families eligible for Housing Opportunities for Persons with AIDS (HOPWA) families to occupy units at Seton Manor. Since by law only persons with HIV/AIDS may occupy units developed with HOPWA funds, a public housing agency may only authorize occupancy of such units by persons with HIV/AIDS, even if the units also receive project-based voucher assistance. Therefore, in selecting families to refer to the owner for occupancy of these units, BHA would have had to pass over persons on its waiting list until it reached a person with HIV/AIDS interested in moving into one of the units at Seton Manor.

Contact: Gerald Benoit, Director, Housing Vouchers Management and Operations Division, Office of Public Housing and Voucher Programs, Office of Public and Indian Housing, Department of Housing and Urban Development, 451 Seventh Street, SW., Room 4210, Washington, DC 20410-5000, telephone (202) 708-0477.

• Regulation: 24 CFR 982.207(b)(3).

Project/Activity: HHA, Huntsville, AL.

Nature of Requirement: Section 982.207(b)(3), which governs tenant selection under the project-based voucher program, states that a housing agency may adopt a preference for admission of families that include a person with disabilities, but may not adopt a preference for persons with a specific disability.

Granted By: Michael Liu, Assistant Secretary for Public and Indian Housing.

Date Granted: December 12, 2003.

Reason Waived: HHA requested a waiver of the selection preference regulation to select persons with mental illness or mental retardation, as verified by a health care professional, to occupy units designated for project-based voucher assistance at Sunrise Garden Apartments. In 2001 and 2002, the Low Income Housing Tax Credit State Qualified Allocation Plans administered by AHFA required that a project receiving a tax credit allocation would have no less than 10 percent of the units designated for individuals with mental illness or mental retardation (with additional points for 15 percent or more). This requirement stemmed from an MOU between AHFA and DMH/MR in which the agencies agreed to require this designation in any project that received an allocation of tax credits from AHFA in 2001 and 2002. The MOU was a result of the settlement by the state of Alabama of a lawsuit entitled Wyatt v. Sawyer in which the state agreed to eliminate approximately 600 long-term care beds from DMH/MR facilities for the treatment of mental illness or mental retardation. DMH/MR's remedy to replace those beds was the preference requirement for such individuals in projects receiving tax credit allocations from AHFA. The waiver was limited to no more than 15 percent (rounded up) of the units, or two of the eight units of new construction in the project.

Contact: Gerald Benoit, Director, Housing Voucher Management and Operations Division, Office of Public Housing and Voucher Programs, Office of Public and Indian Housing, Department of Housing and Urban Development, 451 Seventh Street, SW., Room 4210, Washington, DC 20410-5000, telephone (202) 708-0477.

• Regulation: 24 CFR 982.207(b)(3).

Project/Activity: Selma Housing Authority (SHA), Selma, AL.

Nature of Requirement: Section 982.207(b)(3), which governs tenant selection under the project-based voucher program, states that a housing agency may adopt a preference for admission of families that include a person with disabilities, but may not adopt a preference for persons with a specific disability.

Granted By: Michael Liu, Assistant Secretary for Public and Indian Housing.

Date Granted: December 12, 2003.

Reason Waived: SHA requested a waiver of the selection preference regulation to select persons with mental illness or mental retardation, as verified by a health care professional, to occupy units that will receive project-based voucher assistance at Hilltop Subdivision. In 2001 and 2002 the Low Income Housing Tax Credit State Qualified Allocation Plans administered by AHFA required that a project receiving a tax credit allocation would have no less than 10 percent of the units designated for individuals with mental illness or mental retardation (with additional points for 15 percent or more). This requirement stemmed from an MOU between AHFA and DMH/MR in which the agencies agreed to require this designation in any project that received an allocation of tax credits from AHFA in 2001 and 2002. The MOU was a result of the settlement by the state of Alabama of a lawsuit entitled Wyatt v. Sawyer in which the state agreed to eliminate approximately 600 long-term care beds from DMH/MR facilities for the treatment of mental illness or mental retardation. DMH/MR's remedy to replace those beds was the preference requirement for such individuals in projects receiving tax credit allocations from AHFA. The waiver was limited to no more than 15 percent (rounded up) of the units, or two of the 14 units of new construction in the project.

Contact: Gerald Benoit, Director, Housing Voucher Management and Operations Division, Office of Public Housing and Voucher Programs, Office of Public and Indian Housing, Department of Housing and Urban Development, 451 Seventh Street, SW., Room 4210, Washington, DC 20410-5000, telephone (202) 708-0477.

• Regulation: 24 CFR 982.207(b)(3).

Project/Activity: SHA, Selma, AL.

Nature of Requirement: Section 982.207(b)(3), which governs tenant selection under the project-based voucher program, states that a housing agency may adopt a preference for admission of families that include a person with disabilities, but may not adopt a preference for persons with a specific disability.

Granted By: Michael Liu, Assistant Secretary for Public and Indian Housing.

Date Granted: December 12, 2003.

Reason Waived: SHA requested a waiver of the selection preference regulation to select persons with mental illness or mental retardation, as verified by a health care professional, to occupy units that will receive project-based voucher assistance at Magnolia Garden Homes. In 2001 and 2002, the Low Income Housing Tax Credit State Qualified Allocation Plans administered by AHFA required that a project receiving a tax credit allocation would have no less than 10 percent of the units designated for individuals with mental illness or mental retardation (with additional points for 15 percent or more). This requirement stemmed from an MOU between AHFA and DMH/MR in which the agencies agreed to require this designation in any project that received an allocation of tax credits from AHFA in 2001 and 2002. The MOU was a result of the settlement by the state of Alabama of a lawsuit entitled Wyatt v. Sawyer in which the state agreed to eliminate approximately 600 long-term care beds from DMH/MR facilities for the treatment of mental illness or mental retardation. DMH/MR's remedy to replace those beds was the preference requirement for such individuals in projects receiving tax credit allocations from AHFA. The waiver was limited to no more than 15 percent (rounded up) of the units, or eight of the 48 units of new construction in the project.

Contact: Gerald Benoit, Director, Housing Voucher Management and Operations Division, Office of Public Housing and Voucher Programs, Office of Public and Indian Housing, Department of Housing and Urban Development, 451 Seventh Street, SW., Room 4210, Washington, DC 20410-5000, telephone (202) 708-0477.

• Regulation: 24 CFR 982.207(b)(3).

Project/Activity: HHA, Huntsville, AL.

Nature of Requirement: The regulation at 24 CFR 982.207(b)(3), which governs tenant selection under the project-based voucher program, states that a housing agency may adopt a preference for admission of families that include a person with disabilities, but may not adopt a preference for persons with a specific disability.

Granted By: Michael Liu, Assistant Secretary for Public and Indian Housing.

Date Granted: December 12, 2003.

Reason Waived: HHA requested a waiver of the selection preference regulation to select persons with mental illness or mental retardation, as verified by a health care professional, to occupy units that will receive project-based voucher assistance at Garden Park Apartments. In 2001 and 2002, the Low Income Housing Tax Credit State Qualified Allocation Plans administered by AHFA required that a project receiving a tax credit allocation would have no less than 10 percent of the units designated for individuals with mental illness or mental retardation (with additional points for 15 percent or more). This requirement stemmed from an MOU between AHFA and DMH/MR in which the agencies agreed to require this designation in any project that received an allocation of tax credits from AHFA in 2001 and 2002. The MOU was a result of the settlement by the state of Alabama of a lawsuit entitled Wyatt v. Sawyer in which the state agreed to eliminate approximately 600 long-term care beds from DMH/MR facilities for the treatment of mental illness or mental retardation. DMH/MR's remedy to replace those beds was the preference requirement for such individuals in projects receiving tax credit allocations from AHFA. The waiver was limited to no more than 15 percent (rounded up) of the units, or nine of the 59 units of new construction in the project.

Contact: Gerald Benoit, Director, Housing Voucher Management and Operations Division, Office of Public Housing and Voucher Programs, Office of Public and Indian Housing, Department of Housing and Urban Development, 451 Seventh Street, SW., Room 4210, Washington, DC 20410-5000, telephone (202) 708-0477.

• Regulation: 24 CFR 982.207(b)(3).

Project/Activity: Troy Housing Authority (THA), Troy, AL.

Nature of Requirement: Section 982.207(b)(3), which governs tenant selection under the project-based voucher program, states that a housing agency may adopt a preference for admission of families that include a person with disabilities, but may not adopt a preference for persons with a specific disability.

Granted By: Michael Liu, Assistant Secretary for Public and Indian Housing.

Date Granted: November 26, 2003.

Reason Waived: THA requested a waiver of the selection preference regulation to select persons with mental illness or mental retardation, as verified by a health care professional, to occupy units that will receive project-based voucher assistance at Autumn Ridge. In 2001 and 2002 the Low Income Housing Tax Credit State Qualified Allocation Plans administered by AHFA required that a project receiving a tax credit allocation would have no less than 10 percent of the units designated for individuals with mental illness or mental retardation (with additional points for 15 percent or more). This requirement stemmed from an MOU between AHFA and DMH/MR in which the agencies agreed to require this designation in any project that received an allocation of tax credits from AHFA in 2001 and 2002. The MOU was a result of the settlement by the state of Alabama of a lawsuit entitled Wyatt v. Sawyer in which the state agreed to eliminate approximately 600 long-term care beds from DMH/MR facilities for the treatment of mental illness or mental retardation. DMH/MR's remedy to replace those beds was the preference requirement for such individuals in projects receiving tax credit allocations from AHFA. The waiver was limited to no more than 15 percent (rounded up) of the units, or seven of the 42 units of new construction in each project.

Contact: Gerald Benoit, Director, Housing Voucher Management and Operations Division, Office of Public Housing and Voucher Programs, Office of Public and Indian Housing, Department of Housing and Urban Development, 451 Seventh Street, SW., Room 4210, Washington, DC 20410-5000, telephone (202) 708-0477.

• Regulation: 24 CFR 982.207(b)(3).

Project/Activity: Northport Housing Authority (NHA), Northport, AL.

Nature of Requirement: Section 982.207(b)(3), which governs tenant selection under the project-based voucher program, states that a housing agency may adopt a preference for admission of families that include a person with disabilities, but may not adopt a preference for persons with a specific disability.

Granted By: Michael Liu, Assistant Secretary for Public and Indian Housing.

Date Granted: November 26, 2003.

Reason Waived: NHA requested a waiver of the selection preference regulation to select persons with mental illness or mental retardation, as verified by a health care professional, to occupy units that will receive project-based voucher assistance at Grand View Apartments. In 2001 and 2002, the Low Income Housing Tax Credit State Qualified Allocation Plans administered by AHFA required that a project receiving a tax credit allocation would have no less than 10 percent of the units designated for individuals with mental illness or mental retardation (with additional points for 15 percent or more). This requirement stemmed from an MOU between AHFA and DMH/MR in which the agencies agreed to require this designation in any project that received an allocation of tax credits from AHFA in 2001 and 2002. The MOU was a result of the settlement by the state of Alabama of a lawsuit entitled Wyatt v. Sawyer in which the state agreed to eliminate approximately 600 long-term care beds from DMH/MR facilities for the treatment of mental illness or mental retardation. DMH/MR's remedy to replace those beds was the preference requirement for such individuals in projects receiving tax credit allocations from AHFA. The waiver was limited to no more than 15 percent (rounded up) of the units, or eleven of the 72 units of new construction in each project.

Contact: Gerald Benoit, Director, Housing Voucher Management and Operations Division, Office of Public Housing and Voucher Programs, Office of Public and Indian Housing, Department of Housing and Urban Development, 451 Seventh Street, SW., Room 4210, Washington, DC 20410-5000, telephone (202) 708-0477.

• Regulation: 24 CFR 982.207(b)(3).

Project/Activity: Ozark Housing Authority (OHA), Ozark, AL.

Nature of Requirement: Section 982.207(b)(3), which governs tenant selection under the project-based voucher program, states that a housing agency may adopt a preference for admission of families that include a person with disabilities, but may not adopt a preference for persons with a specific disability.

Granted By: Michael Liu, Assistant Secretary for Public and Indian Housing.

Date Granted: November 26, 2003.

Reason Waived: OHA requested a waiver of the selection preference regulation to select persons with mental illness or mental retardation, as verified by a health care professional, to occupy units that will receive project-based voucher assistance at the Ozark Project. In 2001 and 2002, the Low Income Housing Tax Credit State Qualified Allocation Plans administered by AHFA required that a project receiving a tax credit allocation would have no less than 10 percent of the units designated for individuals with mental illness or mental retardation (with additional points for 15 percent or more). This requirement stemmed from an MOU between AHFA and DMH/MR in which the agencies agreed to require this designation in any project that received an allocation of tax credits from AHFA in 2001 and 2002. The MOU was a result of the settlement by the state of Alabama of a lawsuit entitled Wyatt v. Sawyer in which the state agreed to eliminate approximately 600 long-term care beds from DMH/MR facilities for the treatment of mental illness or mental retardation. DMH/MR's remedy to replace those beds was the preference requirement for such individuals in projects receiving tax credit allocations from AHFA. The waiver was limited to no more than 15 percent (rounded up) of the units, or two of the ten units of new construction in the project.

Contact: Gerald Benoit, Director, Housing Voucher Management and Operations Division, Office of Public Housing and Voucher Programs, Office of Public and Indian Housing, Department of Housing and Urban Development, 451 Seventh Street, SW., Room 4210, Washington, DC 20410-5000, telephone (202) 708-0477.

• Regulation: 24 CFR 982.207(b)(3).

Project/Activity: Housing Authority of Birmingham District (HABD), Birmingham, AL.

Nature of Requirement: Section 982.207(b)(3), which governs tenant selection under the project-based voucher program, states that a housing agency may adopt a preference for admission of families that include a person with disabilities, but may not adopt a preference for persons with a specific disability.

Granted By: Michael Liu, Assistant Secretary for Public and Indian Housing.

Date Granted: November 10, 2003.

Reason Waived: HABD requested a waiver of the selection preference regulation in order to select persons with mental illness or mental retardation, as verified by a health care professional, to occupy units that will receive project-based voucher assistance at Metropolitan Gardens. In 2001 and 2002, the Low Income Housing Tax Credit State Qualified Allocation Plans administered by AHFA required that a project receiving a tax credit allocation would have no less than 10 percent of the units designated for individuals with mental illness or mental retardation (with additional points for 15 percent or more). This requirement stemmed from an MOU between AHFA and DMH/MR in which the agencies agreed to require this designation in any project that received an allocation of tax credits from AHFA in 2001 and 2002. The MOU was a result of the settlement by the state of Alabama of a lawsuit entitled Wyatt v. Sawyer in which the state agreed to eliminate approximately 600 long-term care beds from DMH/MR facilities for the treatment of mental illness or mental retardation. DMH/MR's remedy to replace those beds was the preference requirement for such individuals in projects receiving tax credit allocations from AHFA. The waiver was limited to no more than 15 percent, or 29 units.

Contact: Gerald Benoit, Director, Housing Voucher Management and Operations Division, Office of Public Housing and Voucher Programs, Office of Public and Indian Housing, Department of Housing and Urban Development, 451 Seventh Street, SW., Room 4210, Washington, DC 20410-5000, telephone (202) 708-0477.

• Regulation: 24 CFR 982.207(b)(3).

Project/Activity: Jefferson County Housing Authority (JCHA), Birmingham, AL.

Nature of Requirement: Section 982.207(b)(3), which governs tenant selection under the project-based voucher program, states that a housing agency may adopt a preference for admission of families that include a person with disabilities, but may not adopt a preference for persons with a specific disability.

Granted By: Michael Liu, Assistant Secretary for Public And Indian Housing.

Date Granted: November 6, 2003.

Reason Waived: JCHA requested a waiver of the selection preference regulation in order to select persons with mental illness or mental retardation, as verified by a health care professional, to occupy units that will receive project-based voucher assistance at Carson Landing. In 2001 and 2002, the Low Income Housing Tax Credit State Qualified Allocation Plans administered by AHFA required that a project receiving a tax credit allocation would have no less than 10 percent of the units designated for individuals with mental illness or mental retardation (with additional points for 15 percent or more). This requirement stemmed from an MOU between AHFA and DMH/MR in which the agencies agreed to require this designation in any project that received an allocation of tax credits from AHFA in 2001 and 2002. The MOU was a result of the settlement by the state of Alabama of a lawsuit entitled Wyatt v. Sawyer in which the state agreed to eliminate approximately 600 long-term care beds from DMH/MR facilities for the treatment of mental illness or mental retardation. DMH/MR's remedy to replace those beds was the preference requirement for such individuals in projects receiving tax credit allocations from AHFA. The waiver was limited to no more than 15 percent (rounded up) of the units, or eleven of the 72 units of new construction at this project.

Contact: Gerald Benoit, Director, Housing Voucher Management and Operations Division, Office of Public Housing and Voucher Programs, Office of Public and Indian Housing, Department of Housing and Urban Development, 451 Seventh Street, SW., Room 4210, Washington, DC 20410-5000, telephone (202) 708-0477.

• Regulation: 24 CFR 982.207(b)(3).

Project/Activity: Gadsden Housing Authority (GHA), Gadsden, AL.

Nature of Requirement: Section 982.207(b)(3), which governs tenant selection under the project-based voucher program, states that a housing agency may adopt a preference for admission of families that include a person with disabilities, but may not adopt a preference for persons with a specific disability.

Granted By: Michael Liu, Assistant Secretary for Public And Indian Housing.

Date Granted: November 6, 2003.

Reason Waived: GHA requested a waiver of the selection preference regulation to select persons with mental illness or mental retardation, as verified by a health care professional, to occupy units that will receive project-based voucher assistance at Johnson Apartments and Englewood Apartments. In 2001 and 2002, the Low Income Housing Tax Credit State Qualified Allocation Plans administered by AHFA required that a project receiving a tax credit allocation would have no less than 10 percent of the units designated for individuals with mental illness or mental retardation (with additional points for 15 percent or more). This requirement stemmed from an MOU between AHFA and DMH/MR in which the agencies agreed to require this designation in any project that received an allocation of tax credits from AHFA in 2001 and 2002. The MOU was a result of the settlement by the state of Alabama of a lawsuit entitled Wyatt v. Sawyer in which the state agreed to eliminate approximately 600 long-term care beds from DMH/MR facilities for the treatment of mental illness or mental retardation. DMH/MR's remedy to replace those beds was the preference requirement for such individuals in projects receiving tax credit allocations from AHFA. The waiver was limited to no more than 15 percent (rounded up) of the units, or nine of the 56 units of new construction in Johnson Apartments and four of the 24 units of new construction in Englewood Apartments.

Contact: Gerald Benoit, Director, Housing Voucher Management and Operations Division, Office of Public Housing and Voucher Programs, Office of Public and Indian Housing, Department of Housing and Urban Development, 451 Seventh Street, SW., Room 4210, Washington, DC 20410-5000, telephone (202) 708-0477.

• Regulation: 24 CFR 982.207(b)(3) and Section II, subpart E, of the January 16, 2001, Federal Register notice, Revisions to PHA Project-Based Assistance (PBA) Program; Initial Guidance.

Project/Activity: BHA, Boston, MA.

Nature of Requirement: Section 982.207(b)(3), which governs tenant-selection under the project-based voucher program, states that a housing agency may adopt a preference for admission of families that include a person with disabilities, but may not adopt a preference for persons with a specific disability.

Section II, subpart E, of the January 16, 2001, Federal Register notice, Revisions to PHA Project-Based Assistance (PBA) Program; Initial Guidance, requires that all new project based assistance agreements or HAP contracts be for units in census tracts with poverty rates of less than 20 percent. The law requires that a contract for project-based assistance only be approved by a PHA if it is consistent with the goal of deconcentrating poverty and expanding housing and economic opportunities.

Granted By: Michael Liu, Assistant Secretary for Public and Indian Housing.

Date Granted: December 22, 2003.

Reason Waived: BHA requested a waiver of the selection preference requirements in 24 CFR 982.207(b)(3) in order to select homeless persons who have a serious and persistent mental illness that is severe enough to interfere with one or more activities of daily living to occupy units that will receive project-based voucher assistance at 131 Ziegler Street. BHA demonstrated that separate housing and services provided at 131 Ziegler Street would enable the target population to have the same opportunity as others to enjoy the benefits of secure affordable housing. Without units designated for members of the target population, they would not be able to maintain their position on the BHA's tenant-based or project-based waiting list because they did not have a fixed address, did not understand materials sent to them, and were frequently hospitalized. The target population also would not be successful in the housing search process, even if a voucher were issued, due to the stigma inappropriately associated with mental illness and the need for supportive services.

Approval of the exception to deconcentration was granted, since the project is located in a HUD-designated Empowerment Zone, the purpose of which is to open new businesses, and create jobs, housing, and new educational and healthcare opportunities for thousands of Americans.

Contact: Gerald Benoit, Director, Housing Vouchers Management and Operations Division, Office of Public Housing and Voucher Programs, Office of Public and Indian Housing, Department of Housing and Urban Development, 451 Seventh Street, SW., Room 4210, Washington, DC 20410-5000, telephone (202) 708-0477.

• Regulation: 24 CFR 982.207(b)(3) and Section II, subpart E, of the January 16, 2001, Federal Register notice, Revisions to PHA Project-Based Assistance (PBA) Program; Initial Guidance.

Project/Activity: St. Paul Public Housing Agency (SPPHA), St. Paul, MN.

Nature of Requirement: Section 982.207(b)(3), which governs tenant selection under the project-based voucher program, states that a housing agency may adopt a preference for admission of families that include a person with disabilities, but may not adopt a preference for persons with a specific disability. Section II, subpart E, of the initial guidance requires that in order to meet the Department's goal of deconcentration and expanding housing and economic opportunities, the projects must be in census tracts with poverty rates of less than 20 percent.

Granted By: Michael Liu, Assistant Secretary for Public and Indian Housing.

Date Granted: November 26, 2003.

Reason Waived: SPPHA requested a waiver of the selection preference regulation in order to select families eligible for Housing Opportunities for Persons with AIDS (HOPWA) to occupy units that will receive PBA at Martin Luther King Court, as well as an exception to the initial guidance, since the project is located in census tracts with poverty rates of 20.66 percent, 20.72 percent, and 22.75 percent.

Approval to waive selection preference requirements was granted since eight units in this project were developed with HOPWA funds and none will receive rental or operating subsidy under the HOPWA program. Since by law only persons with HIV/AIDS may occupy units developed with HOPWA funds, a public housing agency may only authorize occupancy of such units by persons with HIV/AIDS, even if the units also receive PBA.

Approval of the exception for deconcentration was granted since the first two duplexes are in the St. Paul Enterprise Community and the last duplex is less than one block from its southern border and should derive the same benefits. The purpose of establishing enterprise communities is to open new businesses and create jobs, housing, and new educational and healthcare opportunities for thousands of Americans. These goals are consistent with the goal of deconcentrating poverty and expanding housing and economic opportunities.

Contact: Gerald Benoit, Director, Housing Voucher Management and Operations Division, Office of Public Housing and Voucher Programs, Office of Public and Indian Housing, Department of Housing and Urban Development, 451 Seventh Street, SW., Room 4210, Washington, DC 20410-5000, telephone (202) 708-0477.

• Regulation: 24 CFR 982.505(d).

Project/Activity: Fall River Housing Authority (FRHA), Fall River, MA.

Nature of Requirement: Section 982.505(d) allows a PHA to approve a higher payment standard within the basic range for a family that includes a person with a disability as a reasonable accommodation in accordance with 24 CFR part 8.

Granted By: Michael Liu, Assistant Secretary for Public and Indian Housing.

Date Granted: November 26, 2003.

Reason Waived: FRHA requested a special exception payment standard that exceeds 120 percent of the fair market rent as a reasonable accommodation for a disabled housing choice voucher program participant. The waiver was granted to allow two disabled housing choice voucher participants to lease in place because they had established relationships with neighbors and friends who had been supportive. Building management had also been supportive by building a handicap ramp, establishing automatic door openers with personalized controllers, and installing low pile carpeting to make movement of their wheelchairs less burdensome in their apartments. If they had been required to move, it would have been extremely disruptive, not only to their personal and support connections, but also to their physical and mental well-being.

Contact: Gerald Benoit, Director, Housing Voucher Management and Operations Division, Office of Public Housing and Voucher Programs, Office of Public and Indian Housing, Department of Housing and Urban Development, 451 Seventh Street, SW., Room 4210, Washington, DC 20410-5000, telephone (202) 708-0477.

• Regulation: 24 CFR 982.505(d)

Project/Activity: Housing Authority of Washington County (HAWC), Washington County, OR.

Nature of Requirement: Section 982.505(d) allows a PHA to approve a higher payment standard within the basic range for a family that includes a person with a disability as a reasonable accommodation in accordance with 24 CFR part 8.

Granted By: Michael Liu, Assistant Secretary for Public and Indian Housing.

Date Granted: December 8, 2003.

Reason Waived: HAWC requested a special exception payment standard that exceeds 120 percent of the fair market rent as a reasonable accommodation for a disabled housing choice voucher program participant. The waiver was granted to allow a disabled housing choice voucher participant to lease the proposed unit because her doctors believed that the proposed apartment unit would best accommodate her disabilities, based on environmental surroundings, familiarity, security, and its larger size. The participant was struggling to maintain her personal independence while caring for herself, and her doctors believed that the apartment unit would allow her to preserve and improve her quality of life.

Contact: Gerald Benoit, Director, Housing Voucher Management and Operations Division, Office of Public Housing and Voucher Programs, Office of Public and Indian Housing, Department of Housing and Urban Development, 451 Seventh Street, SW., Room 4210, Washington, DC 20410-5000, telephone (202) 708-0477.

• Regulation: 24 CFR 982.505(d)

Project/Activity: King County Housing Authority (KCHA), Seattle, WA.

Nature of Requirement: Section 982.505(d) allows a PHA to approve a higher payment standard within the basic range for a family that includes a person with a disability as a reasonable accommodation in accordance with 24 CFR part 8.

Granted By: Michael Liu, Assistant Secretary for Public and Indian Housing.

Date Granted: December 10, 2003.

Reason Waived: CHA requested an exception payment standard that exceeds 120 percent of the fair market rent as a reasonable accommodation for a housing choice voucher participant for a manufactured home space rental. The participant suffers from a mental condition that causes severe depression and paranoia. The waiver was granted to allow the housing choice voucher participant to remain at her current location, to maintain a stable lifestyle, and live independently.

Contact: Gerald Benoit, Director, Housing Voucher Management and Operations Division, Office of Public Housing and Voucher Programs, Office of Public and Indian Housing, Department of Housing and Urban Development, 451 Seventh Street, SW., Room 4210, Washington, DC 20410-5000, telephone (202) 708-0477.

• Regulation: 24 CFR 982.505(d).

Project/Activity: Howard County Housing Commission (HCHC), Columbia, MD.

Nature of Requirement: Section 982.505(d) allows a PHA to approve a higher payment standard within the basic range for a family that includes a person with a disability as a reasonable accommodation in accordance with 24 CFR part 8.

Granted By: Michael Liu, Assistant Secretary for Public and Indian Housing.

Date Granted: December 12, 2003.

Reason Waived: HCHC requested an exception payment standard that exceeds 120 percent of the fair market rent as a reasonable accommodation for a housing choice voucher participant with a disability who relies on a wheelchair. The Housing Choice Voucher program participant was the head of the household and was a person with a disability who relies on a wheelchair. The unit in question was wheelchair accessible. According to the Commission only three percent of the units in this area were accessible. In addition, the Commission had been advised by the participant's doctor that relocation from his current unit would be detrimental to his health and possibly cause life-threatening deterioration.

Contact: Gerald Benoit, Director, Housing Voucher Management and Operations Division, Office of Public Housing and Voucher Programs, Office of Public and Indian Housing, Department of Housing and Urban Development, 451 Seventh Street, SW., Room 4210, Washington, DC 20410-5000, telephone (202) 708-0477.

• Regulation: 24 CFR 983.3(a)(2).

Project/Activity: El Dorado County Housing Authority (EDHA), Placerville, CA.

Nature of Requirement: Section 983.3(a)(2) requires that the units to be project-based not be under a tenant-based or project based housing assistance payments (HAP) contract or otherwise committed, e.g., vouchers issued to families searching for housing or units under a HAP contract.

Granted By: Michael Liu, Assistant Secretary for Public and Indian Housing.

Date Granted: November 19, 2003.

Reason Waived: EDHA requested a waiver of requirements regarding the availability of vouchers for project-based assistance, so that it could enter into an agreement for a HAP contract for White Rock Village. At the time EDCHA had a turnover rate of approximately eight vouchers per month. There were 42 vouchers that had project-based assistance attached at White Rock Village. EDCHA's intention was to stop issuing turnover vouchers in the six months immediately preceding the date anticipated for HAP contract execution to ensure that vouchers would be available for this project and that over-leasing will not occur.

Contact: Gerald Benoit, Director, Housing Voucher Management and Operations Division, Office of Public Housing and Voucher Programs, Office of Public and Indian Housing, Department of Housing and Urban Development, 451 Seventh Street, SW., Room 4210, Washington, DC 20410-5000, telephone (202) 708-0477.

• Regulation: 24 CFR 983.51(a), (b), and (c) and Section II, subpart E, of the January 16, 2001, Federal Register notice, Revisions to PHA Project-Based Assistance Program; Initial Guidance.

Project/Activity: Housing Authority of the City of Tampa (HACT), Tampa, FL.

Nature of Requirement: Section 983.51 requires competitive selection of owner proposals in accordance with a housing authority's HUD-approved advertisement and unit selection policy. Section II, subpart E, of the initial guidance requires that, in order to meet the Department's goal of deconcentration and expanding housing and economic opportunities, the projects be in census tracts with poverty rates of less than 20 percent.

Granted By: Michael Liu, Assistant Secretary for Public and Indian Housing.

Date Granted: October 20, 2003.

Reason Waived: HACT requested a waiver of the competitive selection of owner proposals and an exception to the initial guidance to permit it to attach project-based assistance to the Oaks at Riverview located in a census tract with a poverty rate of 34 percent. Approval to waive competitive selection was granted, since the owner/developer, a team of three firms (Mid City Urban, Henson Development company and Russell New Urban Development), was competitively selected by the HACT to develop its HOPE VI units. Approval of the exception for deconcentration was granted, since the project will be a 250-unit new construction development that is part of a HOPE VI revitalization plan to replace 360 demolished public housing units of Riverview Terrace and Tom Dyer Homes. Of the 250 units at the Oaks at Riverview, 45 will receive project-based assistance and 205 units will be public housing. In addition to the units at Oaks at Riverview, the revitalization plan for the site consists of 96 homeownership units, of which 36 will be marketed to families participating in the housing choice voucher homeownership program and 60 will be market rate.

Contact: Gerald Benoit, Director, Housing Voucher Management and Operations Division, Office of Public Housing and Voucher Programs, Office of Public and Indian Housing, Department of Housing and Urban Development, 451 Seventh Street, SW., Room 4210, Washington, DC 20410-5000, telephone (202) 708-0477.

• Regulation: 24 CFR 983.51(a), (b), (c), and (d).

Project/Activity: Lynn Public Housing Agency (LPHA), Lynn, MA.

Nature of Requirement: Section 983.51 requires competitive selection of owner proposals in accordance with a housing authority's HUD-approved advertisement and unit selection policy.

Granted By: Michael Liu, Assistant Secretary for Public and Indian Housing.

Date Granted: November 18, 2003.

Reason Waived: LPHA requested a waiver of competitive selection of owner proposals to permit it to attach project-based assistance to Lynn YMCA Project. Approval to waive competitive selection was granted, since the Lynn YMCA Project was competitively awarded $700,000 in McKinney-Vento Supportive Housing Program funds for the construction of the project, as well as $200,000 in federally apportioned local HOME funds.

Contact: Gerald Benoit, Director, Housing Voucher Management and Operations Division, Office of Public Housing and Voucher Programs, Office of Public and Indian Housing, Department of Housing and Urban Development, 451 Seventh Street, SW., Room 4210, Washington, DC 20410-5000, telephone (202) 708-0477.

• Regulation: 24 CFR 983.51(a), (b), (c), and (d).

Project/Activity: LPHA, Lynn, MA.

Nature of Requirement: Section 983.51 requires competitive selection of owner proposals in accordance with a housing authority's HUD-approved advertisement and unit selection policy.

Granted By: Michael Liu, Assistant Secretary for Public and Indian Housing.

Date Granted: November 18, 2003.

Reason Waived: LPHA requested a waiver of competitive selection of owner proposals to permit it to attach project-based assistance to St. Jean Baptiste Project.

Approval to waive competitive selection was granted, since St. Jean Baptiste Project was competitively awarded low-income housing tax credits through the state of Massachusetts' competitive process. The project also received $550,000 in state HOME funds. Since the project was also awarded funding under two previous federal competitions, the waiver was granted.

Contact: Gerald Benoit, Director, Housing Voucher Management and Operations Division, Office of Public Housing and Voucher Programs, Office of Public and Indian Housing, Department of Housing and Urban Development, 451 Seventh Street, SW., Room 4210, Washington, DC 20410-5000, telephone (202) 708-0477.

• Regulation: 24 CFR 983.51(a), (b), (c), and (d).

Project/Activity: Minneapolis Public Housing Agency (MPHA), Minneapolis, MN.

Nature of Requirement: Section 983.51 requires competitive selection of owner proposals in accordance with a housing authority's HUD-approved advertisement and unit selection policy.

Granted By: Michael Liu, Assistant Secretary for Public and Indian Housing.

Date Granted: December 22, 2003.

Reason Waived: MPHA requested a waiver of competitive selection of owner proposals to permit it to attach project-based assistance to Loring Towers. Approval to waive competitive selection was granted, since Loring Towers was competitively awarded low-income housing tax credits to obtain tax-exempt bonds and Preservation Affordable Rental Investment Funds (a “soft debt” without interest to be repaid at the end of the 30-year compliance period) by the Minnesota Housing Finance Agency.

Contact: Gerald Benoit, Director, Housing Voucher Management and Operations Division, Office of Public Housing and Voucher Programs, Office of Public and Indian Housing, Department of Housing and Urban Development, 451 Seventh Street, SW., Room 4210, Washington, DC 20410-5000, telephone (202) 708-0477.

• Regulation: 24 CFR 990.107(f) and 990.109.

Project/Activity: Harrisburg, PA, Housing Authority.

Nature of Requirement: Under 24 CFR 990.107 and 990.109, the Operating Fund Formula energy conservation incentive, which relates to energy performance contracting, applies to only PHA-paid utilities.

Granted By: Michael Liu, Assistant Secretary for Public and Indian Housing.

Date Granted: October 31, 2003.

Reason Waived: The Harrisburg Housing Authority has resident-paid utilities. The housing authority requested permission to benefit from energy performance contracting for developments that have resident-paid utilities. The housing authority estimated that it could increase energy savings substantially, if it were able to undertake energy performance contracting for its resident-paid utilities. In September 1996, the Oakland Housing Authority was granted a waiver to permit the authority to benefit from energy performance contracting for developments with resident-paid utilities. The waiver was granted on the basis that the authority had presented a sound and reasonable methodology for doing so. In 2003, the Harrisburg Housing Authority requested a waiver based on the same approved methodology. The waiver permits the housing authority to exclude from its calculation of rental income the increased rental income due to the difference between updated baseline utility allowances (before implementation of the energy conservation measures) and revised allowances (after implementation of the measures) for the project(s) involved for the duration of the contract period, which cannot exceed 12 years.

Contact: Chris Kubacki, Director, Public Housing Financial Management Division, Office of Public and Indian Housing Real Estate Assessment Center, 1280 Maryland Ave., SW., Suite 800, Washington, DC 20024-2135, telephone (202) 708-4932.

• Regulation: 24 CFR 990.107(f) and 990.109.

Project/Activity: Columbiana, OH, Metropolitan Housing Authority.

Nature of Requirement: Under 24 CFR 990, the Operating Fund Formula energy conservation incentive, which relates to energy performance contracting, currently applies to only PHA-paid utilities. The Columbiana Housing Authority has resident-paid utilities.

Granted By: Michael Liu, Assistant Secretary for Public and Indian Housing.

Date Granted: November 26, 2003.

Reason Waived: The Columbiana Housing Authority has resident-paid utilities. The housing authority requested permission to benefit from energy performance contracting for developments that have resident-paid utilities. The housing authority requested a waiver based on the same methodology approved for the Oakland Housing Authority in September 1996. The waiver permits the housing authority to exclude from its calculation of rental income the increased rental income due to the difference between updated baseline utility allowances (before implementation of the energy conservation measures) and revised allowances (after implementation of the measures) for the project(s) involved for the duration of the contract period, which cannot exceed 12 years.

Contact: Chris Kubacki, Director, Public Housing Financial Management Division, Office of Public and Indian Housing Real Estate Assessment Center, 1280 Maryland Ave., SW., Suite 800, Washington, DC 20024-2135, telephone (202) 708-4932.

• Regulation: 24 CFR 1000.336(b).

Project/Activity: Kickapoo Traditional Tribe of Texas, Eagle Pass, Texas.

Nature of Requirement: Section 1000.336 establishes a provision that a tribe, a tribally designated housing entity (TDHE), or HUD may request a waiver of the June 15 deadline to challenge data used to compute the formula allocation under the Indian Housing Block Grant (IHBG) program established by the Native American Housing Assistance and Self-Determination Act (NAHASDA) of 1996.

Granted By: Michael Liu, Assistant Secretary for Public and Indian Housing.

Date Granted: November 10, 2003.

Reason Waived: The Kickapoo Traditional Tribe requested permission to submit a census challenge after the June 15 deadline. The request regarded data used in computing their FY2003 IHBG formula allocation. In accordance with § 1000.336(b), tribes had to submit census challenges to HUD by June 15, 2003, for consideration for the FY2004 funding cycle. The decision to use Census 2000 data for six of the seven needs variables was made immediately prior to September 2003, and the tribe did not receive this information until after September 5, 2003. Therefore, it was not able to review its data in order to comply with this requirement before the June 15 deadline.

Contact: Deborah Lalancette, Director, Grants Management, Denver Program Office of Native American Programs (ONAP), Department of Housing and Urban Development, 1999 Broadway, Suite 3390, Denver, CO 80202-5733, telephone (303) 675-1625.

• Regulation: 24 CFR 1000.336(b).

Project/Activity: Calista Region of Alaska, Anchorage, Alaska, for the tribes that have designated the Association of Village Council Presidents Regional Housing Authority (AVCP). These tribes are Akiak Native Community, Alakanuk Traditional Council, Algaaciq Tribal Government, Bill Moore's Slough Elder's Council, Calista Regional Corporation, Chefornak Traditional Council, Chuathbaluk Traditional Council, Chuloonawick Tribe, Crooked Creek Traditional Council, Eek Traditional Council, Georgetown Tribal Council, Hamilton Tribal Council, Hooper Bay, Kasigluk Traditional Council, Kipnuk Traditional Council, Kongiganak Traditional Council, Kotlik Traditional Council, Marshall Traditional Council, Napaskiak Tribal Council, Native Village of Kwigillingok, Native Village of Mekoryuk, Native Village of Napakiak, Native Village of Paimiut, Native Village of Upper Kalskag, Native Village of Tununak, Newtok Traditional Council, Nightmute Traditional Council, Nunam Iqua Tribal Council, Nunakauyak Traditional Council, Nunapitchuk IRA Council, Ohagamiut Traditional Council, Oscarville Tribal Council, Pitka's Point Traditional Council, Red Devil Tribal Council, Scammon Bay Traditional Council, Stony River Traditional Council, Traditional Village of Platinum, Tuntutuliak Traditional Council, Umkumiut Traditional Council, Village of Lower Kalskag, and Yupiit of Andreasfski.

Nature of Requirement: Section 1000.336 establishes a provision that a tribe, a TDHE, or HUD may request a waiver of the June 15 deadline to challenge data used to compute the formula allocation under the IHBG program established by NAHASDA.

Granted By: Michael Liu, Assistant Secretary for Public and Indian Housing.

Date Granted: November 13, 2003.

Reason Waived: The request regarded data used in computing their FY2003 IHBG formula allocation. In accordance with § 1000.336(b), tribes must submit census challenges to HUD by June 15, 2003, for consideration for the FY2004 funding cycle. The decision to use Census 2000 data for six of the seven needs variables was made immediately prior to September 2003, and the tribes did not receive this information until after September 5, 2003. Therefore, they were not able to review their data in order to comply with this requirement before the June 15 deadline.

Contact: Deborah Lalancette, Director, Grants Management, Denver Program ONAP, Department of Housing and Urban Development, 1999 Broadway, Suite 3390, Denver, CO 80202-5733, telephone (303) 675-1625.

• Regulation: 24 CFR 1000.336(b).

Project/Activity: Round Valley Indian Housing Authority (RVIHA) Tribes, Covelo, California. The Round Valley Tribes include Little Lake, Pomo, Pit River, Concow, Wailacki, Nomlacki and Yuki.

Nature of Requirement: Section 1000.336 establishes a provision that a tribe, a TDHE, or HUD may request a waiver of the June 15 deadline to challenge data used to compute the formula allocation under the IHBG program established by NAHASDA.

Granted By: Michael Liu, Assistant Secretary for Public and Indian Housing.

Date Granted: November 26, 2003.

Reason Waived: The request regarded data used in computing their FY2003 IHBG formula allocation. In accordance with § 1000.336(b), tribes must submit census challenges to HUD by June 15, 2003, for consideration for the FY2004 funding cycle. The decision to use Census 2000 data for six of the seven needs variables was made immediately prior to September 2003, and the tribes did not receive this information until after September 5, 2003. Therefore, they were not able to review their data in order to comply with this requirement before the June 15 deadline.

Contact: Deborah Lalancette, Director, Grants Management, Denver Program ONAP, Department of Housing and Urban Development, 1999 Broadway, Suite 3390, Denver, CO 80202-5733, telephone (303) 675-1625.

• Regulation: 24 CFR 1000.336(b).

Project/Activity: Northern Circle Indian Housing Authority, located in Ukiah, California, on behalf of its member tribes. These tribes include Tyme Maidu Tribe of Berry Creek Rancheria, Guidiville Indian Rancheria, Hopland Band of Pomo Indians, Manchester Point Arena Band of Pomo Indians, Mooretown Rancheria, Redwood Valley Little River Band of Pomo Indians, Sherwood Valley Band of Pomo Indians, and Kashia Band of Pomo Indians of the Stewarts Point Rancheria.

Nature of Requirement: Section 1000.336 establishes a provision that a tribe, a TDHE, or HUD may request a waiver of the June 15 deadline to challenge data used to compute the formula allocation under the IHBG program established by NAHASDA.

Granted By: Michael Liu, Assistant Secretary for Public and Indian Housing.

Date Granted: November 26, 2003.

Reason Waived: The request regarded data used in computing their FY2003 IHBG formula allocation. In accordance with § 1000.336(b), tribes must submit census challenges to HUD by June 15, 2003, for consideration for the FY2004 funding cycle. The decision to use Census 2000 data for six of the seven needs variables was made immediately prior to September 2003, and the tribes did not receive this information until after September 5, 2003. Therefore, they were not able to review their data in order to comply with this requirement before the June 15 deadline.

Contact: Deborah Lalancette, Director, Grants Management, Denver Program ONAP, Department of Housing and Urban Development, 1999 Broadway, Suite 3390, Denver, CO 80202-5733, telephone (303) 675-1625.

• Regulation: Section II, subpart E, of the January 16, 2001, Federal Register notice, Revisions to PHA Project-Based Assistance (PBA) Program; Initial Guidance.

Project/Activity: BHA, Boston, MA.

Nature of Requirement: Section II, subpart E, of the January 16, 2001, Federal Register notice, Revisions to PHA Project-Based Assistance Program; Initial Guidance requires that all new project based assistance agreements or HAP contracts be for units in census tracts with poverty rates of less than 20 percent. The law requires that a contract for project-based assistance only be approved by a PHA if it is consistent with the goal of deconcentrating poverty and expanding housing and economic opportunities.

Granted By: Michael Liu, Assistant Secretary for Public and Indian Housing.

Date Granted: October 9, 2003.

Reason Waived: BHA requested an exception to the initial guidance to permit it to attach project-based assistance to 5 units located at 2055 Columbus Avenue. Approval of the exception for deconcentration was granted for 2055 Columbus Avenue, since the project is located in a HUD-designated Empowerment Zone, the purpose of which is to open new businesses and create jobs, housing, and new educational and healthcare opportunities.

Contact: Gerald Benoit, Director, Housing Vouchers Management and Operations Division, Office of Public Housing and Voucher Programs, Office of Public and Indian Housing, Department of Housing and Urban Development, 451 Seventh Street, SW., Room 4210, Washington, DC 20410-5000, telephone (202) 708-0477.

• Regulation: Section II, subpart E, of the January 16, 2001, Federal Register notice, Revisions to PHA Project-Based Assistance Program; Initial Guidance.

Project/Activity: BHA, Boston, MA.

Nature of Requirement: Section II, subpart E, of the January 16, 2001, Federal Register notice, Revisions to PHA Project-Based Assistance Program; Initial Guidance requires that all new project based assistance agreements or HAP contracts be for units in census tracts with poverty rates of less than 20 percent. The law requires that a contract for project-based assistance only be approved by a PHA if it is consistent with the goal of deconcentrating poverty and expanding housing and economic opportunities.

Granted By: Michael Liu, Assistant Secretary for Public and Indian Housing.

Date Granted: October 9, 2003.

Reason Waived: BHA requested an exception to the initial guidance to permit it to attach project-based assistance to 11 units located at 3033 and 3089 Washington Street. Approval of the exception for deconcentration was granted for 3033 and 3089 Washington Street, since the project is located in a HUD-designated Empowerment Zone, the purpose of which is to open new businesses and create jobs, housing, and new educational and healthcare opportunities for thousands of Americans.

Contact: Gerald Benoit, Director, Housing Vouchers Management and Operations Division, Office of Public Housing and Voucher Programs, Office of Public and Indian Housing, Department of Housing and Urban Development, 451 Seventh Street, SW., Room 4210, Washington, DC 20410-5000, telephone (202) 708-0477.

• Regulation: 24 CFR Section II, subpart F, of the January 16, 2001, Federal Register notice, Revisions to PHA Project-Based Assistance Program; Initial Guidance.

Project/Activity: Housing Authority of the City of Frederick (HACF), Frederick, MD.

Nature of Requirement: Section II, subpart F, of the initial guidance requires no more than 25 percent of the dwelling units in any building be assisted under a HAP contract for project-based assistance, except for dwelling units that are specifically made available for elderly families, disabled families, or families receiving supportive services. Until regulations are promulgated regarding the category of families receiving supportive services, HUD is authorizing implementation of this aspect of the law on a case-by-case basis.

Granted By: Michael Liu, Assistant Secretary for Public and Indian Housing.

Date Granted: November 4, 2003.

Reason Waived: HACF requested an exception to Section II, subpart F, of the initial guidance to attach project-based assistance to 100 percent of the units at North Market Manor. The approval of the exception to subpart F was based on the economic self-sufficiency nature of the services the families residing at the development would receive. The services included educational classes, health seminars, job skills training, after-school programs, financial workshops, and homeownership training.

Contact: Gerald Benoit, Director, Real Estate and Housing Performance Division, Office of Public and Assisted Housing Delivery, Office of Public and Indian Housing, Department of Housing and Urban Development, 451 Seventh Street, SW., Room 4210, Washington, DC 20410-5000, telephone (202) 708-0477.

• Regulation: Section II, subpart E, of the January 16, 2001, Federal Register notice, Revisions to PHA Project-Based Assistance (PBA) Program; Initial Guidance.

Project/Activity: New York City Housing Authority (NYCHA), New York, NY.

Nature of Requirement: Section II, subpart E, of the initial guidance requires that, in order to meet the Department's goal of deconcentration and expanding housing and economic opportunities, the projects must be in census tracts with poverty rates of less than 20 percent.

Granted By: Michael Liu, Assistant Secretary for Public and Indian Housing.

Date Granted: November 26, 2003.

Reason Waived: NYCHA requested an exception to the initial guidance for three projects, 500 West 56th Street, 1615 St. John's Place, and 527 Bushwick Avenue.

Approval of the exception for deconcentration was granted for 500 West 56th Street, since the census tract in which the project is located is one of 20 census tracts that comprise Manhattan Community District 4 (CD4). Commercial activities in this district include the 2.1 million square foot AOL-Time Warner center and a 540,000 square foot film and television production facility, Studio City. Specific commercial activity in the census tract includes the Cyber Center and the Image Group Studios. The commercial activity in CD4 will provide significant economic opportunities for its residents and the creation of more than 9,000 housing units, of which the majority will be market-rate housing.

Approval of the exception for deconcentration was granted for 1615 St. John's Place, since the project is located in a census tract that had a reduction of more than 13 percent in its poverty rate since 1990. The project is located in the East New York Empire Zone and, although the census tract in which this project is located is entirely residential, residents can avail themselves of the Empire Zone's services. Empire zones were designed to encourage local business development with government tax and other incentives. To expand their economic opportunities, 1,128 zone residents have participated in a self-sufficiency training program through the city's Department of Employment and Department of Parks and Recreation.

Approval of the exception for deconcentration was granted for 527 Bushwick Avenue, since the project is located in a census tract that had a reduction of more than 13 percent in its poverty rate since 1990. The project is located in the North Brooklyn/Brooklyn Navy Yard Empire Zone 53. The project will include a 15,000 square foot community facility that will be home to the Ridgewood Bushwick Homecare Council, Inc., a nonprofit group that will serve 2,500 area senior residents and employ and train over 1,500 people.

Contact: Gerald Benoit, Director, Housing Voucher Management and Operations Division, Office of Public Housing and Voucher Programs, Office of Public and Indian Housing, Department of Housing and Urban Development, 451 Seventh Street, SW., Room 4210, Washington, DC 20410-5000, telephone (202) 708-0477.

[FR Doc. 04-17522 Filed 8-3-04; 8:45 am]

BILLING CODE 4210-32-P